DEPARTMENT OF HEALTH AND HUMAN SERVICES

Centers for Medicare & Medicaid Services

[CMS-9036-N]

Medicare and Medicaid Programs; Quarterly Listing of Program Issuances—April Through June 2006

AGENCY: Centers for Medicare & Medicaid Services (CMS), HHS.

ACTION: Notice.

SUMMARY: This notice lists CMS manual instructions, substantive and interpretive regulations, and other Federal Register notices that were published from April 2006 through June 2006, relating to the Medicare and Medicaid programs. This notice provides information on national coverage determinations (NCDs) affecting specific medical and health care services under Medicare. Additionally, this notice identifies certain devices with investigational device exemption (IDE) numbers approved by the Food and Drug Administration (FDA) that potentially may be covered under Medicare. This notice also includes listings of all approval numbers from the Office of Management and Budget for collections of information in CMS regulations and a list of Medicare-approved carotid stent facilities. In addition, for the first time, we are also including a list of the American College of Cardiology's National Cardiovascular Data registry sites, active CMS coverage-related guidance documents, and special one-time notices regarding national coverage provisions.

Section 1871(c) of the Social Security Act requires that we publish a list of Medicare issuances in the Federal Register at least every 3 months. Although we are not mandated to do so by statute, for the sake of completeness of the listing, and to foster more open and transparent collaboration efforts, we are also including all Medicaid issuances and Medicare and Medicaid substantive and interpretive regulations (proposed and final) published during this 3-month time frame.

FOR FURTHER INFORMATION CONTACT: It is possible that an interested party may have a specific information need and not be able to determine from the listed information whether the issuance or regulation would fulfill that need. Consequently, we are providing information contact persons to answer general questions concerning these items. Copies are not available through the contact persons. (See Section III of this notice for how to obtain listed material.)

Questions concerning items in Addendum III may be addressed to Timothy Jennings, Office of Strategic Operations and Regulatory Affairs, Centers for Medicare & Medicaid Services, C4-26-05, 7500 Security Boulevard, Baltimore, MD 21244-1850, or you can call (410) 786-2134.

Questions concerning Medicare NCDs in Addendum V may be addressed to Patricia Brocato-Simons, Office of Clinical Standards and Quality, Centers for Medicare & Medicaid Services, C1-09-06, 7500 Security Boulevard, Baltimore, MD 21244-1850, or you can call (410) 786-0261.

Questions concerning FDA-approved Category B IDE numbers listed in Addendum VI may be addressed to John Manlove, Office of Clinical Standards and Quality, Centers for Medicare & Medicaid Services, C1-13-04, 7500 Security Boulevard, Baltimore, MD 21244-1850, or you can call (410) 786-6877.

Questions concerning approval numbers for collections of information in Addendum VII may be addressed to Melissa Musotto, Office of Strategic Operations and Regulatory Affairs, Regulations Development and Issuances Group, Centers for Medicare & Medicaid Services, C5-14-03, 7500 Security Boulevard, Baltimore, MD 21244-1850, or you can call (410) 786-6962.

Questions concerning Medicare-approved carotid stent facilities in Addendum VIII may be addressed to Sarah J. McClain, Office of Clinical Standards and Quality, Centers for Medicare & Medicaid Services, C1-09-06, 7500 Security Boulevard, Baltimore, MD 21244-1850, or you can call (410) 786-2994.

Questions concerning Medicare's recognition of the American College of Cardiology-National Cardiovascular Data Registry sites in Addendum IX may be addressed to JoAnna Baldwin, MS, Office of Clinical Standards and Quality, Centers for Medicare & Medicaid Services, C1-09-06, 7500 Security Boulevard, Baltimore, MD 21244-1850, or you can call (410) 786-7205.

Questions concerning Medicare's active coverage-related guidance documents in Addendum X may be addressed to Kimberly Long, Office of Clinical Standards and Quality, Centers for Medicare & Medicaid Services, C1-09-06, 7500 Security Boulevard, Baltimore, MD 21244-1850, or you can call (410) 786-5702.

Questions concerning one-time notices regarding national coverage provisions in Addendum XI may be addressed to Ellie Lund, Office of Clinical Standards and Quality, Centers for Medicare & Medicaid Services, C1-09-06, 7500 Security Boulevard, Baltimore, MD 21244-1850, or you can call (410) 786-2281.

Questions concerning all other information may be addressed to Gwendolyn Johnson, Office of Strategic Operations and Regulatory Affairs, Regulations Development Group, Centers for Medicare & Medicaid Services, C5-14-03, 7500 Security Boulevard, Baltimore, MD 21244-1850, or you can call (410) 786-6954.

SUPPLEMENTARY INFORMATION:

I. Program Issuances

The Centers for Medicare & Medicaid Services (CMS) is responsible for administering the Medicare and Medicaid programs. These programs pay for health care and related services for 39 million Medicare beneficiaries and 35 million Medicaid recipients. Administration of the two programs involves (1) furnishing information to Medicare beneficiaries and Medicaid recipients, health care providers, and the public and (2) maintaining effective communications with regional offices, State governments, State Medicaid agencies, State survey agencies, various providers of health care, all Medicare contractors that process claims and pay bills, and others. To implement the various statutes on which the programs are based, we issue regulations under the authority granted to the Secretary of the Department of Health and Human Services under sections 1102, 1871, 1902, and related provisions of the Social Security Act (the Act). We also issue various manuals, memoranda, and statements necessary to administer the programs efficiently.

Section 1871(c)(1) of the Act requires that we publish a list of all Medicare manual instructions, interpretive rules, statements of policy, and guidelines of general applicability not issued as regulations at least every 3 months in the Federal Register. We published our first notice June 9, 1988 (53 FR 21730). Although we are not mandated to do so by statute, for the sake of completeness of the listing of operational and policy statements, and to foster more open and transparent collaboration, we are continuing our practice of including Medicare substantive and interpretive regulations (proposed and final) published during the respective 3-month time frame.

II. How to Use the Addenda

This notice is organized so that a reader may review the subjects of manual issuances, memoranda, substantive and interpretive regulations, NCDs, and FDA-approved IDEs published during the subject quarter to determine whether any are of particular interest. We expect this notice to be used in concert with previously published notices. Those unfamiliar with a description of our Medicare manuals may wish to review Table I of our first three notices (53 FR 21730, 53 FR 36891, and 53 FR 50577) published in 1988, and the notice published March 31, 1993 (58 FR 16837). Those desiring information on the Medicare NCD Manual (NCDM, formerly the Medicare Coverage Issues Manual (CIM)) may wish to review the August 21, 1989, publication (54 FR 34555). Those interested in the revised process used in making NCDs under the Medicare program may review the September 26, 2003, publication (68 FR 55634).

To aid the reader, we have organized and divided this current listing into eight addenda:

• Addendum I lists the publication dates of the most recent quarterly listings of program issuances.

• Addendum II identifies previous Federal Register documents that contain a description of all previously published CMS Medicare and Medicaid manuals and memoranda.

• Addendum III lists a unique CMS transmittal number for each instruction in our manuals or Program Memoranda and its subject matter. A transmittal may consist of a single or multiple instruction(s). Often, it is necessary to use information in a transmittal in conjunction with information currently in the manuals.

• Addendum IV lists all substantive and interpretive Medicare and Medicaid regulations and general notices published in the Federal Register during the quarter covered by this notice. For each item, we list the—

○ Date published;

○ Federal Register citation;

○ Parts of the Code of Federal Regulations (CFR) that have changed (if applicable);

○ Agency file code number; and

○ Title of the regulation.

• Addendum V includes completed NCDs, or reconsiderations of completed NCDs, from the quarter covered by this notice. Completed decisions are identified by the section of the NCDM in which the decision appears, the title, the date the publication was issued, and the effective date of the decision.

• Addendum VI includes listings of the FDA-approved IDE categorizations, using the IDE numbers the FDA assigns. The listings are organized according to the categories to which the device numbers are assigned (that is, Category A or Category B), and identified by the IDE number.

• Addendum VII includes listings of all approval numbers from the Office of Management and Budget (OMB) for collections of information in CMS regulations in title 42; title 45, subchapter C; and title 20 of the CFR.

• Addendum VIII includes listings of Medicare-approved carotid stent facilities. All facilities listed meet CMS standards for performing carotid artery stenting for high risk patients.

• Addendum IX includes a list of the American College of Cardiology's National Cardiovascular Data registry sites. We cover implantable cardioverter defibrillators (ICDs) for certain indications, as long as information about the procedures is reported to a central registry.

• Addendum X includes a list of active CMS guidance documents. As required by section 731 of the Medicare Prescription Drug, Improvement, and Modernization Act of 2003 (MMA) (Pub. L. 108-173, enacted on December 8, 2003), we will begin listing the current versions of our guidance documents in each quarterly listings notice.

• Addendum XI includes a list of special one-time notices regarding national coverage provisions. We are publishing a list of issues that require public notification, such a particular clinical trial or research study that qualifies for Medicare coverage.

III. How To Obtain Listed Material

A. Manuals

Those wishing to subscribe to program manuals should contact either the Government Printing Office (GPO) or the National Technical Information Service (NTIS) at the following addresses: Superintendent of Documents, Government Printing Office, ATTN: New Orders, P.O. Box 371954, Pittsburgh, PA 15250-7954, Telephone (202) 512-1800, Fax number (202) 512-2250 (for credit card orders); or National Technical Information Service, Department of Commerce, 5825 Port Royal Road, Springfield, VA 22161, Telephone (703) 487-4630.

In addition, individual manual transmittals and Program Memoranda listed in this notice can be purchased from NTIS. Interested parties should identify the transmittal(s) they want. GPO or NTIS can give complete details on how to obtain the publications they sell. Additionally, most manuals are available at the following Internet address: http://cms.hhs.gov/manuals/default.asp.

B. Regulations and Notices

Regulations and notices are published in the daily Federal Register. Interested individuals may purchase individual copies or subscribe to the Federal Register by contacting the GPO at the address given above. When ordering individual copies, it is necessary to cite either the date of publication or the volume number and page number.

The Federal Register is also available on 24x microfiche and as an online database through GPO Access. The online database is updated by 6 a.m. each day the Federal Register is published. The database includes both text and graphics from Volume 59, Number 1 (January 2, 1994) forward. Free public access is available on a Wide Area Information Server (WAIS) through the Internet and via asynchronous dial-in. Internet users can access the database by using the World Wide Web; the Superintendent of Documents home page address is http://www.gpoaccess.gov/fr/index.html, by using local WAIS client software, or by telnet to swais.gpoaccess.gov, then log in as guest (no password required). Dial-in users should use communications software and modem to call (202) 512-1661; type swais, then log in as guest (no password required).

C. Rulings

We publish rulings on an infrequent basis. Interested individuals can obtain copies from the nearest CMS Regional Office or review them at the nearest regional depository library. We have, on occasion, published rulings in the Federal Register. Rulings, beginning with those released in 1995, are available online, through the CMS Home Page. The Internet address is http://cms.hhs.gov/rulings.

D. CMS, Compact Disk-Read Only Memory (CD-ROM)

Our laws, regulations, and manuals are also available on CD-ROM and may be purchased from GPO or NTIS on a subscription or single copy basis. The Superintendent of Documents list ID is HCLRM, and the stock number is 717-139-00000-3. The following material is on the CD-ROM disk:

• Titles XI, XVIII, and XIX of the Act.

• CMS-related regulations.

• CMS manuals and monthly revisions.

• CMS program memoranda.

The titles of the Compilation of the Social Security Laws are current as of January 1, 2005. (Updated titles of the Social Security Laws are available on the Internet at http://www.ssa.gov/OP_Home/ssact/comp-toc.htm.) The remaining portions of CD-ROM are updated on a monthly basis.

Because of complaints about the unreadability of the Appendices (Interpretive Guidelines) in the State Operations Manual (SOM), as of March 1995, we deleted these appendices from CD-ROM. We intend to re-visit this issue in the near future and, with the aid of newer technology, we may again be able to include the appendices on CD-ROM.

Any cost report forms incorporated in the manuals are included on the CD-ROM disk as LOTUS files. LOTUS software is needed to view the reports once the files have been copied to a personal computer disk.

IV. How To Review Listed Material

Transmittals or Program Memoranda can be reviewed at a local Federal Depository Library (FDL). Under the FDL program, government publications are sent to approximately 1,400 designated libraries throughout the United States. Some FDLs may have arrangements to transfer material to a local library not designated as an FDL. Contact any library to locate the nearest FDL.

In addition, individuals may contact regional depository libraries that receive and retain at least one copy of most Federal Government publications, either in printed or microfilm form, for use by the general public. These libraries provide reference services and interlibrary loans; however, they are not sales outlets. Individuals may obtain information about the location of the nearest regional depository library from any library. For each CMS publication listed in Addendum III, CMS publication and transmittal numbers are shown. To help FDLs locate the materials, use the CMS publication and transmittal numbers. For example, to find the Medicare NCD publication titled “Cardiac Rehabilitation Programs,” use CMS-Pub. 100-03, Transmittal No. 52.

(Catalog of Federal Domestic Assistance Program No. 93.773, Medicare—Hospital Insurance, Program No. 93.774, Medicare—Supplementary Medical Insurance Program, and Program No. 93.714, Medical Assistance Program)

Dated: September 16, 2006.
Jacquelyn Y. White,
Director, Office of Strategic Operations and Regulatory Affairs.

Addendum I

This addendum lists the publication dates of the most recent quarterly listings of program issuances.

March 26, 2004 (69 FR 15837)

June 25, 2004 (69 FR 35634)

September 24, 2004 (69 FR 57312)

December 30, 2004 (69 FR 78428)

February 25, 2005 (70 FR 9338)

June 24, 2005 (70 FR 36620)

September 23, 2005 (70 FR 55863)

December 23, 2005 (70 FR 76290)

March 24, 2006 (71 FR 14903)

June 23, 2006 (71 FR 36101)

Addendum II—Description of Manuals, Memoranda, and CMS Rulings

An extensive descriptive listing of Medicare manuals and memoranda was published on June 9, 1988, at 53 FR 21730 and supplemented on September 22, 1988, at 53 FR 36891 and December 16, 1988, at 53 FR 50577. Also, a complete description of the former CIM (now the NCDM) was published on August 21, 1989, at 54 FR 34555. A brief description of the various Medicaid manuals and memoranda that we maintain was published on October 16, 1992, at 57 FR 47468.

Addendum III.—Medicare and Medicaid Manual Instructions
[April Through June 2006]
Transmittal No. | Manual/Subject/Publication No.
Medicare General Information (CMS—Pub. 100-01)
37 | Scheduled Release for July 2006 Software Programs and Pricing/Coding Files.
38 | Files Maintenance Program Update to the Internet-Only Manual.
| Files Maintenance.
| Files Maintenance Program—General.
| Description of Records Maintained.
| Definition of a Record.
| Implementing a Files Management Program.
| Record Retention and Disposal Schedule.
| Disposition Instructions—Destruction of Records.
| Disposition Instructions When Operating Under a Freeze.
| Disposition Instructions When Medicare Records Are Microfilmed.
| Disposition for Paper-Only Medicare Records.
| Disposition for Medicare Records That Are Imaged/Scanned.
| Disposition for Medicare Records When Potential Fraud or Overutilization Has Been Identified.
| Description of Records.
| Retention of Claims File Materials.
| Segment File Accumulation Period.
| Standard Retention Periods—Microfilmed Claims.
| Retention Period Microfilmed Material.
| Microfilming of Files Material.
| Microfilming Procedures.
| Microfilming Index Label.
| Retention and Destruction of Microfilm.
| Annual Report of Medicare Records.
| Disposition of Non-Claims Materials.
| Standards for All Records Storage Facilities.
39 | Update—Inpatient Psychiatric Facilities Prospective Payment System Rate Year 2007.
| Inpatient Psychiatric Facility Services Certification and Recertification.
Medicare Benefit Policy (CMS—Pub. 100-02)
50 | Immunosuppressive Therapy For Kidney Transplant.
| Physicians Services for Kidney Transplants.
51 | Requirements for Diagnostic X-Ray, Diagnostic Laboratory, and Other Diagnostic Tests; Clinical Psychologist Services.
| Types of Clinical Psychologist Services That May Be Covered.
52 | Therapy Caps Exception Process.
| Coverage of Outpatient Rehabilitation Therapy Services (Physical Therapy, Occupational Therapy, and Speech-Language Pathology Services) Under Medical Insurance.
| Documentation Requirements for Therapy Services.
Medicare National Coverage Determinations (CMS—Pub. 100-03)
51 | Nesiritide for Treatment of Heart Failure Patients.
52 | Cardiac Rehabilitation Programs.
53 | Clarification on Billing Requirements for Percutaneous Transluminal.
| Angioplasty Concurrent With the Placement of an Investigational or FDA-Approved Carotid Stent.
54 | Bariatric Surgery for Treatment of Morbid Obesity.
| Treatment of Obesity (Effective February 21, 2006).
| Bariatric Surgery for Treatment of Morbid Obesity (Effective February 21, 2006).
55 | Changes Conforming to CR3648 for Therapy Services.
| Neuromuscular Electrical Stimulator.
| Speech-Language Pathology Services for the Treatment of Dysphagia.
| Home Health Visits to a Blind Diabetic.
56 | Pancreas Transplants Alone.
| Pancreas Transplants (Effective April 26, 2006).
57 | Home Use of Oxygen in Approved Clinical Trials.
| Home Use of Oxygen in Approved Clinical Trials (Effective March 20, 2006).
58 | Intestinal and Multi-Visceral Transplantation.
59 | Non-Autologous Blood Derived Products for Chronic Non-Healing Wounds.
| Blood-Derived Products for Chronic Non-Healing Wounds (Effective April 27, 2006).
60 | Lumbar Artificial Disc Replacement.
Medicare Claims Processing (CMS Pub. 100-04)
900 | Update to Chapter 24 CMS Web site URL References.
| Electronic Data Interchange User Guidelines.
| General Health Insurance Portability Accountability Act Electronic Data Interchange Requirements.
| Continued Support of Pre-Health Insurance Portability Accountability Act Electronic Data Interchange Formats.
901 | New National Uniform Billing Committee Codes and Other Chapter 25 Revisions—Revision to the Internet-Only Manual.
902 | Hospital Outpatient Prospective Payment System Manual Revision:
| Clarification of Coding and Payment for Drug Administration.
| Coding and Payment for Drug Administration.
903 | Payment for Blood Clotting Factors Administered to Hemophilia Inpatients.
| Non Pass-Through Drugs.
904 | Issued to a specific audience, not posted to Internet/Intranet due to Confidentiality of Instruction.
905 | This Transmittal is rescinded and replaced by Transmittal 913.
906 | Full Replacement for Change Request 4266, Revision for Health Professional Shortage Area and Physician Scarcity Area Bonus Billing for Some Globally Billed Services. Change Request 4266 is rescinded.
| Services Eligible for Health Professional Shortage Area and Physician Scarcity Bonus Payment.
907 | Modify Common Working File Edit 51#L.
908 | Common Working File to the Medicare Beneficiary Database Data Exchange Changes.
| The Financial Limitation.
| Provider Access to Smoking and Tobacco-Use Cessation Counseling.
| Service Eligibility Data.
909 | Cardiac Rehabilitation Programs.
| Coding Requirements.
910 | New Current Procedural Terminology Codes.
911 | Clarification on Billing Requirements for Percutaneous Trans­lu­mi­nal Angioplasty Concurrent With the Placement of an Investigational or FDA-Approved Carotid Stent.
| Percutaneous Transluminal Angioplasty for Implanting the Carotid Stent.
| Category B Investigational Device Exemptions Trial Coverage.
| Post Approval Study Coverage.
| Carotid Artery Stenting With Embolic Protection Coverage.
912 | Issued to a specific audience, not posted to Internet/Intranet due to Sensitivity of Instruction.
913 | Mammography Quality Standard Act File.
914 | Additional $50 Payment for New Technology Intraocular Lenses Furnished in Ambulatory Surgical Centers.
| Ambulatory Surgical Center Services on Ambulatory Surgical Center List Payment for Intraocular Lenses.
915 | Common Working File, Viable Medicare Systems and Fiscal Intermediary Shared System Analysis—Changes in Payment for Oxygen Equipment due to the Deficit Reduction Act of 2005.
916 | Correct Reporting of Diagnosis Codes on Screening Mammography Claims.
| Healthcare Common Procedure Coding System and Diagnosis Codes for Mammography Services.
| Billing Requirements—Fiscal Intermediary Claims.
917 | Update of ICD-9 Codes Used in Common Working File Editing of Oral Anti-Cancer and Oral Anti-Emetic Drugs.
918 | General Provider Education for Changes in the Payment for Oxygen Equipment and Capped Rentals for Durable Medical Equipment Based on the Deficit Reduction Act of 2005.
919 | Issued to a specific audience, not posted to Internet/Intranet due to Confidentiality of Instruction.
920 | Issued to a specific audience, not posted to Internet/Intranet due to Confidentiality of Instruction.
921 | Reporting of Diagnosis Code V06.6 on Influenza Virus and/or Pneumococcal Pneumonia Virus Vaccine Claims and Acceptance of Current Procedural Terminology Code 90660 for the Reporting of the Influenza Virus Vaccine.
| Healthcare Common Procedure Coding System and Diagnosis Codes.
922 | Medicare Summary Notice Format Changes for Durable Medical Equipment Regional Carriers and the Durable Medical Equipment Maximum Allowable Charge.
| Title Section of the Medicare Summary Notice.
| Appeals Section.
923 | Update of Radiopharmaceutical Imaging Agents Healthcare Common.
| Procedure Coding System Codes Applicable to Positron Emission Tomography Tracer Codes Required for Positron Emission Tomography Scans.
924 | Adjustment to Health Professional Shortage Area Contractor Zip Code File Indicators.
925 | Installation of July Pricing Software Containing the Customer Information Control System Formatting Update.
926 | Common Working File Change for Skilled Nursing Facility Consolidated Billing.
| Annual Update Process.
927 | Medicare Remit Easy Print Update.
928 | July Quarterly Update for 2006 Durable Medical Equipment, Prosthetics, Orthotics, and Supplies Fee Schedule.
929 | Viable Medicare System and Fiscal Intermediary Shared System Analysis—Changes in Capped Rentals for Durable Medical Equipment Due to the Deficit Reduction Act of 2005.
930 | Benefits Exhaust and No-Payment Billing Instructions for Medicare Fiscal Intermediaries and Skilled Nursing Facilities.
| Inpatient Billing From Hospitals and Skilled Nursing Facilities.
| Total and Noncovered Charges.
| Ending a Benefit Period.
| Billing in Benefits Exhaust and No-Payment Situations.
| Other Billing Situations.
931 | Billing Requirements for Bariatric Surgery for Treatment for Morbid Obesity.
| General.
| Healthcare Common Procedure Coding System Coding for Bariatric Procedures.
| ICD-9/Diagnosis Codes for Bariatric Surgery.
| Reasons for Denial and Medicare Summary Notice, Remittance.
| Advice Codes and Claims Adjustment Reason Code Messages.
| Fiscal Intermediary Billing Requirements.
| ICD-9 Procedure Codes for Bariatric Procedures.
| Non-Covered ICD-9 Procedure Code for Bariatric Surgery.
| Advance Beneficiary Notice and Hospital-Issued Notice of Noncoverage Information.
932 | Competitive Acquisition Program for Part B Drugs Physician Election.
933 | Issued to a specific audience, not posted to Internet/Intranet due to Confidentiality of Instruction.
934 | Issued to a specific audience not posted to Internet/Intranet due to Confidentiality of Instruction.
935 | Issued to a specific audience not posted to Internet/Intranet due to Confidentiality of Instruction.
936 | Issued to a specific audience not posted to Internet/Intranet due to Confidentiality of Instruction.
937 | Issued to a specific audience not posted to Internet/Intranet due to Confidentiality of Instruction.
938 | The Inpatient Rehabilitation Facility Prospective Payment System.
| Criteria That Must Be Met By Inpatient Rehabilitation Hospitals.
| Counting a Comorbidity as one of the Listed Medical Conditions.
| Verification Process Used To Determine if the Inpatient Rehabilitation Facility Met the Classification Criteria.
| New and Converted Inpatient Rehabilitation Facility Units.
939 | Issued to a specific audience not posted to Internet/Intranet due to Confidentiality of Instruction.
940 | This Transmittal is rescinded and replaced by Transmittal 944.
941 | Changes Conforming to CR 3648 Instructions for Therapy Services.
| Billing Procedures for Entities Qualified to Receive Payment on Basis of Reassignment—for Carrier Processed Claims.
| Payment for Services Furnished After Termination, Expiration, or Cancellation of Provider Agreement.
| When Beneficiary Statement Is Not Required for Physician/Supplier Claim.
| Frequency of Billing for Outpatient Services to Fiscal Intermediaries.
| Time Limitation of Claims for Outpatient Physical Therapy or Speech Language Pathology Services Furnished by Clinic Providers.
| Carrier Specific Requirements for Certain Specialties/Services.
| Definition of Provider and Supplier.
| Provider Access to CMS and Carrier or Fiscal Intermediary Eligibility Data.
| Non-emergency Part B Medical and Other Health Services.
| Criteria That Must Be Met By Inpatient Rehabilitation Hospitals
| Background.
| Inpatient Part B Hospital Services.
| Healthcare Common Procedure Coding System Coding Requirement
| Reporting of Service Units With Healthcare Common Procedure Coding System—Form CMS-1500 and Form CMS-1450.
| Applicable Revenue Codes—Fiscal Intermediaries.
| Proper Reporting of Code G0128 by Comprehensive Outpatient.
| Rehabilitation Facilities—Fiscal Intermediaries.
| Consolidated Billing Requirement for Skilled Nursing Facilities.
| Types of Services Subject to the Consolidated Billing Requirement for Skilled Nursing Facilities.
| Furnishing Services That Are Subject to Skilled Nursing Facility.
| Consolidated Billing Under an “Arrangement” With an Outside Entity.
| Physician's Services and Other Professional Services Excluded From Part A Prospective Payment System Payment and the Consolidated Billing Requirement.
| Utilization Edits.
| Billing for Inpatient Skilled Nursing Facility Services Paid Under Part B.
| Audiologic Tests.
| Adjustments of Episode Payment—Therapy Threshold.
| Medical and Other Health Services Not Covered Under the Plan of Care (Bill Type 34X).
| Carrier Processing of Claims for Hospice Beneficiaries.
| Bill Type Codes and Allowable Provider Numbers.
| Items 14-33—Provider of Service of Supplier Information.
| Place of Service Codes and Definitions.
| Inpatient, Skilled Nursing Facility, Outpatient, Home Health, and Hospice Consistency Error Codes.
| A/B Crossover Error Codes.
942 | Ambulatory Surgical Center Claims Processing Manual Clarification.
| Services Furnished in Ambulatory Surgery Centers Which Are Not Ambulatory Surgery Center Facility Services.
| Coverage of Services in Ambulatory Surgery Centers Which Are Not Ambulatory Surgery Center Facility Services.
943 | Deported Medicare Beneficiaries.
| Claims Processing Requirements for Deported Beneficiaries.
| Implementation of Payment Policy for Deported Beneficiaries.
944 | Full Replacement of CR 4349, Hold on Medicare Payments. CR 4349 Is Rescinded.
945 | This Transmittal is rescinded and replaced by Transmittal 955.
946 | Instructions for Downloading the Medicare Zip Code File.
947 | New Waived Tests.
948 | Stage 2 National Provider Identifier Changes for Transaction 835, and Standard Paper Remittance Advice, and Changes in Medicare Claims Processing Manual, Chapter 22—Remittance Advice.
| Background.
| General Remittance Completion Requirements.
| Remittance Balancing.
| American National Standard Institute Accredited Standards.
| Committee X12N 835.
| Generating an Electronic Remittance Advice if Required Data Is Missing or Invalid.
| Medicare Standard Electronic Personal Computer Print Software for Institutional Providers.
| Medicare Remit Easy Print Software for Professional Providers and Suppliers.
| Implementation Guide.
| Standard Paper Remittance Advice.
| Standard Paper Remittance Formats.
| Part A/Fiscal Intermediaries/Regional Home Health Intermediaries.
| Standard Paper Remittance Format.
| Part B/Carrier and Durable Medical Equipment Regional Carrier.
| Standard Paper Remittance Format.
| Carrier and Durable Medical Equipment Regional Carrier Standard.
| Paper Remittance Crosswalk to the 835.
| Claim Adjustment Reason Codes.
| Remittance Advice Remark Codes.
| Group Codes.
| Fiscal Intermediary/Regional Home Health Intermediary Requirement.
| Changes to Accommodate Outpatient Prospective Payment System and Home Health Prospective Payment System.
| Items Not Included in Home Health Prospective Payment System Episode Payment.
| 835 Version 3051.4A.01 Line Level Reporting Requirements for the Claim Payment in an Episode More Than Four Visits.
| 835 Version 3051.4A.01 Line Level Reporting Requirements for the Claim Payment in an Episode Four or Fewer Visits.
949 | Billing Clarification for J2505, Pegfilgrastim.
950 | Realignment of States and Medicare Claims Processing Workload from the Current Durable Medical Equipment Regional Carrier Regions A and B to the Durable Medical Equipment Maximum Allowable Cost Jurisdictions A and B.
| This Change Request Rescinds and Replaces Change Request 4002.
951 | Payment for Carotid Artery Stenting Post-Approval Extension Studies.
952 | Administrative Simplification Compliance Act Review Revisions.
| Exceptions.
| Unusual Circumstance Waivers Subject to Provider Self-Assessment.
| Unusual Circumstance Waivers Subject to Contractor Evaluation and CMS Decision.
| Enforcement.
| Fiscal Intermediary Shared System Role in Administration Simplification.
| Compliance Act Enforcement.
| Multi-Carrier System & Viable Medicare System Roles in Administration Simplification Compliance Act Enforcement.
| Contractor Roles in Administration Simplification Compliance Act Reviews.
953 | Competitive Acquisition Program—Creation of Automated Tables for Provider Information, Expansion of CAP Fee Schedule File Layout, and Additional Instructions for Claims Received from Railroad Retirement Board Beneficiaries.
| Competitive Acquisition Program Claims Submitted with Only the No Pay Line.
| Competitive Acquisition Program Fee Schedule.
| Changes to the List of Drugs Supplied by Approved Competitive Acquisition Program Vendors.
954 | Payment for Evaluation and Management Services Provided During Global Period of Surgery.
955 | Quarterly Medicare Summary Notice Printing Cycle.
| General Medicare Summary Notices Requirements.
| General Requirements for the Medicare Summary Notices.
| Claims Information Section.
| General Information Section.
| Sección De Información General.
956 | Payment for Positron Emission Tomography Scans in CMS-Approved Clinical Trials and Coverage With Evidence Development—Use of QR and QV Modifiers.
| Coverage for Positron Emission Tomography Scans for Dementia and Neurodegenerative Diseases.
| Billing Requirements for CMS-Approved Clinical Trial Claims for Positron Emission Tomography Scans for Neurodegenerative Diseases, Previously Specified Cancer Indications, and All Other Cancer Indications Not Previously Specified.
957 | Pancreas Transplants Alone.
| Pancreas Transplants with Kidney Transplants.
958 | Chapter 24 Update to the National Council for Prescription Drug Program.
| Narrative Portion of Prior Authorization Segment.
959 | Changes to the Laboratory National Coverage Determination Edit Software for July 2006.
960 | July 2006 Non-Outpatient Prospective Payment System Outpatient Code Editor Specifications Version 21.3.
961 | Home Use of Oxygen in Approved Clinical Trials.
| Durable Medical Equipment Prosthetic, Orthotics & Supplies Clinical Trials and Demonstrations.
962 | July 2006 Outpatient Prospective Payment System Code Editor Specifications Version 7.2.
963 | July Update to the 2006 Medicare Physician Fee Schedule Database.
964 | This Transmittal is rescinded and replaced by Transmittal 973.
965 | Quarterly Update to Correct Coding Initiative (CCI) Edits, Version 12.2, Effective July 1, 2006.
966 | Intestinal and Multi-Visceral Transplants.
967 | Modification to the Coordination of Benefits Agreement Claims Selection Criteria and File Transfer Protocols.
| Consolidated Claims Crossover Process.
| Claims Crossover Disposition Indicators.
| Consolidation of the Claims Crossover Process.
968 | Chemotherapy Administration and Nonchemotherapy Injection and Infusion Coding and Payment Policy—Update to Pub. 100-04 Medicare Claims Processing Manual.
| Payment for Codes for Chemotherapy Administration and Nonchemotherapy Injections and Infusions.
969 | July 2006 Maintenance and Update of the Temporary Hook Created to Hold Outpatient Prospective Payment System Claims That Include Certain Drug Healthcare Common Procedure Coding System Codes.
970 | July 2006 Update of the Hospital Outpatient Prospective Payment System: Summary of Payment Policy Changes.
971 | Clarification Regarding Effective Dates for Carrier Claim Adjustments: Denied Replacement Defibrillator Claims Lacking a QR Modifier.
972 | October 2006 Maintenance and Update of the Temporary Hook Created to Hold Outpatient Prospective Payment System Claims That Include Certain Drugs Healthcare Common Procedure Coding System Codes.
973 | Issued to a specific audience, not posted to Internet/Intranet due to Confidentiality of Instruction.
974 | July 2006 Quarterly Average Sales Price Medicare Part B Drug Pricing File, Effective July 1, 2006, and Revisions to January 2006 and April 2006 Quarterly Average Sale Price Medicare Part B Drug Pricing Files.
975 | Ambulatory Surgical Center Claims Processing Manual Clarification Services Furnished in Ambulatory Surgery Centers Which Are Not Ambulatory Service Center Facility Services.
| Coverage of Services in Ambulatory Surgery Centers Which Are Not Ambulatory Surgery Center Facility Services.
976 | Billing of Temporary ‘C’ Healthcare Common Procedure Coding System Code by Non-Outpatient Prospective Payment System Providers.
| Standard Method—Cost Based Facility Services, With Billing of Carrier for Professional Services.
977 | Non-Autologous Blood Derived Products for Chronic Non-Healing Wounds.
978 | Update-Inpatient Psychiatric Facilities Prospective Payment System Rate Year 2007.
979 | Cardiovascular System (Codes 92950-93799).
980 | Changes Conforming to CR 3648 Instructions for Therapy Services.
| Billing Procedures for Entities Qualified to Receive Payment on Basis of Reassignment for Carrier Processed Claims.
| Payment for Services Furnished After Termination, Expiration, or Cancellation of Provider Agreement.
| When Beneficiary Statement Is Not Required for Physician/Supplier Claim.
| Frequency of Billing for Outpatient Services to Fiscal Intermediaries.
| Time Limitation of Claims for Outpatient Physical Therapy or Speech-Language.
| Pathology Services Furnished by Clinic Providers.
| Carrier Specific Requirements for Certain Specialties/Services.
| Definition of Provider and Supplier.
| Provider Access to CMS and Carrier or Fiscal Intermediary Eligibility Data.
| Non-emergency Part B Medical and Other Health Services.
| Criteria That Must Be Met by Inpatient Rehabilitation Hospitals.
| Inpatient Part B Hospital Services.
| Reporting of Service Units With Healthcare Common Procedure Coding System—Form CMS-1500 and Form CMS-1450.
| Applicable Revenue Codes Fiscal Intermediaries.
| Off-Site Comprehensive Outpatient Rehabilitation Facility Services.
| Consolidated Billing Requirement for Skilled Nursing Facilities.
| Types of Services Subject to the Consolidated Billing Requirement for Skilled Nursing Facilities.
| Furnishing Services That Are Subject to Skilled Nursing Facility.
| Consolidated Billing Under an “Arrangement” With an Outside Entity.
| Physician's Services and Other Professional Services Excluded From Part A.
| Prospective Payment System Payment and the Consolidated Billing Requirement.
| Utilization Edits.
| Billing for Inpatient Skilled Nursing Facility Services Paid Under Part B Audiologic Tests.
| Adjustments of Episode Payment—Therapy Threshold.
| Medical and Other Health Services Not Covered Under the Plan of Care (Bill Type 34X).
| Carrier Processing of Claims for Hospice Beneficiaries.
981 | Update-Long Term Care Hospital Prospective Payment System Rate Year 2007.
| Provider-Specific File.
| Short-Stay Outliers.
| Interrupted Stays.
| Payment Policy for Co-Located Providers.
| Inputs/Outputs to Pricer.
982 | New Use of Hospital Issued Notice of Noncoverage.
983 | Healthcare Provider Taxonomy Codes Update.
984 | Healthcare Common Procedure Coding System Correction for the Caffeine Halothane Contracture Test for Malignant Hyperthermia Susceptibility.
985 | Appeals Updates.
| Acknowledgement of Request for a Hearing Officer Hearing.
| General Procedures to Establish Good Cause.
| Medicare Redetermination Notice (for Partly or Fully Unfavorable Redetermination).
| Contractor Responsibilities—General.
| Effectuation of Reconsiderations.
| Forwarding Requests to HHS/OMHA.
| Effectuation Time Limits & Responsibilities.
| Departmental Appeals Board—The Fourth Level of Appeal.
| Effectuation of Appeals Council Orders and Decisions.
| Requests for Case Files.
| Payment of Interest on Appeals Council Decisions.
| Effectuation of U.S. District Court Decisions.
986 | Payment for Islet Cell Transplantation in NIH-Sponsored Clinical Trials.
| Billing Requirements for Islet Cell Transplantation for Beneficiaries in a National Institutes of Health Clinical Trial.
| Applicable Modifier for Islet Cell Transplant Claims for Carriers.
| Special Billing and Payment Requirements for Intermediaries.
987 | Claim Status Category Code and Claim Status Code Update.
988 | Correction to CR 4136: New Waived Tests.
989 | Correction to CR 4122: Correction of Typographical Error in the Do Not Forward Reports.
| Reporting Requirements—Carriers.
990 | Medicare Contractor Annual Update of the International Classification of Disease, Ninth Revision, Clinical Modification (ICD-9-CM).
991 | Eligibility Rules of Behavior.
992 | Lumbar Artificial Disc Replacement.
| Billing Requirements for Lumbar Artificial Disc Replacement.
| General.
| Carrier Billing Requirements.
| Fiscal Intermediary Billing Requirements.
| Reasons for Denial and Medicare Summary Notice and Claim Adjustment.
| Reason Code Messages.
| Advance Beneficiary Notice and Hospital Issued Notice of Noncoverage Information.
993 | Non-Physician Practitioner Payment for Care Plan Oversight.
| Care Plan Oversight.
| Care Plan Oversight Services.
| Care Plan Oversight Billing Requirements.
994 | Special Issues Associated With the Advance Beneficiary Notice for Hospice Providers and Comprehensive Outpatient Rehabilitation Facilities.
| Special Issues Associated With the Advance Beneficiary Notice for Hospice Providers.
995 | Common Working File Part C Data Exchange and Data Display Changes.
996 | Stage 2 NPI Changes for Transaction 835, and Standard Paper Remittance.
| Advice, and Changes in Medicare Claims Processing Manual, Chapter 22.
| Remittance Advice.
| Background.
| General Remittance Completion Requirements.
| Remittance Balancing.
| Generating an Electronic Remittance Advice If Required Data Is Missing or Invalid.
| Medicare Standard Electronic PC Print Software for Institutional Providers.
| Medicare Remit Easy Print Software for Professional Providers and Suppliers.
| Implementation Guide.
| Standard Paper Remittance Advice.
| Standard Paper Remittance Formats.
| Part A/Fiscal Intermediaries/Regional Home Health Intermediaries.
| Standard Paper Remittance Format.
| Part B/Carrier and Durable Medical Equipment Regional Carrier.
| Standard Paper Remittance Format.
| Carrier and Durable Medical Equipment Regional Carrier Standard.
| Paper Remittance Crosswalk to the 835.
| Claim Adjustment Reason Codes.
| Remittance Advice Remark Codes.
| Group Codes.
| Fiscal Intermediary/Regional Home Health Intermediary Requirement Changes To Accommodate Outpatient Prospective Payment System and Home Health Prospective Payment System
| Items Not Included in Home Health Prospective Payment System Episode Payment
| 835 Version 3051.4A.01 Line Level Reporting Requirements for the Claim Payment in an Episode More than Four Visits.
| 835 Version 3051.4A.01 Line Level Reporting Requirements for the Claim Payment in an Episode Four or Fewer Visits.
Medicare Secondary Payer (CMS—Pub. 100-05)
49 | Manualizing Long-Standing Medicare Secondary Payer Policy in Chapter 2 of the MSP Internet Only Manual.
| Medicare Secondary Payer Provisions for Working Aged Individuals.
| Individuals Subject to Limitations on Payment.
| Individuals Not Subject to the Limitation on Payment.
| Working Aged Exception for Small Employers in Multi-Employer Group Health Plans.
| Medicare Secondary Payer Provisions for End-Stage Renal Disease Beneficiaries.
| Dual Eligibility/Entitlement Situations.
| Individuals Not Subject to Medicare Secondary Payer Provision.
| The 100 or More Employees Requirement.
| Disabled Individuals Who Return to Work.
| Dually Entitled Individuals.
| Liability Insurance.
| Medicare's Recovery Rights.
| Billing in Liability Insurance Situations.
| Workers' Compensation.
| Effect of Payments Under Workers' Compensation Plan.
| No-Fault Insurance.
50 | Clarification of Exhaustible Benefits and Healthcare Integrated General Ledger Accounting System Role within Transmittal 20.
| Savings Calculations.
51 | Medicare Secondary Payer Recovery Contractor New Contractor Number.
52 | Medicare Secondary Payer Bankruptcy/Liquidation Notices.
| Federal Bankruptcy/State Insurer Liquidation Actions and Medicare Secondary Payer Debt.
| Types of Federal Bankruptcy Proceedings.
| State Ordered Insurer Liquidation.
| Importance of Various Dates in Bankruptcy/Liquidation Proceedings.
| Difference Between Automatic Stay, Relief, and Discharge Affiliates.
| Notice of Bankruptcy/Liquidation.
| Identifying Medicare Secondary Payer Based Debts for Entities in Bankruptcy/Liquidation.
| Contractor's Role.
| Identifying Medicare Secondary Payer Based Debts for Entities in Bankruptcy/Liquidation at Contractor Sites.
| Recovery Efforts and Managing Debts of Entities in Bankruptcy/Liquidation.
| Bankruptcy Debts Discharged by the U.S. Court/Liquidation Debts Discharged by State Court.
| Bankruptcy Debts Dismissed by the U.S. Bankruptcy Court.
| Appeal Request Citing Bankruptcy Defense.
| Spreadsheet Identifying Entities in Bankruptcy/Liquidation.
| Example of CMS Bankruptcy/Liquidation Notice to Contractors As a Result of a Prior Treasury Notification.
53 | Modifications to Online Medicare Secondary Payer Questionnaire.
| Admission Questions to Ask Medicare Beneficiaries.
Medicare Financial Management (CMS—Pub. 100-06)
93 | Clarification of the Form CMS-1522 Monthly Contractor Financial Report.
| Procedures for the Reconciliation of Total Funds Expended for Fiscal Intermediary Shared System Medicare Contractors Used in the Preparation of Form CMS-1522 Monthly Contractor Financial Report.
| Identification and Summarization of Detailed Claims Data Records For Use in the Financial Reconciliation of Total Funds Expended to Fiscal Intermediary Shared System Reports.
| Using the Electronic Spreadsheet to Complete the Reconciliation of the Detailed Claims Data File to Fiscal Intermediary Shared System Reports.
| Electronic Spreadsheet Input Schedule.
| Total Funds Expended (Net Disbursements and Adjustments to Net Disbursements).
| Reconciliation of Detailed Claims Data File to Fiscal Intermediary Shared System Reports.
| Reconciliation of Non-Physician Incentive Plan Payments on Fiscal Intermediary Shared System Reports.
| Reconciliation of Interest Received and Paid on Fiscal Intermediary Shared System Reports.
| Categorization of Total Funds Expended by Category.
94 | Notice of New Interest Rate for Medicare Overpayments and Underpayments.
95 | Chapter 7, Internal Control Requirements Update.
| Introduction.
| Authority.
| Office of Management & Budget Circular A-123.
| Risk Assessment.
| Risk Analysis Chart.
| Internal Control Objectives.
| Fiscal Year 2006 Medicare Control Objectives.
| Policies and Procedures.
| Control Activities.
| Testing Methods.
| Documentation and Working Papers.
| Requirements.
| Certification Statement.
| Executive Summary.
| Certification Package for Internal Control Report of Material Weaknesses.
| Certification Package for Internal Control Report of Reportable Conditions.
| Definitions of Reportable Conditions and Material Weaknesses.
| Material Weaknesses Identified During the Reporting Period.
| Corrective Action Plans.
| Submission, Review, and Approval of Corrective Action Plans.
| Corrective Action Plan Reports.
| CMS Finding Numbers.
| Initial Corrective Action Plan Report.
| Quarterly Corrective Action Plan Report.
| Entering Data into the Initial or Quarterly Corrective Action Plan Report.
| List of Fiscal Year 2006 Medicare Control Objectives.
96 | Development of New Report to Capture Benefits Improvements & Protection Act and Medicare Modernization Act Appeals Data.
| Monthly Statistical Report on Intermediary and Carrier Part A and Part B Appeals Activity Form (CMS-2592).
| General.
| Redeterminations.
| Qualified Independent Contractor Reconsiderations.
| Administrative Law Judge Results.
| Medicare Appeals Council Effectuations.
| Clerical Error Reopenings.
| Validation of Reports.
97 | Collection of Fee-for-Service Payments Made During Periods of
| Managed Care Enrollment.
98 | Correction of CROWD Form 5 Reporting for Internet Pilot Carriers.
99 | Instructions for Medicare Credit Balance Reporting Activities.
| Instructions to Fiscal Intermediaries for the Medicare Credit Balance Report.
| Medicare Credit Balance Report (CMS-838).
| Fiscal Intermediary Internal Controls.
| Minimum Requirements for Internal Controls.
| Processing CMS-838 Claims Adjustments.
| Checks Submitted by Providers.
| Suspension Warning Letter (Fiscal Intermediary Action if a Credit Balance Report Is Not Submitted).
| Sample Suspension Warning Letter.
| Issuance of Notification/Rejection Letter to Providers Regarding Non-Payment of Medicare Credit Balances or Missing/Inaccurate Information on the CMS-838 Report.
| Sample Notification/Reminder Letter.
| Fiscal Intermediary Recovery of Non-Medicare Secondary Payer/Medicare.
| Secondary Payer Accounts Receivables and Claims Accounts Receivables.
| Fiscal Intermediary Issuance of a Credit Balance Demand Letter.
| Interest Assessment for Non-Medicare Secondary Payer and Medicare.
| Secondary Payer Medicare Credit Balances.
| Extended Repayment Schedule.
| Credit Balance Reporting Completion Standard and Backlog Issues.
| Medicare Credit Balance Summary Report.
| Instructions for Completing the Medicare Credit Balance Summary Report.
| Provider Instructions for the Medicare Credit Balance Report.
| Submitting the CMS-838.
| Completing the CMS-838.
| Payments of Amounts Owed Medicare.
| Records Supporting CMS-838 Data.
| Provider-Based Home Health Agencies.
| Exception for Low Utilization Providers.
| Compliance with MSP Regulations.
Medicare State Operations Manual (CMS—Pub. 100-07).
19 | Revisions to Appendix PP—Guidance to Surveyors for Long Term Care Facilities.
20 | Revisions to Appendix P—“Survey Protocol for Long Term Care Facilities—Part I.”.
Medicare Program Integrity (CMS—Pub. 100-08).
146 | Provider Enrollment Update.
| Introduction.
| Definitions.
| Contractor Duties.
147 | Evaluation of Local Coverage Determination Topics for National Coverage.
| Determination Consideration.
148 | Medicare Claims System Changes to Accept Opt Out Actions From the Provider Enrollment, Chain & Ownership System Daily Extract File.
149 | Notification to Provider(s) or Supplier(s) Regarding Postpayment Review Results.
150 | Re-issuance of Chapter 10, Introduction of Provider Enrollment.
| Introduction to Provider Enrollment.
| Definitions.
| CMS-855 Medicare Enrollment Applications.
| Medicare Contractor Duties.
| Timeliness Standards.
| Timeframes for Initial Applications.
| Timeframes for Changes of Information.
| General Timeliness Principles.
| Pre-Screening and Application Returns.
| Pre-Screening Process.
| Returning the Application.
| Application Review.
| Basic Information (Section 1 of the CMS-855).
| Identifying Information (Section 2 of the CMS-855).
| Tax Identification Numbers and Legal Business Names.
| Licenses and Certifications.
| Correspondence Address.
| Accreditation.
| Section 2 of the CMS-855A.
| Section 2 of the CMS-855B.
| Section 2 of the CMS-855I.
| Adverse Legal Actions/Convictions.
| Practice Location Information.
| Section 4 of the CMS-855A.
| Section 4 of the CMS-855B.
| Section 4 of the CMS-855I.
| Owning and Managing Organizations.
| Owning and Managing Individuals.
| Chain Organizations.
| Billing Agencies.
| Special Requirements for Home Health Agencies.
| Contact Person.
| Certification Statement.
| Delegated Official.
| Ambulance Attachment.
| Independent Diagnostic Testing Facility Attachment.
| Independent Diagnostic Testing Facility Standards.
| CPT-4 and Healthcare Common Procedure Coding System Codes.
| Interpreting Physicians.
| Technicians.
| Supervising Physicians.
| Desk and Site Reviews.
| Special Procedures and Supplier Types.
| Billing Issues.
| Processing CMS-855R Applications.
| National Provider Identifier.
| Verification and Validation.
| General Verification Principles.
| Verification of Data.
| Requesting and Receiving Clarifying Information.
| Special Verification Procedures for CMS-855B, CMS-855I, and CMS-855R Applications.
| Special Verification Procedures for CMS-855A Applications.
| Special Verification Procedures for Enrolling Independent CLIA Labs, Ambulatory Surgical Centers, and Portable X-ray Suppliers.
| Special Procedures for Processing Full CMS-855 Applications Submitted by Enrolled Providers.
| Final Application Actions.
| Approvals.
| Non-Certified Suppliers and Individuals Practitioners.
| Certified Providers and Certified Suppliers.
| Denials.
| Changes of Information.
| General Procedures.
| Special Instructions for Certified Providers, Ambulatory Surgery Centers, and Portable X-ray Suppliers.
| Voluntary Terminations.
| Electronic Fund Transfers.
| Revalidation.
| Documentation.
| Special Processing Situations.
| Tie-In Notices.
| Out-of-State Practice Locations for Certified Providers.
| Provider-Based.
| State Survey Actions.
| Carrier Processing of Hospital Applications.
| Par Agreements.
| Opt-Out.
| Provider and Supplier Types/Services.
| Community Mental Health Centers.
| Diabetes Self-Management Training.
| Mass Immunizers Who Roster Bill.
| Enrolling Indian Health Service Facilities As Durable Medical Equipment, Prosthetics, Orthotics and Supplies Suppliers.
| Model Correspondence Language.
| Provider Enrollment Chain & Ownership System.
| External Reporting Requirements.
| Maintenance and Release of CMS-855 Data.
| Security.
| Release of Information.
| File Maintenance.
| Customer Service.
| Web Sites.
| Provider Enrollment Inquiries.
Medicare Contractor Beneficiary and Provider Communications (CMS—Pub. 100-09)
00 | None.
Medicare Quality Improvement Organization Manual (CMS—Pub. 100-10)
14 | Revisions to Chapter 8, Data Management.
| Introduction.
| Infrastructure Operations and Support Manual.
| Infrastructure IT Administrator Manual.
| Database Systems Administrator Guide.
| Security Handbook.
| Confidentiality of System.
| Performance Standards.
15 | Revisions to Chapter 10, Confidentiality and Disclosure.
| Statutory and Regulatory Requirements.
| General Requirements.
| Confidential Information.
| Disclosure of Confidential Quality Improvement Organization Information to Officials and Agencies.
| Disclosure of Quality Improvement Organization Information for Research Purposes—Quality Review Study Information.
| Disclosure of Quality Improvement Organization Sanction Information.
| Re-disclosure of Quality Improvement Organization Information.
| Model Data Use Agreement.
| Model Letter.
| Model Language.
16 | Revisions to Chapter 1, Background and Responsibilities.
| Authority.
| Purpose of Quality Improvement Organization Review.
| Quality Improvement Organization Responsibilities.
| Health Care Quality Improvement Program.
| Hospital Payment Monitoring Program.
| Quality Improvement Organization Support Center.
Medicare Managed Care (CMS—Pub. 100-16)
00 | None.
Medicare Business Partners Systems Security (CMS—Pub. 100-17)
00 | None.
Demonstrations (CMS—Pub. 100-19)
44 | Additional Billing Guidance for HHA Sites in the Demonstration Project for Medical Adult Day-Care Services (MMA Section 703).
45 | Method of Cost Settlement for Inpatient Services for Rural Hospitals Participating Under Demonstration Authorized by Section 410A of the Medicare Modernization Act.
46 | Additional Clarification of CR 3816 Business Requirements.
47 | Issued to a specific audience, not posted to Internet/Intranet due to Confidentiality of Instruction.
One Time Notification (CMS—Pub. 100-20)
218 | Nesiritide for Treatment of Heart Failure Patients.
219 | Issued to a specific audience, not posted to Internet/Intranet due to Sensitivity of Instruction.
220 | Addition of Data Elements to Common Working File Database Extract into Next Generation Desktop Datamart.
221 | Beneficiary Change of Address—Phase 2.
222 | Issued to a specific audience not posted to Internet/Intranet due to Confidentiality of Instruction.
223 | Contractor Number Changes for National Heritage Insurance Company—Jurisdiction A Durable Medical Equipment Maximum Allowable Cost Workload and AdminaStar Federal, Inc.—Jurisdiction B Durable Medical Equipment Maximum Allowable Cost Workload.
224 | Part A and Part B Medicare Administrative Contractor Jurisdiction Implementation.
225 | Requirements for Systems Changes Needed to Generate Unsolicited Responses to The Veteran Administration.
226 | Allowing Adjustments to Part A and Part B Veterans Administration Medicare Remittance Advice Claims.
227 | National Council of Prescription Drug Programs Coordination of Benefits.
| Companion Document Update.
228 | Issued to a specific audience, not posted to Internet/Intranet due to Confidentiality of Instruction.
229 | Healthcare Integrated General Ledger Accounting System Changes for Stage 2 National Provider Identifier.
230 | New Remittance Advice Remark Code Message Used for the Physician's Voluntary Reporting Program.

Addendum IV.—Regulation Documents Published in the Federal Register April Through June 2006
Publication date | FR Vol. 71 page number | CFR parts affected | File code | Title of regulation
April 5, 2006 | 17052 | 405, 412, 422, and 489 | CMS-4105-P | Medicare Program; Notification Procedures for Hospital Discharges.
April 5, 2006 | 17021 | 410 | CMS-3017-F | Medicare Program; Conditions for Payment of Power Mobility Devices, Including Power Wheelchairs and Power-Operated Vehicles.
April 7, 2006 | 17888 |  | CMS-1481-N | Medicare Program; Emergency Medical Treatment and Labor Act (EMTALA) Technical Advisory Group (TAG) Meeting—May 1 Through May 2, 2006.
April 12, 2006 | 18654 | 412 and 413 | CMS-1531-IFC | Medicare Program; Medicare Graduate Medical Education Affiliation Provisions for Teaching Hospitals in Certain Emergency Situations.
April 21, 2006 | 20754 | 420, 424, 489, and 498 | CMS-6002-F | Medicare Program; Requirements for Providers and Suppliers To Establish and Maintain Medicare Enrollment.
April 21, 2006 | 20697 |  | CMS-2235-NC | State Children's Health Insurance Program (SCHIP); Redistribution of Unexpended SCHIP Funds From the Appropriation for Fiscal Year 2003; Additional Allotments To Eliminate SCHIP Fiscal Year 2006 Funding Shortfalls; and Provisions for Continued Authority for Qualifying States To Use a Portion of Certain SCHIP Funds for Medicaid Expenditures.
April 25, 2006 | 23996 | 409, 410, 412, 413, 424, 485, and 489 | CMS-1488-P | Medicare Program; Proposed Changes to the Hospital Inpatient Prospective Payment Systems and Fiscal Year 2007 Rates.
April 28, 2006 | 25179 |  | CMS-1319-N | Medicare Program; Meeting of the Practicing Physicians Advisory Council, May 22, 2006.
April 28, 2006 | 25178 |  | CMS-4113-N | Medicare Program; Meeting of the Advisory Panel on Medicare Education, May 25, 2006.
April 28, 2006 | 25176 |  | CMS-3171-N | Medicare Program; Calendar Year 2006 Review of the Appropriateness of Payment Amounts for New Technology Intraocular Lenses (NTIOLs) Furnished by Ambulatory Surgical Centers (ASCs) and Correction.
April 28, 2006 | 25124 | 136 and 489 | CMS-2206-P | Section 506 of the Medicare Prescription Drug, Improvement, and Modernization Act of 2003—Limitation on Charges for Services Furnished by Medicare Participating Inpatient Hospitals to Indians.
April 28, 2006 | 25092 | 146 | CMS-4094-F4 | Amendment to the Interim Final Regulation for Mental Health Parity.
April 28, 2006 | 25085 | 433 | CMS-2231-IFC | Medicaid Program; State Allotments for Payment of Medicare Part B Premiums for Qualifying Individuals: Federal Fiscal Year 2006.
May 1, 2006 | 25654 | 411, 414, and 424 | CMS-1270-P | Medicare Program; Competitive Acquisition for Certain Durable Medical Equipment, Prosthetics, Orthotics, and Supplies (DMEPOS) and Other Issues.
May 1, 2006 | 25651 |  | CMS-2235-NC (OFR-generated correction) | State Children's Health Insurance Program (SCHIP); Redistribution of Unexpended SCHIP Funds From the Appropriation for Fiscal Year 2003; Additional Allotments To Eliminate SCHIP Fiscal Year 2006 Funding Shortfalls; and Provisions for Continued Authority for Qualifying States To Use a Portion of Certain SCHIP Funds for Medicaid Expenditures. (Correction).
May 9, 2006 | 27040 | 412 and 424 | CMS-1306-F | Medicare Program; Inpatient Psychiatric Facilities Prospective Payment System Payment Update for Rate Year Beginning July 1, 2006 (RY 2007).
May 12, 2006 | 27798 | 412 | CMS-1485-F | Medicare Program; Prospective Payment System for Long-Term Care Hospitals RY 2007: Annual Payment Rate Updates, Policy Changes, and Clarification.
May 15, 2006 | 28106 | 412 | CMS-1540-P | Medicare Program; Inpatient Rehabilitation Facility Prospective Payment System for Federal Fiscal Year 2007.
May 17, 2006 | 28644 | 412 | CMS-1488-P2 | Medicare Program; Hospital Inpatient Prospective Payment Systems Implementation of the Fiscal Year 2007 Occupational Mix Adjustment to the Wage Index.
May 26, 2006 | 30423 |  | CMS-1324-N | Medicare Program; Public Meeting in Calendar Year 2006 for New Clinical Laboratory Tests for Payment Determinations.
May 26, 2006 | 30422 |  | CMS-4117-FN | Medicare Program; Approval of URAC for Deeming Authority for Medicare Advantage Health Maintenance Organizations and Local Preferred Provider Organizations.
May 26, 2006 | 30358 | 414 | CMS-1317-P | Medicare Program; Revisions to the Payment Policies of Ambulance Services Under the Fee Schedule for Ambulance Services.
May 26, 2006 | 30289 | 403 | CMS-4005-F | Medicare Program; State Health Insurance Assistance Program (SHIP).
May 31, 2006 | 30982 | 413, 441, 486, and 498 | CMS-3064-F | Medicare and Medicaid Programs; Conditions for Coverage for Organ Procurement Organizations (OPOs).
June 23, 2006 | 36120 |  | CMS-3170-N | Medicare Program; Meeting of the Medicare Coverage Advisory Committee—August 30, 2006.
June 23, 2006 | 36118 |  | CMS-1295-N | Medicare Program; Second Biannual Meeting of the Advisory Panel on Ambulatory Payment Classification (APC) Groups—August 23, 24, and 25, 2006.
June 23, 2006 | 36101 |  | CMS-9035-N | Medicare and Medicaid Programs; Quarterly Listing of Program Issuances—January Through March 2006.
June 23, 2006 | 36100 |  | CMS-2228-FN | Medicare and Medicaid Programs; Denial of the TuV Healthcare Specialists Request for Deeming Authority for Hospitals.
June 23, 2006 | 36020 | 423 | CMS-0018-IFC | Medicare Program; Identification of Backward Compatible Version of Adopted Standard for E-Prescribing and the Medicare Prescription Drug Program (Version 8.1).
June 29, 2006 | 37170 |  | CMS-1512-PN | Medicare Program; Five-year Review of Work Relative Value Unites Under the Physician Fee Schedule and Proposed Changes to the Practice Expense Methodology.
June 30, 2006 | 37504 | 420, 424, 489, and 498 | CMS-6002-F2 | Medicare Program; Requirements for Providers and Suppliers To Establish and Maintain Medicare Enrollment; Correcting Amendment.
June 30, 2006 | 37503 | 412 and 424 | CMS-1306-CN2 | Medicare Program; Inpatient Psychiatric Facilities Prospective Payment System Update for Rate Year Beginning July 1, 2006 (RY 2007); Correction.

Addendum V—National Coverage Determinations

[April Through June 2006]

A national coverage determination (NCD) is a determination by the Secretary with respect to whether or not a particular item or service is covered nationally under Title XVIII of the Social Security Act, but does not include a determination of what code, if any, is assigned to a particular item or service covered under this title, or determination with respect to the amount of payment made for a particular item or service so covered. We include below all of the NCDs that were issued during the quarter covered by this notice. The entries below include information concerning completed decisions as well as sections on program and decision memoranda, which also announce pending decisions or, in some cases, explain why it was not appropriate to issue an NCD. We identify completed decisions by the section of the NCDM in which the decision appears, the title, the date the publication was issued, and the effective date of the decision. Information on completed decisions as well as pending decisions has also been posted on the CMS Web site at http://cms.hhs.gov/coverage.

National Coverage Determinations
[April through June 2006]
Title | NCDM section | TN No. | Issue date | Effective date
Nesiritide for Treatment of Heart Failure Patients | 200.1 | R51NCD | 4/07/06 | 3/02/06
Cardiac Rehabilitation Programs | 20.10 | R52NCD | 4/21/06 | 3/22/06
PTA Concurrent With the Placement of Investigational or FDA-Approved Carotid Stent | 20.7 | R53NCD | 4/21/06 | 3/17/06
Bariatric Surgery for Treatment of Morbid Obesity | 100.1 | R54NCD | 4/28/06 | 2/21/06
Pancreas Transplants Alone | 260.3 | R56NCD | 5/19/06 | 4/26/06
Changes Conforming to CR3648 Instructions for Therapy Services | 160.12, 170.3, 290.1 | R55NCD | 5/05/06 | 10/01/06
Changes to the Lab NCD Edit Software for July 06 | 50.12 | R959CP | 5/26/06 | 7/01/06
Home Use of Oxygen in Approved Clinical Trials | 240.2 | R57NCD | 5/26/06 | 3/20/06
Intestinal & Multivisceral Transplantation | 260.5 | R58NCD | 5/26/06 | 5/11/06
Non-Autologous Blood-Derived Products for Chronic Non-Healing Wounds | 270.3 | R59NCD | 6/09/06 | 5/13/06
Lumbar Artificial Disc Replacement | 150.10 | R60NCD | 6/23/06 | 5/16/06

Addendum VI—FDA-Approved Category B IDEs

[April Through June 2006]

Under the Food, Drug, and Cosmetic Act (21 U.S.C. 360c) devices fall into one of three classes. To assist CMS under this categorization process, the FDA assigns one of two categories to each FDA-approved IDE. Category A refers to experimental IDEs, and Category B refers to non-experimental IDEs. To obtain more information about the classes or categories, please refer to the Federal Register notice published on April 21,1997 (62 FR 19328).

The following list includes all Category B IDEs approved by FDA during the first quarter, April Through June 2006.

IDE | Category
G050017 | B
G050162 | B
G050171 | B
G050203 | B
G050218 | B
G050233 | B
G050238 | B
G050264 | B
G060017 | B
G060029 | B
G060039 | B
G060053 | B
G060054 | B
G060055 | B
G060056 | B
G060059 | B
G060061 | B
G060062 | B
G060064 | B
G060066 | B
G060068 | B
G060071 | B
G060072 | B
G060073 | B
G060075 | B
G060077 | B
G060080 | B
G060081 | B
G060082 | B
G060084 | B
G060088 | B
G060089 | B
G060091 | B
G060092 | B
G060093 | B
G060094 | B
G060095 | B
G060096 | B
G060097 | B
G060100 | B
G060102 | B
G060104 | B
G060105 | B
G060106 | B
G060108 | B
G060109 | B
G060112 | B
G060113 | B

Addendum VII—Approval Numbers for Collections of Information

Below we list all approval numbers for collections of information in the referenced sections of CMS regulations in Title 42; Title 45, Subchapter C; and Title 20 of the Code of Federal Regulations, which have been approved by the Office of Management and Budget:

OMB Control No. | Approved CFR sections in title 42, title 45, and title 20 (Note: sections in title 45 are preceded by “45 CFR,” and sections in title 20 are preceded by “20 CFR”)
0938-0008 | Part 424, Subpart C
0938-0022 | 413.20, 413.24, 413.106
0938-0023 | 424.103
0938-0025 | 406.28, 407.27
0938-0027 | 486.100-486.110
0938-0033 | 405.807
0938-0034 | 405.821
0938-0035 | 407.40
0938-0037 | 413.20, 413.24
0938-0041 | 408.6, 408.202
0938-0042 | 410.40, 424.124
0938-0045 | 405.711
0938-0046 | 405.2133
0938-0050 | 413.20, 413.24
0938-0062 | 431.151, 435.151, 435.1009, 440.220, 440.250, 442.1, 442.10-442.16, 442.30, 442.40, 442.42, 442.100-442.119, 483.400-483.480, 488.332, 488.400, 498.3-498.5
0938-0065 | 485.701-485.729
0938-0074 | 491.1-491.11
0938-0080 | 406.7, 406.13
0938-0086 | 420.200-420.206, 455.100-455.106
0938-0101 | 430.30
0938-0102 | 413.20, 413.24
0938-0107 | 413.20, 413.24
0938-0146 | 431.800-431.865
0938-0147 | 431.800-431.865
0938-0151 | 493.1-493.2001
0938-0155 | 405.2470
0938-0193 | 430.10-430.20, 440.167
0938-0202 | 413.17, 413.20
0938-0214 | 411.25, 489.2, 489.20
0938-0236 | 413.20, 413.24
0938-0242 | 416.44, 418.100, 482.41, 483.270, 483.470
0938-0245 | 407.10, 407.11
0938-0251 | 406.7
0938-0266 | 416.1-416.150
0938-0267 | 485.56, 485.58, 485.60, 485.64, 485.66
0938-0269 | 412.116, 412.632, 413.64, 413.350, 484.245
0938-0270 | 405.376
0938-0272 | 440.180, 441.300-441.305
0938-0273 | 485.701-485.729
0938-0279 | 424.5
0938-0287 | 447.31
0938-0296 | 413.170, 413.184
0938-0301 | 413.20, 413.24, 415.60
0938-0302 | 418.22, 418.24, 418.28, 418.56, 418.58, 418.70, 418.74, 418.83, 418.96, 418.100
0938-0313 | 489.11, 489.20
0938-0328 | 482.12, 482.13, 482.21, 482.22, 482.27, 482.30, 482.41, 482.43, 482.45, 482.53, 482.56, 482.57, 482.60, 482.61, 482.62, 482.66, 485.618, 485.631
0938-0334 | 491.9, 491.10
0938-0338 | 486.104, 486.106, 486.110
0938-0354 | 441.50
0938-0355 | 442.30, 488.26
0938-0358 | 488.26
0938-0359 | 412.40-412.52
0938-0360 | 488.60
0938-0365 | 484.10, 484.12, 484.14, 484.16, 484.18, , 484.36, 484.48, 484.52
0938-0372 | 414.330
0938-0378 | 482.60-482.62
0938-0379 | 442.30, 488.26
0938-0382 | 442.30, 488.26
0938-0386 | 405.2100-405.2171
0938-0391 | 488.18, 488.26, 488.28
0938-0426 | 480.104, 480.105, 480.116, 480.134
0938-0429 | 447.53
0938-0443 | 478.18, 478.34, 478.36, 478.42
0938-0444 | 1004.40, 1004.50, 1004.60, 1004.70
0938-0445 | 412.44, 412.46, 431.630, 476.71, 476.74, 476.78
0938-0447 | 405.2133
0938-0448 | 405.2133, 45 CFR 5, 5b; 20 CFR Parts 401, 422E
0938-0449 | 440.180, 441.300-441.310
0938-0454 | 424.20
0938-0456 | 412.105
0938-0463 | 413.20, 413.24, 413.106
0938-0467 | 431.17, 431.306, 435.910, 435.920, 435.940-435.960
0938-0469 | 417.126, 422.502, 422.516
0938-0470 | 417.143, 422.6
0938-0477 | 412.92
0938-0484 | 424.123
0938-0501 | 406.15
0938-0502 | 433.138
0938-0512 | 486.304, 486.306, 486.307
0938-0526 | 475.102, 475.103, 475.104, 475.105, 475.106
0938-0534 | 410.38, 424.5
0938-0544 | 493.1-493.2001
0938-0564 | 411.32
0938-0565 | 411.20-411.206
0938-0566 | 411.404, 411.406, 411.408
0938-0573 | 412.256
0938-0578 | 447.534
0938-0581 | 493.1-493.2001
0938-0599 | 493.1-493.2001
0938-0600 | 405.371, 405.378, 413.20
0938-0610 | 417.436, 417.801, 422.128, 430.12, 431.20, 431.107, 483.10, 484.10, 489.102
0938-0612 | 493.801, 493.803, 493.1232, 493.1233, 493.1234, 493.1235, 493.1236, 493.1239, 493.1241, 493.1242, 493.1249, 493.1251, 493,1252, 493.1253, 493.1254, 493.1255, 493.1256, 493.1261, 493.1262, 493.1263, 493.1269, 493.1273, 493.1274, 493.1278, 493.1283, 493.1289, 493.1291, 493.1299
0938-0618 | 433.68, 433.74, 447.272
0938-0653 | 493.1771, 493.1773, 493.1777
0938-0657 | 405.2110, 405.2112
0938-0658 | 405.2110, 405.2112
0938-0667 | 482.12, 488.18, 489.20, 489.24
0938-0686 | 493.551-493.557
0938-0688 | 486.301-486.325
0938-0691 | 412.106
0938-0692 | 466.78, 489.20, 489.27
0938-0701 | 422.152
0938-0702 | 45 CFR 146.111, 146.115, 146.117, 146.150, 146.152, 146.160, 146.180
0938-0703 | 45 CFR 148.120, 148.122, 148.124, 148.126, 148.128
0938-0714 | 411.370-411.389
0938-0717 | 424.57
0938-0721 | 410.33
0938-0723 | 421.300-421.316
0938-0730 | 405.410, 405.430, 405.435, 405.440, 405.445, 405.455, 410.61, 415.110, 424.24
0938-0732 | 417.126, 417.470
0938-0734 | 45 CFR 5b
0938-0739 | 413.337, 413.343, 424.32, 483.20
0938-0749 | 424.57
0938-0753 | 422.000-422.700
0938-0754 | 441.151, 441.152
0938-0758 | 413.20, 413.24
0938-0760 | 484.55, 484.205, 484.245, 484.250
0938-0761 | 484.11, 484.20
0938-0763 | 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.286, 423.293, 423.301, 423.308, 423.315, 423.322, 423.329, 423.336, 423.343, 423.346, 423.350
0938-0770 | 410.2
0938-0778 | 422.111, 422.564
0938-0779 | 417.126, 417.470, 422.64, 422.210
0938-0781 | 411.404, 484.10
0938-0786 | 438.352, 438.360, 438.362, 438.364
0938-0790 | 460.12-460.210
0938-0792 | 491.8, 491.11
0938-0796 | 422.64
0938-0798 | 413.24, 413.65, 419.42
0938-0802 | 419.43
0938-0818 | 410.141-410.146, 414.63
0938-0829 | 422.568
0938-0832 | Parts 489 and 491
0938-0833 | 483.350-483.376
0938-0841 | 431.636, 457.50, 457.60, 457.70, 457.340, 457.350, 457.431, 457.440, 457.525, 457.560, 457.570, 457.740, 457.750, 457.810, 457.940, 457.945, 457.965, 457.985, 457.1005, 457.1015, 457.1180
0938-0842 | 412.23, 412.604, 412.606, 412.608, 412.610, 412.614, 412.618, 412.626, 413.64
0938-0846 | 411.352-411.361
0938-0857 | Part 419
0938-0860 | Part 419
0938-0866 | 45 CFR Part 162
0938-0872 | 413.337, 483.20,
0938-0873 | 422.152
0938-0874 | 45 CFR Parts 160 and 162
0938-0878 | Part 422 Subparts F and G
0938-0887 | 45 CFR 148.316, 148.318, 148.320
0938-0897 | 412.22, 412.533
0938-0907 | 412.230, 412.304, 413.65
0938-0910 | 422.620, 422.624, 422.626
0938-0911 | 426.400, 426.500
0938-0915 | 421.120,421,122
0938-0916 | 483.16
0938-0920 | 438.6, 438.8, 438.10, 438.12, 438.50, 438.56, 438.102, 438.114, 438.202, 438.206, 438.207, 438.240, 438.242, 438.402, 438.404, 438.406, 438.408, 438.410, 438.414, 438.416, 438.604, 438.710, 438.722, 438.724, 438.810
0938-0921 | 414.804
0938-0931 | 45 CFR 142.408, 162.408, and 162.406
0938-0933 | 438.50
0938-0935 | 422 Subparts F and K
0938-0936 | 423
0938-0939 | 405.502 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.279, 423.286, 423.293, 423.301, 423.308, 423.315, 423.322,
0938-0944 | 423.329, 423.336, 423.343, 423.346, 423.350
0938-0950 | 405.910
0938-0951 | 423.48
0938-0953 | 405.1200 and 405.1202
0938-0954 | 414.906, 414.908, 414.910, 414.914, 414.916
0938-0957 | Part 423 Subpart R
0938-0964 | 403.460, 411.47
0938-0975 | 423.562(a)
0938-0976 | 423.568
0938-0977 | Part 423 Subpart R
0938-0978 | 423.464
0938-0982 | 422.310, 423.301, 423.322, 423.875, 423.888
0938-0990 | 423.56
0938-0992 | 423.505, 423.514

Addendum VIII—Medicare-Approved Carotid Stent Facilities

[April Through June 2006]

On March 17, 2005, we issued our decision memorandum on carotid artery stenting. We determined that carotid artery stenting with embolic protection is reasonable and necessary only if performed in facilities that have been determined to be competent in performing the evaluation, procedure, and follow-up necessary to ensure optimal patient outcomes. We have created a list of minimum standards for facilities modeled in part on professional society statements on competency. All facilities must at least meet our standards in order to receive coverage for carotid artery stenting for high risk patients.

Effective Date 4/3/06

Cullman Regional Medical Center, 1912 Alabama Highway 157, P.O. Box 1108, Cullman, AL 35056-1108, Medicare Provider #010035

Glendale Memorial Hospital and Health Center, 1420 South Central Avenue, Glendale, CA 91204, Medicare Provider #050058

Owensboro Medical Health System, P.O. Box 20007, 811 E. Parrish Avenue, Owensboro, KY 42303, Medicare Provider #180038

The University of Virginia Health System, P.O. Box 800788, Charlottesville, VA 22908-0788, Medicare Provider #490009

The William W. Backus Hospital, 326 Washington Street, Norwich, CT 06360, Medicare Provider #070024

Effective Date 4/5/06

Medcenter One, 300 North 7th Street, Bismarck, ND 58506, Medicare Provider #350015

Prince George's Hospital Center, 3001 Hospital Drive, Cheverly, MD 20785, Medicare Provider #210003

Effective Date 4/7/06

Flagler Hospital, Inc., 400 Health Park Boulevard, St. Augustine, FL 32086, Medicare Provider #100090

Ingalls Memorial Hospital, One Ingalls Drive, Harvey, IL 60426, Medicare Provider #140191

Tri-City Medical Center, 4002 Vista Way, Oceanside, CA 92056, Medicare Provider #050128

Effective Date 4/13/06

Doctors Hospital of Laredo, 10700 McPherson Road, Laredo, TX 78045, Medicare Provider #450643

Memorial Regional Hospital, 3501 Johnson Street, Hollywood, FL 33021, Medicare Provider #100038

North Oaks Medical Center, 15790 Paul Vega MD Drive, Hammond, LA 70403, Medicare Provider #190015

The Roy L. Schneider Hospital, 9048 Sugar Estate, St. Thomas, USVI 00802, Medicare Provider #480001

Effective Date 4/18/06

Coral Springs Medical Center, 3000 Coral Hills Drive, Coral Springs, FL 33065, Medicare Provider #100276

Crozer-Chester Medical Center, One Medical Center Boulevard, Upland, PA 19013-3995, Medicare Provider #390180

Mercy Hospital, 746 Jefferson Avenue, Scranton, PA 18501, Medicare Provider #390237

Northwest Hospital Center, 5401 Old Court Road, Randallstown, MD 21133-5185, Medicare Provider #210040

Orange Coast Memorial Medical Center, 9920 Talbert Avenue, Fountain Valley, CA 92708, Medicare Provider #050678

Effective Date 4/24/06

Crouse Hospital, 736 Irving Avenue, Syracuse, NY 13210, Medicare Provider #330203

Good Samaritan Regional Medical Center, 3600 NW Samaritan Drive, P.O. Box 1068, Corvallis, OR 97339, Medicare Provider #380014

Saint Vincent Catholic Medical Centers of New York, St. Vincent Hospital, Manhattan 170 West 12th Street, New York, NY 10011, Medicare Provider #330290

Tufts-New England Medical Center, 750 Washington Street, Boston, MA 02111, Medicare Provider #220116

Western Arizona Regional Medical Center, 2735 Silver Creek Road, Bullhead City, AZ 86442, Medicare Provider #030101

Effective Date 4/28/06

Brandywine Hospital, 201 Reeceville Road, Coatesville, PA 19320-0953, Medicare Provider #390076

Dallas County Hospital District, dba Parkland Health and Hospital System, 5201 Harry Hines Boulevard, Dallas, TX 75235, Medicare Provider #450015

Frisbie Memorial Hospital, 11 Whitehall Road, Rochester, NH 03867-3297, Medicare Provider #300014

Shelby Baptist Medical Center, 1000 1st Street North, Alabaster, AL 35007, Medicare Provider #030016

Suburban Hospital, Inc., 8600 Old Georgetown Road, Bethesda, MD 20814, Medicare Provider #210022

Effective Date 5/2/06

Porter, 814 LaPorte Avenue, Valparaiso, IN 46383, Medicare Provider #150035

Rowan Regional Medical Center, 612 Mocksville Avenue, Salisbury, NC 28144, Medicare Provider #340015

University of Kansas Medical Center, 3901 Rainbow Boulevard, Kansas City, KS 66160-7200, Medicare Provider #170040

Effective Date 5/9/06

Middle Tennessee Medical Center, 400 North Highland Avenue, P.O. Box 1178, Mufreesboro, TN 37133-1178, Medicare Provider #440053

Southcoast Hospitals Group, dba St. Luke's Hospital, 101 Page Street, New Bedford, MA 02740, Medicare Provider #22007401

Yuma Regional Medical Center, 2400 South Avenue A, Yuma, AZ 85364-7170, Medicare Provider #030013

Effective Date 5/11/06

North Broward Medical Center, 201 East Sample Road, Deerfield Beach, FL 33064, Medicare Provider #100068

Sacred Heart Hospital, 421 Chew Street, Allentown, PA 18102, Medicare Provider #390197

Effective Date 5/12/06

Denton Regional Medical Center, 3535 South I-35 East, Denton, TX 76210, Medicare Provider #450634

Effective Date 5/15/06

AnMed Health Medical Center, 800 North Fant Street, Anderson, SC 29621, Medicare Provider #420027

Boone Hospital Center, 1600 East Broadway, Columbia, MO 65201, Medicare Provider #260068

Riverside Regional Medical Center, 500 J Clyde Morris Blvd, Newport News, VA 23601-1976, Medicare Provider #490052

Effective Date 5/17/06

St. Joseph Hospital, 2700 Dolbeer Street, Eureka, CA 95501, Medicare Provider #050006

Stamford Hospital, 30 Shelburne Avenue, Stamford, CT 06904, Medicare Provider #070006

Vicksburg Medical Center, 2100 Highway 61 North, Vicksburg, MS 39183, Medicare Provider #250031

Effective Date 5/24/06

Genesis Medical Center, 1227 East Rusholme, Davenport, IA 52803, Medicare Provider #160033

Legacy Emanuel Hospital and Health Center, 2801 N. Gantenbein Avenue, Portland, OR 97227, Medicare Provider #380007

Longview Regional Medical Center, 2901 N. Fourth Street 75605, P.O. Box 14000, Longview, TX 75607-4000, Medicare Provider #450702

University Hospital of Brooklyn, Downstate Medical Center, 445 Lenox Road, Box 75, Brooklyn, NY 11203-2098, Medicare Provider #330350

Winter Haven Hospital, 200 Avenue F, Northeast, Winter Haven, FL 33881, Medicare Provider #100052

Effective Date 6/1/06

Baptist Health Medical Center, 3333 Springhill Drive, North Little Rock, AR 72117, Medicare Provider #040036

Park Nicollet Health Services—Methodist Hospital, 6500 Excelsior Boulevard, St. Louis Park, MN 55426, Medicare Provider #240053

Shore Memorial Hospital, 1 East New York Avenue, Somers Point, NJ 08244-2387, Medicare Provider #310047

Effective Date 6/2/06

Straub Clinic and Hospital, 888 South King Street, Honolulu, HI 96813, Medicare Provider #120022

Washington Regional Medical Center, 3215 N. North Hills Blvd, Fayetteville, AR 72703, Medicare Provider #040004

Effective Date 6/12/06

Littleton Adventist Hospital, 7700 South Broadway, Littleton, CO 80122-2628, Medicare Provider #060113

Jersey Shore University Medical Center, 1945 Route 33, Neptune, NJ 07754, Medicare Provider #310073

The Heart Center of Indiana, 10580 North Meridian Street, Indianapolis, IN 46290, Medicare Provider #150153

Effective Date 6/19/06

Hospital Episcopal San Lucas, Calle Guadaloupe Final, P.O. Box 332027, Ponce, Puerto Rico 00733-2027, Medicare Provider #400002

Effective Date 6/22/06

Covenant Healthcare, 1447 N. Harrison, Saginaw, MI 48602, Medicare Provider #230070

J D Archbold Memorial Hospital, Gordon Avenue at Mimosa Drive, P.O. Box 1018, Thomasville, GA 31799-1018, Medicare Provider #110038

John C. Lincoln North Mountain Hospital, 250 East Dunlap, Phoenix, AZ 85020, Medicare Provider #030014

Palmetto Health Baptist, Taylor at Marion Streets, Columbia, SC 29220, Medicare Provider #420086

Swedish Covenant Hospital, 5145 North California Avenue, Chicago, IL 60625, Medicare Provider #140114

UPMC McKeesport, 1500 Fifth Avenue, McKeesport, PA 15132-2482, Medicare Provider #390002

Effective Date 6/26/06

Adventist Hinsdale Hospital, 120 N. Oak Street, Hinsdale, IL 60521, Medicare Provider #140122

Adventist La Grange Memorial Hospital, 5101 S. Willow Springs Road, La Grange, IL 60525, Medicare Provider #140065,

Effective Date 6/30/06

Banner Desert Medical Center, 1400 S. Dobson Road, Mesa, AZ 85202, Medicare Provider #030065

New York Hospital Medical Center of Queens, 56-45 Main Street, Flushing, NY 11355-5095, Medicare Provider #330055

Olathe Medical Center, Inc., 20333 West 151st Street, Olathe, KS 66061, Medicare Provider #170049

Sacred Heart Hospital, 900 West Clairemont Avenue, Eau Claire, WI 54701, Medicare Provider #520013

Upper Chesapeake Medical Center, 500 Upper Chesapeake Drive, Bel Air, MD 21014, Medicare Provider #210049

Addendum IX—American College of Cardiology's National Cardiovascular Data Registry Sites

[April Through June 2006]

In order to obtain reimbursement, Medicare national coverage policy requires that providers implanting ICDs for primary prevention clinical indications (that is, patients without a history of cardiac arrest or spontaneous arrhythmia) report data on each primary prevention ICD procedure. This policy became effective January 27, 2005. Details of the clinical indications that are covered by Medicare and their respective data reporting requirements are available in the Medicare National Coverage Determination (NCD) Manual, which is on the Centers for Medicare and Medicaid Services (CMS) Web site at http://www.cms.hhs.gov/Manuals/IOM/itemdetail.asp?filterType=none&filterByDID=99&sortByDID=1&sortOrder=ascending&itemID=CMS014961.

A provider can use either of two mechanisms to satisfy the data reporting requirement. Patients may be enrolled either in an Investigational Device Exemption trial studying ICDs as identified by the FDA or in the American College of Cardiology's National Cardiovascular Data Registry (ACC-NCDR) ICD registry. Therefore, in order for a beneficiary to receive a Medicare-covered ICD implantation for primary prevention, the beneficiary must receive the scan in a facility that participates in the ACC-NCDR ICD registry.

We maintain a list of facilities that have been enrolled in this registry. Addendum IX includes the facilities that have been designated in the quarter covered by this notice.

Client name | Address
Alegent Health Bergan Mercy Medical Center | 7500 Mercy Road, Omaha, NE 68124.
Aspirus Wausau Hospital | 333 Pine Ridge Boulevard Wausau, WI 54401.
Cardiovascular Center of Puerto Rico | P.O. Box 366528, San Juan, PR 00936.
Christus-St. Frances Cabrini Hospital | 3330 Masonic Drive, Alexandria, LA 71301.
Elliot Hospital | One Elliot Way, Manchester, NH 03103.
Governor Juan F. Luis Hospital & Medical Center | 4007 Estate Diamond Ruby, Christiansted, VI 00820.
Hospital Auxilio Mutuo | P.O. Box 1227, San Juan, PR 00919.
Ingalls Hospital | One Ingalls Drive, Harveym, IL 60426.
Inland Valley Medical Center | 36485 Inland Valley, Wildomar, CA 92595.
Iowa Lutheran Hospital | 1200 Pleasant Street, Des Moines, IA 50309.
Iowa Methodist Medical Center | 1200 Pleasant Street, Des Moines, IA 50309.
Kaiser Permanente Medical Center Health Sciences Lifestyles | 401 Bicentennial Way, Santa Fe, CA 95403.
Mercy & Unity Hospital | 4040 Coon Rapids Boulevard, Esko, MN 55733.
Mercy Hospital | 144 State Street, Portland, OR 04102.
Rancho Spring Medical Center | 36485 Inland Valley, Wildomar, CA 92595.
Sharp Chula Vista Medical Center | 8695 Spectrum Center Court, San Diego, CA 92123.
SSM St. Mary's Health Center | 1035 Bellevue Suite, Saint Louis, MO 63141.
St. Vincent Hospital | 455 Staint Michaells Drive, Sante Fe, NM 87505.
St. Vincent's Medical Center | 1800 Barrs Street, Jacksonville, FL 32204.
Summerlin Hospital Medical Center | 657 Town Center Drive, Las Vegas, NV 89144.
Sutter Medical Center—Sacramento | 5151 F Street, Sacramento, CA 95819.
Tampa General Hospital | P.O. Box 1289, Tampa, FL 33601.
University of Arkansas Medical Sciences Physician | 4301 West Markham Street, Suite 532, Little Rock, AR 72205.
Washington Regional Medical Center | 1125 N College Avenue, Fayetteville, AR 72703.
Alaska Regional Hospital | 2801 Debarr Road, Anchorage, AK 99508.
Providence Alaska Medical Center | 3200 Providence Drive, Anchorage, AK 99508.
Brookwood Medical Center | 2010 Brookwood Medical Center, Birmingham, AL 35209.
Carraway Methodist Medical Center | 1600 Carraway Boulevard, Birmingham, AL 35209.
DCH Regional Medical Center | 809 University Blvd., E, Tuscaloosa, AL 35401.
Dekalb Regional Medical Center | 200 Medical Center Drive, Fort Payne, AL 35968.
East Alalbama Medical Center | 2000 Pepperell Parkway, Opelika, AL 36804.
Eliza Coffee Memorial Hospital | 205 Marengo Street, Florence, AL 35630.
Gadsden Regional Medical Center | 1007 Goodyear Avenue, Gadsden, AL 35903.
Huntsville Hospital | 101 Sivley Road, Huntsville, AL 35801.
Jackson Hospital and Clinic | 1725 Pine Street, Montgomery, AL 36106.
Medical Center East | 50 Medical Park East Drive, Birmingham, AL 35235.
Mobile Infirmary Medical Center | P.O. Box 2144 5 Mobile Infirmary Circle, Mobile, AL 36652.
Princeton Baptist Medical Center | 701 Princeton Avenue, Birmingham, AL 35211.
Providence Hospital | 6801 Airport Boulevard, Mobile, AL 36608.
Regional Medical Center | 400 East 10th Street, Anniston, AL 36202.
Riverview Regional Medical Center | 600 South Third Street, Gadsden, AL 35901.
Russell Medical Center | 3316 Hwy 280 (P.O. Box 939), Alexander City, AL 35011.
Russellville Hospital | 15155 Highway 43, Russellville, AL 35653.
Shelby Baptist Medical Center | 1000 First Street North, Alabaster, AL 35007.
Southeast Alabama Medical Center | 1108 Ross Clark Circle, Dothan, AL 36301.
Springhill Memorial Hospital | 3719 Dauphin Street, Mobile, AL 36608.
St. Vincent Hospital | 810 St. Vincents Drive, Birmingham, AL 35205.
Stringfellow Memorial Hospital | 301 East 18th Street, Anniston, AL 36202.
Trinity Medical Center | 800 Montclair Rd, Birmingham, AL 35213.
University Hospital | 620 19th Street South, Birmingham, AL 35213.
University of South Alabama/Cardiology Dept | 2451 Fillingim Street, Mobile, AL 36617.
Vaughan Regional Medical Center | 1015 Medical Center Parkway, Selma, AL 36701.
Walker Regional Medical Center | 3400 Hwy 78 East, Jasper, AL 35501.
Arkansas Heart Hospital | 1701 South Shackelford Road, Little Rock, AR 72202.
Baptist Health Medical Center | 9601 Interstate 630, Exit 7, Little Rock, AR 72205.
Baptist Health Medical Center | 3333 Springhill Drive, North Little Rock, AR 72117.
Baxter Regional Medical Center/Attn: A/P | 624 Hospital Drive, Mountain Home, AR 72653.
Conway Regional Medical Center | 2302 College Avenue, Conway, AR 72032.
Medical Center of South Arkansas, LLC | 700 West Grove, El Dorado, AR 71730.
Mercy Health System of Northwestern Arkansas | 1200 West Walnut, Rogers, AR 72756.
Saint Vincent Medical Center/Health Ctr | 2 St. Vincent Circle, Little Rock, AR 72205.
Sparks Regional Medical Center | P.O. Box 17006 Fort Smith, AR 72917.
St. Bernards Medical Center | 225 E. Jackson Ave, Jonesboro, AR 72401.
St. Edward Mercy Medical Center Medical Library | 7301 Rogers Ave., P.O. Box 17000, Fort Smith, AR 72917.
St. Edwards Mercy Medical Center | 7301 Rogers Ave., Fort Smith, AR 72917.
St. Josephs Mercy Health Center | 300 Werner Drive, Hot Springs, AR 71913.
Summit Medical Center, East Main & South | 20th Street, Van Buren, AR 72956.
White County Medical Center | 3214 E Race Ave., Searcy, AR 72143.
White River Medical Center | 1710 Harrison Street, Batesville, AR 72501.
Arizona Heart Hospital | 1930 East Thomas Road, Phoenix, AZ 85016.
Banner Baywood Heart Hospital | 6750 East Baywood Avenue, Mesa, AZ 85206.
Banner Desert Medical Center | 1400 S. Dobson Road Mesa, AZ 85202.
Banner Good Samaritan Med Center | 1111 East McDowell Road Phoenix, AZ 85006.
Banner Thunderbird Med Center | 5555 West Thunderbird Rd, Glendale, AZ 85306.
Boswell Memorial Hospital | 10401 W. Thunderbird Blvd., Sun City, AZ 85351.
Havasu Regional Medical Center | PO Box 3030, Lake Havasu City, AZ 86405.
John C Lincoln Hospital—Deer Valley | 19829 N. 27th Ave., Phoenix, AZ 85207.
John C Lincoln Hospital—North Mountain | 250 E. Dunlap, Phoenix, AZ 85020.
Kingman Regional Medical Center | 3269 Stockton Hill Rd, Kingman, AZ 86401.
Mayo Clinic Arizona | 5777 E. Mayo Blvd., Phoenix, AR 85054.
Mesa General Hospital | 515 N. Mesa Dr., Mesa, AZ 85201.
Navapaches Regional Medical Center | 2200 East Show Low Lake Road, Show Low, AZ 85901.
Phoenix Baptist Hospital | 2000 W. Bethany Home Rd, Phoenix, AZ 85015.
Scottsdale Healthcare Osborn | 9003 E. Shea Blvd—Administration, Scottsdale, AZ 85260.
Scottsdale Healthcare Shea | 9003 E. Shea Blvd—Administration, Scottsdale, AZ 85260.
St. Luke's Medical Center | 1800 East Van Buren, Phoenix, AZ 85006.
Tucson Heart Hospital | 4888 North Stone Avenue, Tucson, AZ 85704.
Tucson Medical Center | 5301 E Grant Rd, Tucson, AZ 85712-2805.
University Medical Center | 1690 N. Warren Blvd 526B, Tucson, AZ 85724.
Western Arizona Regional Medical Center | 2735 Silver Creek Rd., Bullhead City, AZ 86442.
Yavapai Regional Medical Center | 1003 Willow Creek Rd, Prescott, AZ 86301.
Yuma Regional Medical Center | 2400 South Avenue A, Yuma, AZ 85364.
Alta Bates Medical Center | 2450 Ashby Ave, Berkeley, CA 94705.
Alta Bates Summit Medical Center | 2450 Ashby Avenue, Berkeley, CA 94705.
Alvarado Hospital Medical Center/SDRI | 6655 Alvarado Road, San Diego, CA 92124.
Anaheim Memorial Medical Center | 1111 W. La Palma, Anaheim, CA 92801.
Bakersfield Heart Hospital | 3001 Sillect Ave, Bakersfield CA 93308.
Barstow Community Hospital | 555 South Seventh Street, Barstow, CA 92311.
Brotman Medical Center | 3828 Delmas Terrace, Culver City, CA 90231.
California Pacific Medical Center | 2330 Clay St, Rm 103, San Francisco, CA 94115.
Cedars-Sinai Health Systems | 8631 West Third St, Suite 415 E, Los Angeles, CA 90048.
Centinela Hospital Medical Center | 555 E. Hardy Street, Inglewood, CA 90301.
Community Hospital of the Monterey Peninsula | PO Box HH, Monterey, CA 93942-1085.
Community Memorial Hospital | 147 N. Brent, Ventura, CA 93003.
Dameron Hospital | 525 W. Acacia St., Stockton, CA 95203.
Desert Regional Medical Center | 1150 N Indian Canyon, Palm Springs, CA 92262.
Desert Valley Hospital | 16850 Bear Valley Rd, Victorville, CA 92392.
Doctors Medical Center | 2000 Vale Road, San Pablo, CA 94806.
Downey Regional Medical | 11500 Brookshire Avenue, Downey, CA 90241.
Eisenhower Medical Center | 39000 Bob Hope Drive, Rancho Mirage, CA 92270.
El Camino Hospital | 2500 Grant Road, Mountain View, CA 94040.
Encino-Tarzana Regional Medical Center | 18321 Clark St., Tarzana, CA 91356-3501.
Enloe Medical Center | 1600 Esplanade, Chico, CA 95926.
Fountain Valley Regional Hosp | 17100 Euclid Street, Fountain Valley, CA 92708-4004.
French Hospital Medical Center | 1911 Johnson Ave, San Luis Obispo, CA 93401.
Fresno Community Hospital and Medical Center | 110 N. Valeria #103, Fresno, CA 93710.
Fresno Heart Hospital | 15 E Audubon Dr, Fresno, CA 93720.
Garden Grove Hospital | 12601 Garden Grove Blvd., Garden Grove, CA 92843.
Glendale Adventist Medical Center | 1509 Wilson Terrace, Glendale, CA 91206.
Good Samaritan Hospital | 1225 Wilshire Blvd, Los Angeles, CA 90017.
Good Samaritan Hospital | 2425 Samaritan Drive, San Jose, CA 95124.
Henry Mayo Newhall Memorial Hospital | 23845 McBean Parkway, Valencia, CA 91355.
Hoag Memorial Hospital Presbyterian | One Hoag Drive, Newport Beach, CA 92658.
Huntington Hospital | 100 W. California Blvd, Pasadena, CA 91109.
Irvine Regional Hospital & Medical Center | 16200 Sand Canyon Ave, Irvine, CA 92618-3701.
John F. Kennedy Memorial Hospital | 47-111 Monroe Street, Indio, CA 92201.
John Muir—Concord | 2540 East Street, Concord, CA 94520.
John Muir—Walnut Creek | 1601 Ygnacio Valley Rd, Walnut Creek, CA 94550.
Kaiser Foundation Hospital | 6600 Bruceville Road, Sacramento, CA 95823.
Kaiser Permanente | 4647 Zion Ave, San Diego, CA 92120.
Kaweah Delta Hospital District | 400 West Mineral King, Visalia, CA 93291.
Lakewood Regional Medical Center | 3700 E. South Street, Lakewood, CA 90712.
Lancaster Community Hospital | 43830 North 10th St West, Lancaster, CA 93534.
Little Company of Mary Hospital | 4101 Torrance Blvd, Torrance, CA 90503.
Loma Linda University Medical Center | 11234 Anderson St., Loma Linda, CA 92354.
Long Beach Memorial Medical Center | 2801 Atlantic Ave., Long Beach, CA 90806.
Los Robles Hospital & Medical Center | 215 W. Janss Road, Thousand Oaks, CA 91360.
Marin General Hospital | 250 Bon Air Road, Greenbrae, CA 94904.
Methodist Hospital of South CA | 300 W Huntington Dr., Arcadia, CA 91007-3402.
Mills-Peninsula Hospital | 1783 Elcamino Real, Burlingame, CA 94010.
Mission Hospital Regional Med Center | 27700 Medical Center Road, Mission Viejo, CA 92691-6426.
North Bay Medical Center | 1200 B. Gale Wilson Blvd, Fairfield, CA 94533.
Northbay Vaca Valley Hospital | 1200 B. Gale Wilson Blvd, Fairfield, CA 94533.
O'Connor Hospital | 2105 Forest Ave, San Jose, CA 95128.
Orange Coast Memorial Medical Center | 9920 Talbert Ave, Fountain Valley, CA 92708.
Palomar Medical Center | 555 East Valley Parkway, Escondido CA 92025.
Paradise Valley Hospital | 2400 E Fourth Street, National City, CA 91950.
Pomona Valley Hospital Med Center | 1798 N. Garey Avenue, Pomona, CA 91722.
Presbyterian Intercommunity Hospital | 12401 Washington Blvd, Whittier, CA 90602.
Providence Holy Cross Medical Center | 15031 Rinaldi Street, Mission Hills, CA 91346.
Providence Saint Joseph | 501 S Buena Vista Street, Burbank, CA 91505.
Regional Medical Center | 225 N. Jackson St, San Jose, CA 95116.
Rideout Memorial Hospital | 726 4th St, Maryville, CA 95901.
Ridgecrest Regional Hospital | 1081 N. China Lake Blvd, Ridgecrest, CA 93555.
Riverside Community Hospital | 4445 Magnolia Ave, Riverside, CA 92501.
Saddleback Memorial Medical Center | 24451 Health Center Drive, Laguna Hills, CA 92653.
Saint Agnes Medical Center | 1303 East Herndon Ave, Fresno, CA 93720.
Saint Johns Health Center | 1328 22nd Street, Santa Monica, CA 90404.
Saint Joseph Hospital | 2700 Dolbeer St, Eureka, CA 95501-4799.
Salinas Valley Memorial Hospital | 450 E Romie Lane, Salinas, CA 93901-4098.
San Antonio Community Hospital | 999 San Bernardino Rd, Upland, CA 91786.
San Francisco Heart and Vascular Institute | 1900 Sullivan Avenue, Daly City, CA 94015.
San Joaquin Community Hospital | 2615 Eye Street, Bakersfield, CA 93301.
San Ramon Regional Medical Center | 6001 Norris Canyon Road, San Ramon, CA 94583.
Santa Barbara Cottage Hospital | PO Box 689, Santa Barbara, CA 93102-0689.
Santa Rosa Memorial Hospital | 1165 Montgomery Drive, PO Box 522, Santa Rosa, CA 95402.
Santa Teresa Community Hospital | 250 Hospital Parkway, San Jose, CA 95119.
Scripps Green Hospital—La Jolla | 10666 North Torrey Pines Road, La Jolla, CA 92037.
Scripps Memorial Hospital—Encinitas | 354 Santa Fe Dr., Encinitas, CA 92024.
Scripps Memorial Hospital—La Jolla | 9888 Genesee Ave LJ101, La Jolla, CA 92037.
Scripps Mercy Hospital-San Diego | 4077 5th Ave. MER 74, San Diego, CA 92103.
Scripps Mercy Hospital-Chula Vista | 435 H St., Chula Vista, CA 91912.
Senton Medical Center | 1900 Sullivan Avenue (Attn: SFHVI), Daly City, CA 94015.
Sharp Grossmont | 5555 Grossmont Center Drive, La Mesa, CA 91942.
Sharp Memorial Hospital | 7901 Frost Street, San Diego, CA 92123.
Shasta Regional Medical Center | 1100 Butte Street, Redding, CA 96001.
Sierra Vista Regional Medical Center | 1010 S Murray Ave., San Luis Obispo, CA 93420.
Simi Valley Hospital & Health Care Services | 2975 N Sycamore Dr., Simi Valley, CA 93065.
Southwest Health Plan, Inc | 25500 Medical Center Drive, Murrieta, CA 92562.
St. Francis Medical Center | 3630 Imperial Hwy., Lynwood, CA 90265.
St. Helena Hospital | 10 Woodland Road, St. Helena, CA 94574.
St. Rose Hospital | 27200 Calaroga Avenue, Hayward, CA 94539.
St. Vincent Medical Center | 2131 W. 3rd St., Los Angeles, CA 90703.
Stanford Hospital and Clinics | 300 Pasteur Road, Stanford, CA 94305.
Sutter Delta Medical Center | 3901 Lone Tree Way, Antioch, CA 94509.
Sutter Medical Center of Santa Rosa | 3325 Chanate Rd., Santa Rosa, CA 95404.
Torrance Memorial Medical Center | 3330 Lomita Blvd., Torrance, CA 90505.
Tri-City Medical Center | 4002 Vista Way, Oceanside, CA 92056.
Tulare District Hospital | 869 Cherry St., Tulare, CA 93274.
Twin Cities Community Hospital | 1100 Las Tablas Road, Templeton, CA 93465.
UC San Diego Medical Center | 200 W. Arbor Drive, MC 8411, San Diego, CA 92103-8411.
University Of California (Santa Monica) | 1250 16th Street, Los Angles, CA 90404.
University of California (UCLA) | 10833 Le Conte Avenue, Los Angeles, CA 90095.
University Of California Davis | 2315 Stockton Blvd., Room 6312, Sacramento, CA 95817.
University of California San Francisco Medical Center | 513 Parnassus Ave., San Francisco, CA 94143.
USC University Hospital | 1500 San Pablo, Los Angeles, CA 90033.
Valley Care Medical Center | 1111 East Stanley Blvd., Livermore, CA 94550.
Valley Presbyterian Hospital | 15107 Vanowen Street, Van Nuys, CA 91405.
Washington Hospital | 2000-Mowry Ave., Fremont, CA 94538.
Watsonville Community Hospital | 75 Nielson, Watsonville, CA 95076.
West Hills Hospital | 7300 Medical Center Drive, West Hills, CA 91307.
Western Medical Center Anaheim | 1025 South Anaheim Blvd., Anaheim, CA 92805.
Western Medical Center Santa Ana | 1001 North Tustin Ave., Santa Ana, CA 92705.
White Memorial Medical Center | 1720 Cesar Chavez Ave., Los Angeles, CA 90033.
Boulder Community Hospital | 1100 Balsam Avenue, Boulder, CO 80304.
Denver Health | 777 Bannock St., Denver, CO 80204.
Exempla Good Samaritan Medical Center | 200 Exempla Circle, Lafayette, CO 80026.
Exempla Lutheran Medical Center | 8300 W 38th Ave., Wheat Ridge, CO 80033.
Exempla Saint Joseph Hospital | 2420 W 26th Avenue, Bldg D, Suite 140, Denver, CO 80211.
Longmont United Hospital | 1950 Mountain View Ave., Longmont, CO 80501.
McKee Medical Center | 2000 Boise Ave., Loveland, CO 80538.
Medical Center of Aurora | 1501 S. Potomac, Aurora, CO 80012.
Memorial Hospital | 1400 E Boulder St., Colorado Springs, CO 80909-5599.
Mercy Regional Medical Center | 1010 Three Springs Blvd., Durango, CO 81301.
North Colorado Medical Center | 1801 16th Street, Greeley, CO 80631-5199.
North Suburban Medical Center | 9191 Grant Street, Denver, CO 80229.
Parkview Medical Center | 400 West 16th Street, Pueblo, CO 81003.
Penrose-St. Francis Health Services | 2222 North Nevada, #220, Colorado Springs, CO 80907.
Porter Adventist Hospital | 2525 S Downing St., Mail Stop 33F, Denver, CO 80210-5817.
Poudre Valley Hospital 1 | 024 Lemay Ave., Ft. Collins, CO 80524.
Presbyterian/St. Lukes Medical Center | 1719 E 19th Ave., Denver, CO 80218-1235.
Rose Medical Center | 4567 E 9th Ave., Denver, CO 80220-3941.
Saint Anthony Central Hospital | 4231 W 16th Ave., Denver, CO 80204-1335.
Saint Mary Corwin Medical Center | 1008 Minnequa Ave., Pueblo, CO 81004-3798.
Saint Mary's Hospital and Regional Medical Center | 2635 N. 7th Street, Grand Junction, CO 81501-8209.
Sky Ridge Medical Center | 10101 Ridgegate Parkway, Lone Tree, CO 80124.
Swedish Medical Center | 501 East Hampden Avenue, Englewood, CO 80113.
University of Colorado Hospital Authority | 4200 East Ninth St., Denver, CO 80262.
Bridgeport Hospital | 267 Grant Street, Bridgeport, CT 06610.
Danbury Hospital | 24 Hospital Ave., Danbury, CT 06810-6099.
Greenwich Hospital | 5 Perryridge Road, Greenwich, CT 06830.
Hartford Hospital | 80 Seymour St., Hartford, CT 06102.
Hospital of St. Raphael | Section of Cardiology Pvt 207, 1450 Chapel Street, New Haven, CT 06511.
Lawrence & Memorial Hospital | 365 Montauk Ave., New London, CT 06375.
New Britain General Hospital | 100 Grand Street, PO Box 100, New Britain, CT 06050.
Northwalk Hospital | 34 Maple St., Norwalk, CT 06902.
Saint Mary's Hospital | 56 Franklin Street, Waterbury, CT 06706.
St. Francis Hospital & Medical Center Health Science | 114 Woodland Street, Hartford, CT 06105.
University of CT Heatlth Center/John Dempsey Hospital | 263 Farmington Avenue, Farmington, CT 06030.
Waterbury Hospital | PO Box 2153, Waterbury, CT 06722.
Yale New Haven Hospital | 20 York Street, New Haven, CT 65104.
Georgetown University Hospital | 3800 Reservoir Rd. NW., Washington, DC 20007.
Howard University Hospital | 2041 Georgia Ave., Washington, DC 21044.
Sibley Memorial Hospital | 5255 Loughboro Rd. NW., Washington, DC 20016.
The George Washington Univ. Hospital | 900 23rd Street NW., Washington, DC 20037.
Washington Hospital Center | 110 Irving St. NW., Washington, DC 20010.
Bayhealth Medical Center (KGH) | 640 S. State St., Dover, DE 19901.
Christiana Care Health System | 4755 Ogletown-Stanton Road, Newark, DE 19718.
St. Francis Hospital | 701 N. Clayton Street, Wilmington, DE 19805.
Aventura Hospital and Medical Center | 20900 Biscayne Blvd., Aventura, FL 33180.
Baptist Hospital | 1000 W. Moreno Street, Pensacola, FL 32501.
Baptist Medical Center | 800 Prudential Drive, Jacksonville, FL 32207.
Bartow Regional Medical Center | PO Box 1050, Bartow, FL 33831-1050.
Bay Medical Center | 615 North Bonita Ave., Panama City, FL 32401.
Bayfront Medical Center | 701 Sixth Street South, St. Petersburg, FL 33701.
Bert Fish Medical Center | 401 Palmetto St., New Smyrna Beach, FL 32168.
Bethesda Memorial Hospital | 2815 S. Seacrest Blvd., Boynton Beach, FL 33435.
Blake Medical Center | 2020 59th St. W., Bradenton, FL 34209.
Boca Raton Community Hospital | 800 Meadows Road, Boca Raton, FL 33486.
Brandon Regional Hospital | 119 Oakfield Drive, Brandon, FL 33511.
Brooksville Regional Hospital | 17240 Cortez Blvd., Brooksville, FL 34601.
Broward General Medical Center | 1600 S Andrews Ave., Ft Lauderdale, FL 33316.
Cape Canaveral Hospital | 701 West Cocoa Beach Causeway, Cocoa Beach, FL 32931.
Central Florida Regional Hospital | 1401 W. Seminole Blvd., Sandford, FL 32771.
Charlotte Regional Medical Center | 809 East Marion Avenue, Punta Gorda, FL 33950.
Citrus Memorial Health System | 502 W. Highland Blvd., Inverness, FL 34452.
Cleveland Clinic Hospital | 3100 Weston Road, Weston, FL 33331.
Coral Gables Hospital | 3100 Douglas Road, Coral Gables, FL 33134.
Coral Springs Medical Center | 3000 Coral Hills Drive, Coral Springs, FL 33065.
Delray Medical Center | 5352 Linton Blvd., Delray Beach, FL 33484.
Doctors Hospital of Sarasota | 5731 Bee Ridge Road, Sarasota, FL 34233.
Fawcett Memorial Hospital | 21298 Olean Blvd., Port Charlotte, FL 33949-4960.
Flagler Hospital | 400 Health Park Blvd., St. Augustine, FL 32086.
Florida Hospital | 220 Winter Park St., Orlando, FL 32803.
Florida Hospital Ormond Memorial | 875 Sterthaus Ave., Ormond Beach, FL 32174.
Florida Hospital Zephyrhills | 7050 Gall Blvd, Zephyrhills, FL 33541.
Florida Hospital Ormond Memorial | 875 Sterthaus Ave., Ormond Beach, FL 32174.
Florida Hospital Waterman Inc | 1000 Waterman Way, Tavares, FL 32778.
Florida Medical Center | 5000 W Oakland Park Blvd, Fort Lauderdale, FL 33313-1585.
Fort Walton Beach Medical Center | 1000 Mar Walt Dr, Fort Walton Beach, FL 32547.
Gulf Coast Medical Center | 449 W. 23rd Street, Panama City, FL 32406-5309.
Halifax Medical Center | 303 N Clyde Morris Blvd., Daytona Beach, FL 32114-2732.
Heart of Florida Regional Medical Center | 40100 Hwy 27, Davenport, FL 33837.
Helen Ellis Memorial | 1395 South Pinellas Ave., Tarpon Springs, FL 34689.
Hialeah Hospital | 651 E. 25th Street, Hialeah, FL 33013.
Hollywood Medical Center | 3600 Washington St, Hollywood, FL 33021.
Holmes Regional Med Center | 1355 South Hickory Street, Suite 203, Melbourne, FL 32901.
Holy Cross Hospital | 4725 N. Federal Highway, Ft. Lauderdale, FL 33308.
Imperial Point Medical Center | 6401 N Federal Highway, Ft. Lauderdale, FL 33308.
Indian River Memorial Hospital | 1000 36th St, Vero Beach, FL 32960.
Jackson Memorial Hospital | 1611 N.W. 12th Avenue, Miami, FL 33136.
JFK Medical Center | 5631 Glencrest Blvd, Tampa, FL 33625-1008.
Lakeland Regional Medical | 1324 Lakeland Hills Blvd, Lakeland, FL 33805.
Largo Medical Center | 201 14th St. SW, Largo, FL 33770.
Lee Memorial Health System—Cape Coral Hospital | 276 Cleveland Avenue, Fort Myers, FL 33901.
Lee Memorial Health System—Health Park Med Center | 276 Cleveland Avenue, Fort Myers, FL 33901.
Leesburg Regional Medical Center | 600 East Dixie Ave., Leesburg, FL 34748.
Lehigh Regional Medical | 1500 Lee Boulevard, Lehigh Acres, FL 33963.
Lower Keys Medical Center | 5900 College Road, Key West, FL 33040.
Manatee Memorial Hospital | 206 2nd Street East, Bradenton, FL 34208.
Martin Memorial Medical Center | 300 SE Hospital Ave, Stuart, FL 34994.
Mease Countryside Hospital | 3231 McCullen Booth Road, Safety Harbor, FL 34695.
Mease Dunedin Hospital | 207 Jeffords St MS 142, Clearwater, FL 33756.
Memorial Hospital Miramar | 1901 SW 172 Ave, Miramar, FL 33029.
Memorial Hospital Pembroke/South Broward Hospital District | 7800 Sheridan Street, Pembroke Pines, FL 33024.
Memorial Hospital West/South Broward Hospital District | 703 North Flamingo Road, Pembroke Pines, FL 33028.
Memorial Hospital—Jacksonville | 3625 University Boulevard South, Jacksonville, FL 32216.
Memorial Regional Hospital/South Broward Hospital | 3501 Johnson Street, Hollywood, FL 33021.
Mercy Hospital Attn: Accounts Payable | 3663 South Miami Ave, Miami, FL 33133.
Morton Plant Hospital | 207 Jeffords St, MS 142, Clearwater, FL 33756.
Morton Plant North Bay Hospital | 6600 Madison Street, New Port Richey, FL 34652.
Mount Sinai Medical Center | 4300 Alton Road, Miami Beach, FL 33140.
Munroe Regional Medical Center | 131 SW 15th St, PO Box 6000, Ocala, FL 34478.
Naples Community Hospital | 350 7th Street South, Naples, FL 34102.
North Broward Hospital District | 1600 S Andrews Ave, Ft Lauderdale, FL 33316.
North Broward Medical Center | 201 E Sample Road, Pompano Beach, FL 33064.
North Florida Regional Medical Center | 6500 Newberry Road, Gainesville, FL 32605.
North Ridge Medical Center | 5757 N Dixie Hwy, Fort Lauderdale, FL 33334.
North Shore Medical Center | 1100 NW 95th Street, Miami, FL 33150.
Northside Hospital | 6000 49th Street North, St. Petersburg, FL 33709.
Northwest Medical Center | 2801 N. State Rd. 7, Margate, FL 33063.
Oak Hill Hospital | 11375 Cortez Blvd, Brooksville, FL 34613.
Ocala Regional Medical Center | 1431 SW First Avenue, Ocala, FL 34474.
Osceola Regional Medical Center | 700 W. Oak Street, Kissimmee, FL 34745.
Palm Beach Gardens Medical Center | 3360 Burns Road, Palm Beach Gardens, FL 33410.
Palmetto General Hospital | 2001 West 68th Street, Hialeah, FL 33029.
Parkway Regional Medical Center | 160 N.W. 170th Street, North Miami, FL 33169.
Pasco Regional Medical Center | 13000 100 Fort King Rd, Dade City, FL 33525.
Peace River Regional Medical | 2500 Harbor Blvd, Port Charlotte, FL 33952.
Plantation General Hospital | 401 N.W. 42nd Avenue, Plantation, FL 33317.
Sacred Heart Health System | 5151 North Ninth Avenue, Pensacola, FL 32504.
Saint Joseph Hospital | 3001 W. Martin Luther King Blvd, Tampa, FL 33607.
Saint Mary's Medical Center | 4016 Sun City Center Blvd, Sun City Center, FL 33573.
Sarasota Memorial Hospital | 1700 S. Tamiami Trail, Sarasota, FL 34239.
Sebastian River Medical Center | 13695 U.S. Highway 1, Sebastian, FL 32962.
Shands at AGH | 801 SW 2nd Ave, Gainesville, FL 32607.
Shands Jacksonville Medical Center | 655 West 8th St, Jacksonville, FL 32209-6511.
Southlake Hospital | 1099 Citrus Tower Blvd, Clermont, FL 34711.
Southwest Florida Regional | 2727 Winkler Ave., Fort Myers, FL 33901.
St. Cloud Regional Medical Center | 2906 17th Street, St. Cloud, FL 34769.
St. Luke's Hospital—Mayo Clinic | 4201Belfort Rd, Jacksonville, FL 32216.
St. Mary's Medical Center | 901 45th St, West Palm Beach, FL 33407.
Sun Coast Hospital | 2025 Indian Rocks Road, Largo, FL 33774.
Tallahassee Memorial Hospital | 1310 N. Magnolia Dr., Tallahassee, FL 32308.
The Village Regional Hospital | 1451 El Camino Real, The Villages, FL 32159.
Twin Cities Hospital | 2190 Hwy 85 N, Niceville, FL 32578.
University Community Hospital | 3100 Fletcher Avenue, Tampa, FL 33613.
University of Florida (Shands) College of Medicine | 1600 SW Archer Road, Gainesville, FL 32610.
Val Verde Regional Medical Center | 3600 Washington St, Hollywood, FL 33021.
Venice Regional Medical Center | 540 The Rialto, Venice, FL 34285.
West Boca Medical Center | 21644 State Road 7, Boca Raton, FL 33428.
West Florida Hospital | 8383 N. Davis Highway, Pensacola, FL 32514.
West Florida Hospital | 8383 N. Davis Highway, Pensacola, FL 32514.
Westside Regional Medical Center | 8201 West Broward Blvd, Plantation, FL 33324.
Winter Haven Hospital | 20005 Ave F Northeast, Winter Haven, FL 33881.
Wuesthoff Health System | 110 Longwood Ave, Rockledge, FL 32956-5002.
Athens Regional Medical Center | 1199 Prince Ave, Athens, GA 30606.
Atlanta Medical Center | 303 Parkway Dr NE, Atlanta, GA 30312.
Candler Hospital, Inc | 5353 Reynolds Street, Savannah, GA 31405.
Doctors Hospital—Augusta | 3651 Wheeler Dr, Augusta, GA 30909.
East Georgia Regional Medical Center | 1499 Fair Rd (PO Box 1048), Statesboro, GA 30459.
Emory Crawford Long Hospital | 550 Peachtree St, Atlanta, GA 30308.
Emory Dunwoody Medical Center | 4575 North Shallowford Road, Atlanta, GA 30338.
Emory Eastside Medical Center | 1700 Medical Way (PO Box 587), Snellville, GA 30078.
Emory University Hospital | 1364 Clifton Road, NE C408, Atlanta, GA 30322.
Fairview Park Hospital | 200 Industrial Blvd, Dublin, GA 31021.
Floyd Medical Center | 304 Turner McCall Blvd., Rome, GA 30162.
Gwinnett Hospital System | 1000 Medical Center Blvd, Lawrenceville, GA 30045.
Hamilton Medical Center | 1200 Memorial Dr, Dalton, GA 30720.
Henry Medical Center, In. | 1133 Eagles Landing Parkway, Stockbridge, GA 30281.
Kennestone Hospital | 677 Church St., Marietta, GA 30066.
MCG Health Inc | 1120 15th Street BBR-6524, Augusta, GA 30912.
Medical Center of Central Georgia | 777 Hemlock St. Box 53, Macon, GA 31201.
Memorial Health University Medical Center | 4700 Waters Ave, Savannah, GA 31404.
Newton Medical Center | 5126 Hospital Drive, Covington, GA 30014.
Northeast Georgia Medical Center | 743 Spring St NE, Gainesville, GA 30501-3899.
Northlake Medical Center | 1455 Montreal Road, Tucker, GA 30084.
Northside Hospital | 1000 Johnson Ferry Road, Atlanta, GA 30342.
Piedmont Healthcare Physicians Cath Lab LLC | 1968 Peachtree Rd NW, Atlanta, GA 30309.
Piedmont Hospital | 95 Collier Road Suite 5005, Atlanta, GA 30309.
Redmond Regional Medical Center | 501 Redmond Road, Rome, GA 30165.
Saint Francis Hospital | 2122 Manchester Expressway, Columbus, GA 31904.
Saint Josephs Hospital of Atlanta | 5665 Peachtree Dunwoody Road, Atlanta, GA 30342.
Smith Northview Hospital | PO Box 10010, Valdosta, GA 31604.
South Fulton Medical Center | 1170 Cleveland Ave, East Point, GA 30344.
South, GA Medical Center | PO Box 1727, Valdosta, GA 31603-1727.
Southern Regional Medical Center | 11 Upper Riverdale Rd, Riverdale, GA 30274.
Spalding Regional Medical Center | 601 South 8th Street, Griffin, GA 30224.
St Mary's Health Care Systems | 1230 Baxter Street, Athens, GA 30606.
St. Joseph's Hospital | 11705 Mercy Boulevard, Savannah, GA 31419.
Tift Regional Medical Center | PO Box 747, Tifton, GA 31794.
University Hospital | 1350 Walton Way, Augusta, GA 30901-2629
Wellstar Cobb Hospital | 531 Roselane Street, Marietta, GA 30060.
Kaiser Permanente—Moanalua Med Center | 3288 Moanalua Road, Honolulu, HI 96819.
Kapi'olani Medical Center Pali Momi | 98-1079 Moanalua Road, Aiea, HI 96701.
Kuakini Medical Center | 347 North Kuakini Street, Honolulu, HI 96817.
Queens Medical Center | 1301 Punchbowl Street, Honolulu, HI 96813.
St Francis Medical Center | 2230 Liliha St., Honolulu, HI 96817.
Straub Clinic & Hospital: Cath Lab | 888 S King St. Makai, 2nd Floor #22, Honolulu, HI 96813.
Genesis Medical Center | 1236 East Rusholme St, Suite 190, Davenport, IA 52803-2459.
Jennie Edmundson Memorial Hospital | 933 E. Pierce Street, Council Bluffs, IA 51503.
Mary Greeley Medical Center | 1111 Duff Ave, Ames, IA 50010.
Mercy Iowa City | 500 E. Market Street, Iowa City, IA 52245.
Mercy Medical Center | 701 10th St. SE, Cedar Rapids, IA 52403.
Mercy Medical Center | 801 5th Street, Sioux City, IA 51101.
Mercy Medical Center | 1111—6th Ave, Des Moines, IA 50314-2611.
Mercy Medical Center-North Iowa | 1000 4th St. SW, Mason City, IA 50401.
Saint Lukes Hospital | 1026 A Ave, NE, Cedar Rapids, IA 52406-3026.
St. Luke's Methodist Hospital | 1026 A Ave NE (PO Box 3026), Cedar Rapids, IA 52406-3026.
Trinity Regional Medical Center | 802 Kenyon Road, Fort Dodge, IA 50501.
Trinity Regional Medical Center | 4500 Utica Ridge Rd, Bettendorf, IA 52722.
University of Iowa Hospitals and Clinics | 200 Hawkins Drive, Iowa City, IA 52242.
Eastern Idaho RMC | 3100 Channing Way, Idaho Falls, ID 83404.
Kootenai Medical Center | 2003 Lincoln Way, Coeur D Alene, ID 83814.
Portneuf Medical Center | 651 Memorial Drive, Pocatello, ID 83201.
Saint Lukes Regional Medical Center | 190 E Bannock Street, Boise, ID 83712-6241.
St. Alphonsus Regional Medical Center | 1055 N. Curtis Rd., Boise, ID 83706.
St. Mary Medical Center | 1500 South Lake Park Avenue, Hobart, ID 46342.
The Indiana Heart Hospital | 8075 North Shadeland Avenue, Indianapolis, ID 46250.
Advocate Christ Medical Center | 4440 West 95th Street #127NOB, Oak Lawn, IL 60453.
Advocate Illinois Masonic Medical Center | 836 W. Wellington, Chicago, IL 60657.
Advocate Lutheran General Hospital | 1775 Dempster Street, Park Ridge, IL 60068.
Advocate South Suburban Hospital | 17800 S Kedzie Ave, Hazel Crest, IL 60429.
Alexian Brothers Medical Center | 800 Biesterfield Rd, Elk Grove Village, IL 60007-3311.
Alton Memorial Hospital | 1 Memorial Drive, Alton, IL 62067.
Blessing Hospital | 11th and Broadway Street, PO Box 7005, Quincy, IL 62301.
BroMenn Hospital | P.O. Box 2850, Bloomington, IL 61702-2850.
Carle Foundation Hospital | 611 W. Park Street, Urbana, IL 61801.
Central DuPage Hospital | 25 N Winfield Rd, Winfield, IL 60190.
CGH Medical Center | 100 East Le Fevre Road, Sterling, IL 61081.
Condell Medical Center | 801 S. Milwaukee Ave, Libertyville, IL 60048.
Edward Hospital | 120 Spalding Drive #205, Naperville, IL 60540.
Elmhurst Memorial Hospital Marquardt Memorial Library | 200 Berteau Ave, Elmhurst, IL 60126.
Evanston Hospital | 2650 Ridge Ave, Evanston, IL 60626.
FHN Memorial Hospital | 1045 W Stephenson St, Freeport, IL 61032.
Freeport Health Network | 1045 W. Stephenson St, Freeport, IL 61032.
Gateway Regional Medical Center | 2100 Madison Ave, Granite City, IL 62040.
Genesis Medical Center | 801 Illini Drive, Silvis, IL 61282.
Glenbrook Hospital | Evanston, IL 60026.
Good Samaritan Hospital | 605 N 12th St, Mount Vernon, IL 62864.
Good Samaritan Hospital | 3815 Highland Avenue, Downers Grove, IL 60515.
Good Shepherd Hospital | 450 W. Hwy 22, Barrington, IL 60010.
Heartland Regional Medical Center | 3333 W. Deyoung St, Marion, IL 62959.
Highland Park Hospital | 718 Glenview Ave., Highland Park, IL 60035.
Hinsdale Hospital | 120 N Oak Street, Hinsdale, IL 60521.
Holy Cross Hospital | 2701 W 68th Street, Chicago, IL 60629.
Iroquois Memorial Hospital | 200 Fairman Ave, Watseka, IL 60970.
Katherine Shaw Bethea Hospital | 403 E First St, Dixon, IL 61021.
LaGrange Memorial Hospital | 120 North Oak Street, Hinsdale, IL 60521.
Little Company of Mary Hospital | 2800 W. 95th St, Evergreen Park, IL 60805.
MacNeal Hospital | 3249 S. Oak Park Ave, Berwyn, IL 60402.
Memorial Hospital Carbondale | 405 W Jackson Street, Carbondale, IL 65902.
Memorial Medical Center | 701 N. First, Springfield, IL 62781.
Mercy Hospital & Medical Center | 2525 South Michigan Ave, Chicago, IL 60616.
Methodist Medical Center of Illinois | 221 NE Glen Oak Ave, Peoria, IL 61636.
Michael Reese Hospital | 2929 S. Ellis Ave, Chicago, IL 60616.
Morris Hospital | 150 West High Street, Morris, IL 60450.
Northern Illinois Medical Center | 4201 Medical Center Drive, McHenry, IL 60050.
Northwest Community Hospital | 800 W Central Rd, Arlington Heights, IL 60005.
Northwestern Memorial Hospital | 251 E Huron; Galter 3-210, Chicago, IL 60611.
OSF Saint Anthony Medical Center | 5666 East State Street, Rockford, IL 61108.
OSF Saint Joseph Medical Center | 2200 E Washington, Bloomington, IL 61701.
OSF Saint Francis Medical Center | 530 NE Glen Oak, Peoria, IL 61637.
Our Lady of the Resurrection Medical Center | 5645 W. Addison, Chicago, IL 60634.
Palos Community Hospital | 12251 S 80th Ave., Palos Heights, IL 60463-0930.
Proctor Hospital | 5409 N. Knoxville Ave, Peoria, IL 61614.
Protestant Memorial Medical | 4500 Memorial Drive, Belleville, IL 62226.
Provena Covenant Medical Center | 1400 West Park Street, Urbana, IL 61801-9901.
Provena Mercy Medical Center | 1325 North Highland Avenue, Aurora, IL 60506.
Provena Saint Joseph Medical Center | 333 N. Madison St., Joliet, IL 60435.
Provena Saint Mary's Hospital | 500 West Court Street, Kankakee, IL 60901.
Resurrection Medical Center | 7435 W. Talcott Ave, Chicago, IL 60631.
Rockford Memorial Hospital | 2400 N Rockton Ave, Rockford, IL 61103.
Rush North Shore Medical Center | 9600 Gross Point Road, Skokie, IL 60076.
Rush University Medical Center | 1653 West Congress Parkway, Chicago, IL 60612.
Rush-Copley Medical Center/Attn: Health Science Library | 2000 Ogden Ave, Aurora, IL 60504.
Rush-Riverside Heart Care Center | 350 N. Wall Street, Kankakee, IL 60901.
Saint Elizabeth's Hospital | 211 South 3rd Street, Belleville, IL 62220-1915.
Saint Francis Hospital and Health Center | 12935 Gregory St, Blue Island, IL 60406-2470.
Saint Francis Hospital of Evanston | 355 Ridge Avenue, Evanston, IL 60202.
Saint Johns Hospital | 800 E. Carpenter, Springfield, IL 62769.
Saint Joseph Hospital (Provena) | 77 North Airlite Street, Elgin, IL 60123-4912.
Sherman Hospital | 934 Center Street, Decision Support, Elgin, IL 60120.
Silver Cross Hospital | 1200 Maple Road, Joliet, IL 60432.
St. James Hospital and Health Centers | 20201 S Crawford, Olympia Fields, IL 60461.
St. Mary's Good Samaritan | 400 North Pleasant, Centralia, IL 62801.
St. Elizabeth Hospital | 2233 W. Division, Chicago, IL 60622.
St. Joseph Medical Center | 2200 E. Washington St., Bloomington, IL 61701.
St. Mary of Nazareth Hospital Center | 2233 W. Division, Chicago, IL 60622.
St. Mary's Hospital | 1800 East Lake Shore Dr, Decatur, IL 62521.
Swedish American Hospital | 1401 E. State Street, Rockford, IL 61104.
Swedish Covenant Hospital | 5145 N. California, Chicago, IL 60625.
Trinity Medical Center | 2701 17th St., Rock Island, IL 61201.
Weiss Memorial Hospital | 4646 N. Marine Drive, Chicago, IL 60640.
West Suburban Hospital Medical Center | 3 Erie Court, Oak Park, IL 60302.
Allen Memorial Hospital | 1825 Logan Ave, Waterloo, IN 50703.
Ball Memorial Hospital | 2401 University Avenue, Muncie, IN 47303.
Bloomington Hospital | 601 W. Second St., Bloomington, IN 47403.
Clarian Health Partners-Methodist Hospital Campus | 1701 N. Senate Blvd, Room A1082, Indianapolis, IN 46202.
Clark Memorial Hospital | 1220 Missouri Avenue, Jeffersonville, IN 47130.
Columbus Regional Hospital | 2400 E. 17th St., Columbus, IN 47201-5360.
Community Hospital | 901, Mac Arthur Blvd., Munster, IN 46321.
Community Hospital East | 1500 North Ritter Avenue, Indianapolis, IN 46219.
Community Hospital South | 1500 N Ritter Ave, Indianapolis, IN 46219-3027.
Deaconess Hospital | 600 Mary Street, Evansville, IN 47747.
Dunn Memorial Hospital | 1600 23rd Street, Bedford, IN 47421.
Elkhart General Hospital | 600 East Boulevard, 3 South Suites Elkhart, IN 46514-2499.
Floyd Memorial Hospital | 1850 State Street, New Albany, IN 47150.
Good Samaritan Heart Center | 520 South 7th St, Vincennes, IN 47591.
Heart Center of Indiana | 8333 Nabb Road, Suite 330, Indianapolis, IN 46290.
Howard Regional Health System | 3500 South Lafountain Street, Kokomo, IN 46904-9011.
Lutheran Hospital of Indiana | 7950 W. Jefferson Blvd, Ft. Wayne, IN 46804.
Marion General Hospital | 441 N Wabash Ave, Marion, IN 46952.
Memorial Hospital of South Bend | 615 N. Michigan, South Bend, IN 46601-1033.
Methodist Hospital Southlake Campus | 8701 Broadway, Merrillville, IN 46410-7035.
Parkview Hospital | 2200 Randallia Drive, Fort Wayne, IN 46805.
Porter Valparaiso Hospital Campus | 814 Laporte Ave., Valparaiso, IN 46383.
Reid Hospital & Healthcare Services | 1401 Chester Blvd, Richmond, IN 47374.
Riverview Hospital | 395 Westfield Road, Noblesville, IN 46060.
Saint Anthony Medical Center | 1201 S. Main Street, Crown Point, IN 46307.
Saint Margaret Mercy | 5454 Hohman, Hammond, IN 46320.
Saint Mary's Medical Center | 3700 Washington Ave, Evansville, IN 47750.
St Joseph Hospital | 700 Broadway, Fort Wayne, IN 46802.
St. Catherine Hospital E Chicago | 1500 South Lake Park Avenue, Hobart, IN 46342.
St. Francis Heart Center | 8111 S. Emerson Avenue, Indianapolis, IN 46237.
St. Joseph Reg. Medical Center | 801 E. Lasalle Avenue, South Bend, IN 46617.
St. Vincent Hospital and Health Center | 8333 Naab Rd, Suite 330, Indianapolis, IN 46260.
Terre Haute Regional Hospital | 3901 South 7th Street, Terre Haute, IN 47802.
Union Hospital | 1606 N. 7th St., Terre Haute, IN 47804.
Wishard Health Services/Attn: A/P | 1001 W 10th Street, Indianapolis, IN 46202.
Galichia Heart Hospital | 2610 N Woodlawn, Wichita, KS 67220.
Hays Medical Center | 2220 Canterbury, Hays, KS 67601.
Hutchinson Hospital | 1701 E. 23rd Ave., Hutchinson, KS 67502.
Kansas Heart Hospital | 3601 N Webb Rd, Wichita, KS 67226.
Kansas University Hospital Authority | 3901 Rainbow, Kansas City, KS 66160.
Labette County Medical Center | 1920 S. U.S. Highway 59, PO Box 956, Parson, KS 67357.
Menorah Medical Center | 5721 W 119th St., Overland Park, KS 66209.
Olathe Medical Center | 20333 W 151st, Olathe, KS 66061-7211.
Overland Park Regional Medical Center/Health Midwest | 10500 Quivira, Overland Park, KS 66215.
Providence Medical Center | 8929 Parallel Parkway, Kansas City, KS 66112-1689.
Salina Regional Health Center | 400 S. Santa Fe, Salina, KS 67401.
Shawnee Mission Medical Center | 9100 West 74th Street, Shawnee Mission, KS 66204-4004.
St. Francis Health Center | 1700 SW. 7th St., Topeka, KS 66605.
Stormont-Vail Regional Medical Center | 1500 SW 10th, Topeka, KS 66604.
Via Christi Regional Medical Center St. Francis | 929 N. St. Francis, Wichita, KS 67214.
Via Christi Regional Medical St. Joseph | 929 N. St Francis, Wichita, KS 67214.
Wesley Medical Center | 550 N. Hillside, Wichita, KS 67214.
Western Plains Medical Center | 3001 Ave A, Dodge City, KS 67801.
Baptist Hospital East | 4000 Kresge Way, Louisville, KY 40207.
Central Baptist Hospital | 1800 Nicholasville Road, Suite 401, Lexington, KY 40503.
Frankfort Regional Medical Center | 299 Kings Daughter Dr, Frankfort, KY 40601.
Hardin Memorial Hospital | 913 N Dixie Ave., Elizabethtown, KY 42701-2599.
Hazard ARH Regional Medical Center | 100 Medical Center Drive, Hazard, KY 41701.
Highlands Regional Medical Center | 5000 U.S. 321, Prestonsburg, KY 41653.
Jewish Hospital | 200 Abraham Flexner Way, Louisville, KY 40202.
Kings Daughters Medical Center | 2201 Lexington Avenue, Ashland, KY 41101.
Lake Cumberland Regional Hospital | 305 Langdon Street, Somerset, KY 42503.
Lourdes Hospital | 1530 Lone Oak Road, Paducah, KY 42003.
Marymount Medical | 310 East 9th Street, London, KY 40741.
Medical Center at Bowling Green | 250 Park Street, Bowling Green, KY 42101.
Norton Audubon | 233 E. Gray Street, Suite 608, Louisville, KY 40202.
Norton Hospital | 233 E. Gray Street, Suite 608, Louisville, KY 40202.
Owensboro Medical Health System | 811 E. Parrish Ave., Owensboro, KY 42303.
Pikeville Medical Center | 911 Bypass Road, Pikeville, KY 41501.
Regional Medical Center | 900 Hospital Drive, Madisonville, KY 42431-1644.
Saint Elizabeth Medical Center-South | 1 Medical Village Drive, Edgewood, KY 41017-3403.
St. Joseph Hospital | 1 Saint Joseph Drive, Lexington, KY 40504.
St. Luke Hospital East | 85 N Grand Ave, Ft. Thomas, KY 41075.
St. Luke Hospital West | 7380 Turfway Rd, Florence, KY 41042.
T. J. Samson Community Hospital | 1301 North Race St, Glasgow, KY 42141.
Trover Foundation Regional Medical Center | 900 Hospital Dr, Madisonville, KY 42431.
University of Kentucky | 800 Rose Street, Lexington, KY 40536.
Western Baptist Hospital | 2501 Kentucky Avenue, Paducah, KY 42003.
Baton Rouge General Medical Center | 3600 Florida Blvd., Baton Rouge, LA 70806.
Christus St. Patrick Hospital | 524 South Ryan Street, Lake Charles, LA 70602-3401.
Christus-Schumpert Highland Hospital | One St. Mary Place, Shreveport, LA 71101.
East Jefferson General Hospital | 4200 Houma Boulevard, Metairie, LA 70006.
Glenwood Regional Medical Center | 503 McMillan Road, West Monroe, LA 71291.
Heart Hospital of Lafayette | 1105 Kaliste Saloom, Lafayette, LA 70508.
Iberia Medical Center | 2315 East Main Street, New Iberia, LA 70560.
Kenner Regional Medical Center | 180 West Esplanade Avenue, Kenner, LA 70065.
Lafayette General Medical Center | 1214 Coolidge, Lafayette, LA 70505.
Lake Charles Memorial Hospital | 1701 Oak Park Blvd., Lake Charles, LA 70601.
Lakeview Regional Medical Center | 95 East Fairway Dr, Covington, LA 70433-7500.
Louisiana Heart Hospital | 64030 Louisiana Highway 434, Lacombe, LA 70445.
LSUHSC-Cath Lab | 1501 Kings Hwy, Shreveport, LA 71130.
Meadowcrest Hospital | 2500 Belle Chasse Hwy, Gretna, LA 70056.
North Oaks Medical Center | 15790 Paul Vega MD Dr, Hammond, LA 70403.
Northshore Regional Medical Center | 100 Medical Center Drive, Slidell, LA 70461.
Ochsner Medical Center—Baton Rouge | 17000 Medical Center Dr, Baton Rouge, LA 70816.
Ochsner Medical Foundation | 1514 Jefferson Hwy, New Orleans, LA 70121.
Opelousas General Health System | 539 E. Prudhomme Street, Opelousas, LA 70570.
Our Lady of Lourdes Regional Medical Center | 611 St Landry (PO Box 4027), Lafayette, LA 70506.
Our Lady of The Lake Regional | 7777 Hennessy Blvd., Suite 2007, Baton Rouge, LA 70808.
Rapides Regional Medical Center | 211 4th Street (Box 30101), Alexandria, LA 71301.
SOUTHWEST MEDICAL CENTER | 2810 Ambassador Caffery Parkway, Lafayette, LA 70506.
St. Francis Medical Center | 309 Jackson St, Monroe, LA 71210.
St. Francis North Hospital | 3421 Medical Park Drive, Monroe, LA 71203.
St. Tammany Parish Hospital | 1202 S. Tyler Street, Covington, LA 70433.
Terrebonne General Medical Center | 8166 Main Street, Houma, LA 70360.
The Outpatient Cath Lab-BRCC | 7777 Hennessy Blvd., Suite 2007, Baton Rouge, LA 70817.
The Outpatient Cath Lab-LCA | 7777 Hennessy Blvd., Suite 2007, Baton Rouge, LA 70808.
Touro Infirmary Medical Center | 1401 Foucher St, New Orleans, LA 70115.
Tulane University Hospital and Clinic | 1415 Tulane Ave., HC-63, New Orleans, LA 70112.
West Jefferson Medical Center | 1101 Medical Center Blvd, Marrero, LA 70072.
Willis Knighton Medical Center | 2600 Greenwood Road, Shreveport, LA 71103.
Willis-Knighton Medical Center | 2600 Greenwood Road, Shreveport, LA 71103.
Baystate Medical Center | 759 Chestnut Street, s4553, Springfield, MA 01199.
Beth Israel Deaconess Medical Center | 185 Pilgrim Rd, Boston, MA 02215.
Beverly Hospital | 85 Herrick St, Beverly, MA 01915.
Boston Medical Center | One Boston Medical Place, Boston, MA 02118.
Boston University Medical Center | One Boston Medical Place, Boston, MA 02118.
Brigham & Womens Hospital | 75 Francis Street, Boston, MA 02115.
Cape Cod Hospital | 27 Park Street, Hyannis, MA 02601.
Caritas Norwood Hospital | 800 Washington Street, Norwood, MA 02062.
Caritas St. Elizabeths Medical Center | 736 Cambridge St, Boston, MA 02135.
Cooley Dickinson Hospital | 30 Locust St, Northhampton, MA 01060.
Lahey Clinic | 41 Mall Road, Burlington, MA 01805.
Lowell General Hospital | 295 Varnum Ave, Lowell, MA 01854.
Massachusetts General Hospital | 55 Fruit Street, Boston, MA 02114.
Mercy Hospital/Attn: A/P | 271 Carew St, PO Box 9012, Springfield, MA 01102.
MetroWest Medical Center | 115 Lincoln Street, Framingham, MA 01702-6327.
Milford Regional Medical Center | 14 Prospect Street, Milford, MA 01568.
Mount Auburn Hospital | 330 Mount Auburn Street, South 2-Administration, Cambridge, MA 02138.
Nasoba Valley Medical Center | 200 Groton Road, Ayer, MA 01432.
North Shore Medical Center-Salem Hospital | 81 Highland Avenue, Davenport 5 Salem, MA 01970.
Saint Vincent Hospital | 123 Summer Street, Worcester, MA 01608.
South Shore Hospital | 55 Fogg Rd, S. Weymouth, MA 02190-2432.
Southcoast Hospitals Group | 363 Highland Avenue, Fall River, MA
Tufts-New England Medical Center | 750 Washington Street, Boston, MA 02111.
UMASS Memorial Medical Center | 55 Lake Ave North, Worcester, MA 01655-0002.
Anne Arundel Medical Center | 2001 Medical Parkway, Annapolis, MD 21401.
Braddock Campus | 900 Seton Dr, Cumberland, MD 21502.
Carroll Hospital Center | 200 Memorial Avenue, Westminster, MD 21157.
Chester River Hospital Center | 100 Brown Street, Chestertown, MD 21620.
Franklin Square Hospital | 9000 Franklin Square Drive, Baltimore, MD 21237.
Good Samaritan Hospital of Maryland | 5601 Loch Raven Blvd, Baltimore, MD 21239.
Greater Baltimore Medical Center | 6701 N. Charles St., Baltimore, MD 21204.
Harbor Hospital Center | 3001 S. Hanover Street, Baltimore, MD 21225.
Howard County General Hospital | 5755 Cedar Lane, Columbia, MD 21044.
Johns Hopkins Bayview Medical Center | 4940 Eastern Avenue, Baltimore, MD 21224.
Johns Hopkins Hospital | 600 North Wolfe Street, Baltimore, MD 21287.
Mercy Medical Center McGlannan Library | 301 St. Paul Place, Baltimore, MD 21202.
Peninsula Regional Medical Center | 100 East Carroll Street, Salisbury, MD 21801.
Prince George's Hospital Center | 3001 Hospital Drive, Cheverly, MD 20785.
Shady Grove Adventist Hospital | 9901 Medical Center Dr, Rockville, MD 20850.
Shore Health System of Maryland | 219 South Washington Street, Easton, MD 21601.
Sinai Hospital of Baltimore | 2401 West Belvedere Ave., Baltimore, MD 21215-5271.
St. Agnes Hospital | 900 Caton Ave, Baltimore, MD 21229.
St. Joseph Medical Center | 7601 Osler Drive, Towson, MD 21204.
Suburban Hospital | 8600 Old Georgetown Road, Bethesda, MD 20814.
Union Memorial Hospital | 201 E University Pkwy, Baltimore, MD 21218-2891.
University of Maryland Medical Center Cardiology | 22 S. Greene Street, Baltimore, MD 21201-1544.
Washington Adventist Hospital | 7600 Carroll Avenue, Takoma Park, MD 20912.
Washington County Hospital/Wroth Memorial Library | 251 East Antietam Street, Hagerstown, MD 21740.
Central Maine Medical Center | 300 Main Street, Lewiston, ME 04240.
Eastern Maine Medical Center | 489 State St, Bangor, ME 04401.
Maine Medical Center | 22 Bramhall Street, Portland, ME 04102.
St. Joseph Hospital | 360 Broadway, Bangor, ME 04401.
York Hospital | 15 Hospital Drive, York, ME 03909.
Alpena Regional Medical Center | 1501 W. Chisholm Street, Alpena, MI 49707.
Battle Creek Health System | 300 North Avenue, Battle Creek, MI 49016.
Bay Regional Medical Center | 1900 Columbus Ave., Bay City, MI 48708.
Borgess Medical Center | 1521 Gull Road, Kalamazoo, MI 49048.
Botsford General Hospital | 28050 Grand River Avenue, Farmington Hills, MI 48336.
Bronson Methodist Hospital | 601 John Street, Kalamazoo, MI 49007-5348.
Covenant Healthcare | 1447 N. Harrison, Saginaw, MI 48602.
Crittenton Hospital Medical Center | 1101 W University Dr, Rochester, MI 48307-1831.
Garden City Hospital | 6245 Inkster Road, Garden City, MI 48135.
Genesys Regional Medical Center | One Genesys Parkway, Grand Blanc, MI 48439.
Gratiot Medical Center | 300 East Warwick Drive, Alma, MI 48801.
Hackley Hospital General Fund | 1700 Clinton St, Muskegon, MI 49443.
Harper University Hospital | 3990 John Road, Detroit, MI 48201.
Henry Ford Hospital | 2799 West Grand Blvd, Detroit, MI 48202.
Ingham Regional Medical Center | 401 West Greenlawn Ave, Lansing, MI 48910.
Lakeland Hospital | 1234 Napier Avenue, Saint Joseph, MI 49085-2112.
Marguette General Health System | 420 West Magnetic St, Marquette, MI 49855.
Marquette General Hospital System/Attn: Mary Tikkan | 580 W College Ave, Marquette, MI.
Mclaren Regional Medical Center | 401 S. Ballenger Hwy, Flint, MI 48532.
Mercy General Health Partners | 1500 E. Sherman Blvd., Muskegon, MI 49444.
Metro Health Hospital | 1919 Boston SE, Grand Rapids, MI 49546.
Mount Clemens General Hospital | 1000 Harrington St, Mount Clemens, MI 48043-2992.
Munson Medical Center | 1105 Sixth Street, Traverse City, MI 49684-2386.
Northern Michigan Hospital | 416 Connable Ave, Petoskey, MI 49770.
Oakwood Hospital & Medical Center | 18101 Oakwood Blvd. Suite 124, Dearborn, MI 48124.
Phelps County Regional Medical Center | 1000 W 10th St, Rolla, MI 65401.
Pontiac Osteopathic Hospital | 50 North Perry Street, Pontiac, MI 48342.
Port Huron Hospital | 1221 Pine Grove Ave., Port Huron, MI 48060.
Regents of the University of Michigan | 1500 E. Medical Center Dr. Ann Arbor, MI 48109.
Saint John Macomb Hospital | 11800 E. 12 Mile Rd, Room #2510, Warren, MI 48093.
Saint Mary Hospital | 36475 W. 5 Mile Road, Livonia, MI 48154.
Saint Mary's Mercy Medical Center | 310 Lafayette Avenue, STF#315, Grand Rapids, MI 49503.
Sinai—Grace Hospital | 6071 W. Outer Drive, Detroit, MI 48235.
Sparrow Health System | 1210 W Saginaw Hwy. Lansing, MI 48915.
Spectrum Health | 100 Michigan NE, Grand Rapids, MI 49503.
St Mary's of Michigan | 800 S. Washington, City, State Saginaw, MI 48601.
St. John Hospital & Medical Center | 22151 Moross Road, City, State Detroit, MI 48236-2148.
St. Joseph Mercy Hospital | 5325 Elliot Drive, City, State Ann Arbor, MI 48106.
St. Joseph Mercy, Oakland | 44405 Woodward Avenue, Pontiac, MI 48341-5023.
St. Joseph's Healthcare | 15855 Nineteen Mile Road, Clinton Township, MI 48038.
W.A. Foote Memorial Hospital | 205 N. East Ave, Jackson, MI 49201.
William Beaumont Hospital | 3601 West Thirteen Mile Road, Royal Oak, MI 48073.
William Beaumont Hospital | 44201 Dequindre Road, Troy, MI 48085.
Abbott Northwestern Hospital | 800 East 28th Street (Internal Zip 11007), Minneapolis, MN 55407.
Central Minnesota Heart Center at St. Cloud Hospital | 1406 Sixth Ave. North, St. Cloud, MN 56303.
Fairview Southdale Hospital | 6401 France Avenue South, Edina, MN 55435.
Hennepin County Medical Center | 701 Park Ave, Minneapolis, MN 55415-1829.
Immanuel-St. Joseph's Hospital | 1025 Marsh St. Mankato, MN 56002.
Mayo Clinic-St. Mary's Hospital | 200 First St SW, Rochester, MN 55905.
Methodist Hospital | 6500 Excelsior Blvd, 2nd floor HVC, St. Louis Park, MN 55426.
North Memorial Medical Center | 3300 Oakdale Ave. N., Robbinsdale, MN 55422.
Regions Hospital | 640 Jackson Street, St. Paul, MN 55101.
St John's Hospital | 69 W Exchange St, St. Paul, MN 55102.
St Josephs Hospital | 69 W Exchange St, St. Paul, MN 55102.
St. Luke's Hospital | 915 E First St, Duluth, MN 55805.
St. Mary's Medical Center | 407 East Third St, Duluth, MN 55805.
United Hospital | 333 N Smith Avenue, St. Paul, MN 55102.
Unity Hospital | 550 Osbourne Road NE, Minneapolis, MN 55432.
Audrain Medical Center | 620 E. Monroe, Mexico, MO 65265.
Barnes Jewish Hospital/Washington University | 600 S. Taylor Avenue, Mailstop 90-59-315, Saint Louis, MO 63110-9930.
Capital Regional Medical Center | 1125 Madison Street PO Box 1128, Jefferson City, MO 65102-1128.
Carondelet Heart Institute at St Joseph HC | 1000 Carondelet Drive, Kansas City, MO 64114.
Columbia Regional Hospital | 1 Hospital Drive, Columbia, MO 65212.
Cox Medical Center South | 3801 S National Ave, Springfield, MO 65807.
DePaul Health Center | 12303 DePaul Drive, Bridgeton, MO 63044.
Des Peres Hospital | 2345 Dougherty Ferry Road, St. Louis, MO 63122.
Freeman Hospital | Clinical Data Services, 1102 West 32nd Street, Joplin, MO 64804.
Hannibal Regional Hospital | 6000 Hospital Drive, Hannibal, MO 63401.
The Heart Center—Cardiac Cath Lab Heartland Regional Medical Center | 5325 Faraon Street, Saint Joseph, MO 64506-3373.
Jefferson Memorial Hospital | 1400 US Highway 61 South, Crystal City, MO 63019.
Lake Regional Health System | 54 Hospital Drive, Osage Beach, MO 65065.
Liberty Hospital | 2525 Glenn Hendren Drive, Liberty, MO 64068.
Lincoln County Medical Center | 1000 E. Cherry St., Troy, MO 63379.
Mid America Heart Institute | St. Lukes Hospital, 4401 Wornall Road, Kansas City, MO 64111.
Missouri Baptist Medical Center | 3105 North Ballas Road, Saint Louis, MO 63131-2374.
Moberly Regional Medical Center | 1515 Union Avenue, Moberly, MO 65270.
North Kansas City Hospital | 2800 Clay Edwards Drive, North Kansas City, MO 64116.
Northeast Regional Medical Center | 315 S. Osteopathy, Kirksville, MO 63501.
Ozarks Medical Center | 1100 Kentucky Avenue,West Plains, MO 65775.
Poplar Bluff Regional Medical Center | 2620 N. Westwood Blvd, Poplar Bluff, MO 63901.
Research Medical Center | 2316 East Meyer Blvd, Kansas City, MO 64132.
Saint Anthonys Medical Center | 10010 Kennerly Road, Saint Louis, MO 63128-2106.
Saint Francis Medical Center | 211 Saint Francis Drive, Cape Girardeau, MO 63703.
Saint John's Regional Health Center | 1235 E Cherokee St, Springfield, MO 65804-2203.
Saint Johns Mercy Medical Center | 615 S New Ballas Road, Saint Louis, MO 63141-8221.
Saint Louis University Hospital | 3635 Vista at Grand, Saint Louis, MO 63110.
Saint Luke's Hospital | 4401 Wornall Road (MAHI 5th Floor), Kansas City, MO 64111.
Saint Lukes Hospital | 232 S Woods Mill Road, Heart Failure Center, Chesterfield, MO 63017-3417.
Skaggs Community Health Center | PO Box 650, Branson, MO 65615-0650.
Southeast Missouri Hospital | 1701 Lacey Street, Cape Girardeau, MO 63701.
SSM St. Joseph Health Center | 300 First Captol Dr, St Charles, MO 63301.
St. Francis Medical Center | 211 Saint Francis Dr., Cape Girardeau, MO 63703-5049.
St. John Regional Health Center | 1235 E. Cherokee, Springfield, MO 65804.
St. Johns Regional Medical Center | 2727 McClelland Boulevard, Joplin, MO 64804.
St. Mary's Health Center | 6420 Clayton, Richmond Heights, MO 63117.
University of Missouri Hospital and Clinics | 1 Hospital Dr. Columbia, MO 65212.
Baptist Memorial Hospital Golden Triangle | 2520 5th Street North P.O. Box 1307, Columbus, MS 39703.
Baptist Memorial Hospital North Mississippi | 2301 South Lamar Blvd, Oxford, MS 38655.
Baptist Memorial Hospital-Desoto | 7601 Southcrest Pkwy, Southaven, MS 38671.
Central Mississippi Medical Center | 1850 Chadwick Drive, Jackson, MS 39204.
Forrest General Hospital | 6051 Hwy 49 South, Hattiesburg, MS 39404-6389.
Jeff Anderson Regional Medical Center | 2124 14th Street, Meridian, MS 39301.
Magnolia Regional Health Center | 611 Alcorn Drive, Corinth, MS 38834.
Memorial Hospital at Gulfport | 4500 13th St, PO Box 1810, Gulfport, MS 39502.
Mississippi Baptist Medical Center | 1225 N State St., Jackson, MS 39202-2097.
Natchez Community Hospital | 129 Jefferson Davis Blvd., Natchez, MS 39120.
Natchez Regional Medical Center | 54 Sgt. Prentiss Drive, Natchez, MS 39120.
North Mississippi Medical Center | 830 S. Gloster St., Tupelo, MS 38801.
Northwest Mississippi Regional Medical Center | 1970 Hospital Drive, Clarksdale, MS 38614.
Ocean Springs Hospital | 3109 Bienville Blvd, Ocean Springs, MS 39564.
Rankin Medical Center | 350 Crossgates Blvd, Brandon, MS 39042.
Riley Hospital | 1102 Constitution Avenue, Meridian, MS 39301.
River Oaks Hospital | 1030 River Oaks Drive, Jackson, MS 39232.
River Region Medical Center | 2100 Hwy 61 North, Vicksburg, MS 39180.
River Regions Health System | 2100 Hwy 61 North, Vicksburg, MS 39180.
Rush Hospital | 1314 19th Ave, Meridian, MS 39301.
Singing River Hospital | 2809 Denny Avenue, Pascagoula, MS 39567.
Southwest MS Regional Med Center | 215 Marion Avenue, McComb, MS 39648.
St. Dominic-Jackson Memorial Hospital | 969 Lakeland Dr., Jackson, MS 39216.
University of Mississippi Medical Center | 2500 N. State Street, Jackson, MS 39216.
Wesley Medical Center | 5001 Hardy St., Hattiesburg, MS 39402.
Benefis Healthcare | 1101 26th Street S, Great Falls, MT 59405-5161.
Billings Clinic | 2800 10th Ave North, Billings, MT 59101.
St. James Health Care | 400 South Clark Street, Butte, MT 59701.
St. Patrick Hospital and Health Sciences Center | 500 W. Broadway, Missoula, MT 59801.
St. Vincent Healthcare | 1233 N. 30th Street, Billings, MT 59101.
Blue Ridge HealthCare | 2201 South Sterling Street, Morganton, NC 28655.
Cape Fear Valley Health System | 303 Wagoner Drive, Fayetteville, NC 28303-4646.
Carolinas Medical Center | PO Box 32861, Charlotte, NC 28232.
Carolinas Medical Center—Mercy | 2001 Vail Ave, Charlotte, NC 28207.
Craven Regional Medical Center | 2000 Neuse Blvd, New Bern, NC 28561.
Duke Health Raleigh Hospital | DUMC Box 3973, (3400 Wake Forest Rd), Raleigh, NC 27609.
Duke Regional Hospital | DUMC Box 3973, (3643N Roxboro Rd), Durham, NC 27710.
Duke University Hospital | 3000 Erwin Road, Durham, NC 27710.
FirstHealth Moore Regional Hospital | 155 Memorial Drive, Pinehurst, NC 28374.
Forsyth Medical Center | 3333 Silas Creek Pkwy, Winston-Salem, NC 27103.
Frye Regional Medical Center | 420 N Center St, Hickory, NC 28601.
Gaston Memorial Hospital | 2525 Court Dr, Gastonia, NC 28054.
High Point Regional Hospital | High Point Regional Hospital, High Point, NC 27261.
Iredell Memorial Hospital | 557 Brookdale Drive, Statesville, NC 28687.
Lake Norman Regional Medical Center | 171 Fairview Road, Mooresville, NC 28117.
Mission Hospitals Inc | 509 Biltmore Avenue, Asheville, NC 28801-4690.
Moses Cone Health System | 1200 N. Elm Street, Greensboro, NC 27401.
New Hanover Regional Medical Center | 2131 S. 17th Street, Wilmington, NC 28402.
North Carolina Baptist Hospital | Medical Center Blvd., Winston-Salem, NC 27157.
NorthEast Medical Center | 920 Church St. North, Concord, NC 28025.
Pitt County Memorial Hospital | 2100 Stantonsburg Rd., Greenville, NC 27834-2832.
Presbyterian Hospital | 200 Hawthorne Lane, Charlotte, NC 28204.
Rex Hospital | 4420 Lake Boone Trail, Raleigh, NC 27607.
University of North Carolina Hospitals | 101 Manning Drive, Chapel Hill, NC 27514.
WakeMed Cary Hospital | 3000 New Bern Avenue, Raleigh, NC 27610.
WakeMed Raleigh Campus | 3000 New Bern Avenue, Raleigh, NC 27610.
Altru Health System | 1200 South Columbia Road, Grand Forks, ND 58206-6002.
Dakota Clinic | 3000 32nd Avenue SW., Fargo, ND 58104.
Heart and Lung Clinic | 900 East Broadway, Box 5510, Bismarck, ND 58502.
Medcenter One | 300 North 7th Street, Bismarck, ND 58501.
MeritCare Hospital | MeritCare Hospital/Heart Services Data/Research, Route 108, Fargo, ND 58122.
Trinity Hospitals | PO Box 5020, Minot, ND 58702-5020.
Alegent Health Immanuel Medical Center | 6901 N. 72nd Street, Suite 3000, N Omaha, NE 68122.
Bryan LGH Medical Center | 3924 Village Ct, Lincoln, NE 68516.
Creighton University Medical Center | 601 N. 30th St, Omaha, NE 68131.
Fremont Area Medical Center | 450 East 23rd Street, Fremont, NE 68025.
Good Samaritan Hospital | 10 East 31st Street, PO Box 1990, Kearney, NE 68848.
Lakeside Hospital | 6901 N. 72nd Street, Ste 3300, Omaha, NE 68122.
Midlands Community Hospital | 6901 N. 72nd Street, Ste 3000, Omaha, NE 68122.
Nebraska Heart Hospital | 7500 South 91st Street, Lincoln, NE 68526.
Nebraska Methodist Hospital | 8303 Dodge Street, Omaha, NE 68114.
Saint Elizabeth Regional Medical Center | 555 S 70th Street, Lincoln, NE 68510-2462.
The Nebraska Medical Center | 987551 Nebraska Medical Center, Omaha, NE 68198.
Catholic Medical Center | 100 McGregor Street, Manchester, NH 03102-3770.
Cheshire Medical CTR | 580 Court Street, Keene, NH 03431.
Concord Hospital | 250 Pleasant Street, Concord, NH 03301.
Exeter Hospital | Exeter Hospital Cardiac Cath Lab, 5 Alumni Dr, Exeter, NH 03833.
Mary Hitchcock Memorial Hospital | One Medical Center Dr., Lebanon, NH 03756.
Portsmouth Regional Hospital | 333 Borthwick Avenue, Portsmouth, NH 03801.
Southern New Hampshire Medical Center | 8 Prospect St, Nashua, NH 03060.
St. Joseph Hospital | 172 Kinsley St, Nashua, NH 03060.
Atlanticare Regional Medical Center | 2500 English Creek Avenue, Egg Habour Township, NJ 08234.
Community Medical Center | 99 Highway, 37 West, Toms River, NJ 08775.
Cooper University Hospital | One Cooper Plaza, Camden, NJ 08103.
Deborah Heart & Lung Center | 200 Trenton Road, Browns Mills, NJ 08015.
Englewood Hospital & Medical Center | 350 Engle St, Englewood, NJ 07631.
Hackensack University Medical Center | 30 Prospect Ave, Hackensack, NJ 07601.
Jersey City Medical Center | 355 Grand Street, Jersey City, NJ 07307.
Jersey Shore University Medical Center | 1945 State Route 33, Neptune, NJ 07753.
Morristown Memorial Hospital | 100 Madison Ave, Morristown, NJ 07962.
Newark Beth Israel Medical Center | 201 Lyons Ave. at Osborne Terrace, Newark, NJ 07112 .
Our Lady of Lourdes Medical Center | 1600 Haddon Avenue, Camden, NJ 08103.
PBI Regional Medical Center | 350 Boulevard, Passaic, NJ 07055.
St. Barnabas Medical Center | 94 Old Short Hills Road, Livingston, NJ 07039.
St. Francis Medical Center | 601 Hamilton Avenue, Trenton, NJ 08629.
St. Joseph Regional Medical Center | 703 Main Street, Paterson, NJ 07503.
The Valley Hospital | 223 North Van Dien Avenue, Ridgewood, NJ 07450.
University Hospital UMDNJ | 150 Bergen Street, Newark, NJ 07101.
Gerald Champion Regional Medical | 2669 North Scenic Drive, Alamogordo, NM 88310.
Heart Hospital of New Mexico | 504 Elm St NE, Albuquerque, NM 87102.
Lovelace Medical Center | 5400 Gibson SE, Albuquerque, NM 87108.
Memorial Medical Center | 2450 S. Telshor, Las Cruces, NM 88011.
Presbyterian Healthcare Services | PO Box 26666, Albuquerque, NM 87125.
San Juan Regional Medical Center | 801 West Maple, Farmington, NM 87401.
North Vista Hospital | 1409 E Lake Mead Blvd, North Las Vegas, NV 89030.
Northern Nevada Medical Center | 2375 E Prater Way, Sparks, NV 89434.
Saint Mary's Regional Medical Center | 235 W. Sixth Street, Reno, NV 89503.
Southern Hills Hospital | 9300 West Sunset Road, Las Vegas, NV 89148.
Sunrise Hospital and Medical Center | 3186 S. Maryland Pkwy, Las Vegas, NV 89109.
University Medical Center of Las Vegas | 1800 W. Charleston Blvd., Las Vegas, NV 89102.
Valley Hospital Medical Center | 620 Shadow Lane, Las Vegas, NV 89106.
Washoe Medical Center | 77 Pringle Way, Reno, NV 89502.
Albany Medical Center Dept of Med Division of Cardiology | 43 New Scotland Ave., Albany, NY 12208.
Arnot-Ogden Medical Center | Arnot Heath Heart & Vascular Institute, Elmira, NY 14905-1629.
Bassett Healthcare (Mary Imogene Bassett Hospital) | One Atwell Road, Cooperstown, NY 13326.
Bellevue Hospital Center | 462 First Avenue, New York, NY 10016.
Binghampton General Hospital-United Health Services Hospital, Inc | 20-42 Mitchell Avenue, Binghampton, NY 13903.
Brookdale Hospital & Medical Center | 1 Brookdale Plaza, Brooklyn, NY 11212.
Brooklyn Hospital Center | 121 Dekalb Avenue, Brooklyn, NY 11201.
Buffalo General Hospital Aaron Health Science Library 4D | 100 High Street, Buffalo, NY 14203.
Crouse Hospital | 736 Irving Avenue, Syracuse, NY 13210.
Degraff Memorial Hospital | 445 Tremont Street, North Tanawanda, NY 14120.
Ellis Hospital | 1101 Nott St, Schenectady, NY 12308.
Erie County Medical Center | 462 Grider Street, Buffalo, NY 14215.
F.E. Lajam, MD, PC | 140-04 58th Road, Flushing, NY 11355.
Glens Falls Hospital | 100 Park Street, Glens Falls, NY 12801.
Good Samaritan Hospital | 255 Lafayette Ave, Suffern, NY 10901.
Good Samaritan Hospital Cardiology | 1000 Montauk Hwy, West Islip, NY 11795.
Huntington Hospital | 270 Park Ave., Huntington, NY 11743.
Kaleida Health Buffalo General Foundation | 726 Exchange St, Buffalo, NY 14210.
Kenmore Mercy Hospital | 515 Abbott Road, Buffalo, NY 14220.
Lawrence Hospital | 55 Palmer Ave, Bronxville, NY 10708-3491.
Lenox Hill Heart and Vascular Institute of New York | 100 East 77th St, New York, NY 10021.
Long Island College Hospital/Attn: A/P | 339 Hicks Street, Brooklyn, NY 11201.
Long Island Jewish Medical Center | 270-05 76th Avenue, New Hyde Park, NY 11040.
Maimonides Medical Center/Division of Cardiology | 4802 10th Ave., Brooklyn, NY 11219.
Mercy Hospital of Buffalo | 565 Abbott Rd., Buffalo, NY 14220.
Mercy Medical Center | 1000 North Village Ave, Rockville Centre, NY 11571.
Millard Fillmore Hospital | 3 Gates Circle, Buffalo, NY 14209.
Montefiore Medical Center | 111 East 210th Street, Bronx, NY 10467-2490.
Mount St Mary's Hospital | 5300 Military Road, Lewiston,, NY 14092.
New York Community Hospital | 2525 Kings Highway, Brooklyn, NY 11229.
New York Hospital Med. Center of Queens Health Ed Library | 56-45 Main ST EP Lab/3rd Floor, Flushing, NY 11355.
New York Methodist Hospital | 506 6th St Brooklyn, New York City, NY 11215.
New York Presbyterian Hospital | 622 West 168th Street, New York, NY 10032.
Nicholas H. Noyes Memorial Hospital | 111 Clara Barton Street, Dansville, NY 14437.
North Shore University Hospital | 300 Community Drive, Manhasset, NY 11030.
Orange Regional Medical Center | 60 Prospect Avenue, Middletown, NY 10940.
Park Ridge Hospital | 1555 Long Pond Road, Rochester, NY 14626.
Peconic Bay Medical Center | 1300 Roanoke Avenue, Riverhead, NY 11901.
Rochester General Hospital | 1425 Portland Ave, Rochester, NY 14621.
Saint Peter's Hospital | 315 South Manning Blvd, Albany, NY 12208.
Saint Vincent Hospital Manhattan | 170 W 12th St, New York, NY 10011.
Saint Vincent's Staten Island | 355 Bard Avenue, Staten Island, NY 10310.
Sisters of Charity Hospital | 2157 Main St., Buffalo, NY 14220.
Sound Shore Medical Center | 16 Guion Place, New Rochelle, NY 10801.
South Nassau Communities Hospital | One Healthy Way, Oceanside, NY 11572.
Southampton Hospital | 240 Meeting House Lane, Southhampton, NY 11968.
Southside Hospital | 301 East Main Street, Bayshore, NY 11706.
St Josephs Hospital Health Center | 301 Prospect Ave., Syracuse, NY 13203.
St Luke's Cornwall Hospital | 70 Dubois St., Newburgh, NY 12550.
St. Catherine of Siena | 50 Route 25A, Smithtown, NY 11787.
St. Charles Hospital | 200 Belle Terre Road, Port Jefferson, NY 11777.
St. Elizabeth Medical Center | 2209 Genesee St., Utica, NY 13501.
St. Francis Hospital | 100 Port Washington Blvd., Roslyn, NY 11576.
St. John's Queens Hospital | 90-02 Queens Boulevard, Elmhurst, NY 11373.
St. Joseph Intercommunity Hospital | 515 Abbott Road, Buffalo, NY 14220.
St. Joseph's Medical Center | 127 South Broadway, Yonkers, NY 10701.
St. Luke's-Roosevelt Hospital Center | 1111 Amsterdam Avenue, New York, NY 10025.
Stacia Hansen | 45 Read Place, Poughkeepsie, NY 12601.
Staten Island University Hospital | 475 Seaview Ave., Staten Island, NY 10305.
The Mount Sinai Hospital of Queens | 25-10 30th Avenue, Long Island City, NY 11102.
The Mount Sinai Medical Center | Mt Sinai Medical Center, New York, NY 10029.
United Health Services Hospitals/Wilson Regional M | 33-57 Harrison St, Johnson City, NY 13790.
University of Rochester Medical Center | 601 Elmwood Ave, Rochester, NY 14642.
Westchester County Medical Center | Valhalla Campus, Valhalla, NY 10595.
Winthrop University Hospital | 259 First St, Mineola, NY 11501.
Woman's Christian Assoc. Hospital | 207 Foote Ave, Jamestown, NY 14701.
Wyckoff Heights Medical Center | 374 Stockholm Street, Brooklyn, NY 11237.
Akron City Hospital | 525 East Market Street, Akron, OH 44309-2090.
Akron General Medical Center | 400 Wabash Ave, Akron, OH 44307.
Aultman Hospital | 2600 Sixth St. S.W., Canton, OH 44710.
Barberton Citizens Hospital | 155 5th St NE, Barberton, OH 44203.
Bethesda North Hospitals | 375 Dixmyth Ave., Cincinnati, OH 45220-2489.
Blanchard Valley Regional Health Center | 145 W Wallace St, Findlay, OH 45840-1299.
Cleveland Clinic Foundation | 9500 Euclid Ave, Cleveland, OH 44195.
Community Health Partners | 3700 Kolbe Road, Lorain, OH 44053.
Community Hospital | 2615 E. High Street, Springfield, OH 45505.
Community Hospital and Wellness Center | 433 West High Street, Bryan, OH 43506.
Dayton Heart Hospital | 707 S. Edwin C. Moses Blvd, Dayton, OH 45408.
Deaconess Hospital | 311 Straight St, Cincinnati, OH 45219.
Doctors Hospital | 5100 West Broad St., Columbus, OH 43228.
Doctors Hospital of Stark | 400 Austin Ave, Massillon, OH 44646.
East Ohio Regional Hospital | 90 N. 4th St., Martins Ferry, OH 43935.
EMH Regional Medical Center | 630 East River St, Elyria, OH 44035.
Fairfield Cardiac Cath Labs | 3000 Mack Rd., Suite 200, Fairfield, OH 45014.
Fairfield Medical Center | 401 North Ewing Street, Lancaster, OH 43130.
Fairview General Hospital | 18101 Lorain Ave, Cleveland, OH 44111.
Forum Health—Northside Medical Center | 500 Gypsy Lane, Youngstown, OH 44501-0240.
Good Samaritan Hosp & Health Center | 2222 Philadelphia Dr, Dayton, OH 45406.
Good Samaritan Hospital | 375 Dixmyth Ave., Cincinnati, OH 45220-2489.
Grandview Medical Center | 405 Grand Avenue, Dayton, OH 45405.
Grant Medical Center | 111 S Grant Avenue, Columbus, OH 43215.
Hillcrest Hospital | 6780 Mayfield Road, Mayfield Heights, OH 44124.
Kettering Medical Center | 35235 Southern Blvd, Kettering, OH 45429.
Lake Hospital System | 36000 Euclid Ave., Willoughby, OH 44094.
Lakewood Hospital | 14519 Detroit Avenue, Lakewood, OH 44107.
Lima Memorial Hospital | 1001 Bellefontaine Ave., Lima, OH 45804.
Marion General Hospital | 1000 McKinley Park Dr., Marion, OH 43302-6397.
Mary Rutan Hospital | 205 Palmer Avenue, Bellefontaine, OH 43311.
Med Central Mansfield | 335 Glessner Ave, Mansfield, OH 44903.
Medical University of Ohio | 3065 Arlington Ave., DH2261 Toledo, OH 43614.
Mercy Medical Center | 1343 North Fountain Blvd., Springfield, OH 45503.
Mercy Medical Center | 1320 Mercy Dr NW, ATTN: SCU Canton, OH 44708.
MetroHealth Medical Center | 2500 MetroHealth Drive, Cleveland, OH 44109.
Miami Valley Hospital | One Wyoming Street, Dayton, OH 45409.
Mount Carmel East | 777 West State Street, Columbus, OH 43222.
Mount Carmel St. Ann's Hospital | 6150 East Broad Street, Columbus, OH 43213.
Mount Carmel West | 777 West State Street, Suite 505A Columbus, OH 43222-1560.
Ohio State University Medical Center | 410 W. 10th Ave., 142 Doan Hall Columbus, OH 43210-1228.
Parma Community General Hospital | 7007 Powers Blvd., Parma, OH 44129.
Riverside Methodist Hosp | 3535 Olentangy River Road, Columbus, OH 43214.
Robinson Memorial Hospital | 6847 N. Chestnut St., Ravenna, OH 44266.
Saint Elizabeth Health Center | 1044 Belmont Ave., Youngstown, OH 44501.
Saint Ritas Medical Center | 730 West Market Street, Lima, OH 45801-4602.
Southern Ohio Medical Center | 1805 27th Street, Portsmouth, OH 45662.
Southwest General Health Center | 18697 Bagley Rd, Middleburg Heights, OH 44130-3417.
St Vincent Mercy Medical Center | 2213 Cherry Street, Toledo, OH 43608.
St. John West Shore Hospital | 29000 Center Ridge Rd, Westlake, OH 44145.
St. Luke's Hospital | 5901 Monclova Rd, Maumee, OH 43537.
St. Vincent Charity Hospital | 2351 E 22nd Street, Cleveland, OH 44115.
The Christ Hospital | 2139 Auburn Ave, Cincinnati, OH 45219.
The Toledo Hospital | 2142 North Cove Blvd, Toledo, OH 43606.
Trinity Medical Center West | 4000 Johnson Road, Steubenville, OH 43952.
University Hospital | 234 Goodman Street, Cincinnati, OH 45219.
University Hospitals of Cleveland | 11100 Euclid Ave., Cleveland, OH 44106.
Wilson Memorial Hospital | 915 West Michigan, Sidney, OH 45365.
Wooster Community Hospital | 1761 Beall Ave., Wooster, OH 44691.
Comanche County Memorial Hospital | 3401 W Gore Blvd, Lawton, OK 73505.
Deaconess Hospital | 5501 N. Portland Avenue, Oklahoma City, OK 73112.
Great Plains Regional Medical Center | PO Box 2339, Elk City, OK 73648.
Hillcrest Medical Center | 1120 South Utica, Tulsa, OK 74104.
Integris Baptist Medical Center | 3300 NW Expressway, 100-4282, Oklahoma City, OK 73112.
Integris Health | 600 S. Monroe, Enid, OK 73701.
Integris Southwest Medical Center | 4401 S. Western, Oklahoma City, OK 73109.
Jane Phillips Memorial Medical Center | 3500 Frank Phillips Blvd, Bartlesville, OK 74006.
McAlester Regional Health Center | 1 Clark Bass Blvd., McAlester, OK 74501.
Midwest Regional Medical Center | 2825 Parklawn Drive, Midwest City, OK 73110.
Muskogee Regional Medical Center | 300 Rockefeller Drive, Muskogee, OK 74401.
Norman Regional Hospital | PO Box 1308, Norman, OK 73070-1308.
Oklahoma Heart Hospital | 4050 W Memorial Road, Oklahoma City, OK 73120.
OU Medical Center | 1200 Everett Drive, Oklahoma City, OK 73104.
Saint Francis Heart Hospital | 10501 E 91st Street South, Tulsa, OK 74133.
Saint Francis Hospital | 6161 S. Yale, Tulsa, OK 74136.
South Crest Hospital | 8801 S 101st E Ave, Tulsa, OK 74133.
Southwestern Medical Center | 5602 SW Lee Blvd, Lawton, OK 73505.
St Mary's Regional Medical Center | 305 S. 5th Street, Enid, OK 73701.
St. John Medical Center | 1923 S. Utica, Tulsa, OK 74104.
Tahlequah City Hospital | 1400 East Downing, Tahlequah, OK 74465.
Tulsa Regional Medical Center | 744 W. 9th, Tulsa, OK 74127.
Adventist Medical Center | 10123 SE Market St, Portland, OR 97216.
Good Samaritan Regional Medical Center | 3600 NW Samaritan Drive, Corvallis, OR 97330.
Legacy Emanuel Hospital | 1919 NW Lovejoy, Portland, OR 97209.
Legacy Good Samaritan | 1919 NW Lovejoy, Portland, OR 97209.
Providence Portland Medical Center | 9205 South West. Barnes Road, Portland, OR 97225.
Providence Saint Vincent Med Center | Regional Heart Data Services, 9205 South West Barnes Road #33, Portland, OR 97225.
Rogue Valley Medical Cent | 2825 E. Barnett Road, Medford, OR 97504.
Sacred Heart Medical Center | 1155 Hilyard St, Eugene, OR 97401.
Salem Hospital (Regional Health Services) | 665 Winter St. SE, Salem, OR 97309-5014.
St. Charles Medical Center | 2500 North East Neff Road, Bend, OR 97701-6015.
Abington Memorial Hospital | 1200 York Road, Abington, PA 19446.
Albert Einstein Medical Center | 5501 Old York Rd, Philadelphia, PA 19141.
Allegheny General Hospital | 320 East North Ave, Pittsburgh, PA 15212.
Altoona Hospital | 620 Howard Ave., Altoona, PA 16601.
Brandywine Hospital | 201 Reeceville Rd., Coatesville, PA 19320.
Bryn Mawr Hospital | 100 Lancaster Avenue, Wynnewood, PA 19096.
Chester County Hospital | 701 East Marshall Street, West Chester, PA 19380.
Community Medical Center | 1800 Mulberry Street, Scranton, PA 18510.
Crozer Chester Medical Center | 1 Medical Center Blvd, Chester, PA 19013-3995.
Crozer Chester Medical Center | 1 Medical Center Blvd, Upland, PA 19013.
Doylestown Hospital | 595 West State Street, Doylestown, PA 18901.
DuBois Regional Medical Center | PO Box 447, DuBois, PA 15801-1440.
Easton Hospital (Northampton Hospital Corp) | 250 South 21st St., Easton, PA 18042.
Excela Health Westmoreland Hospital | 532 West Pittsburgh Street, Greensburg, PA 15601.
Frankford Hospital | Knights and Red Lion Roads, Philadelphia, PA 19114.
Geisinger Medical Center | 100 North Academy Avenue, Danville, PA 17822-2160.
Geisinger Wyoming Valley Medical Center | 100 N. Academy Avenue, Danville, PA 17822-2160.
Graduate Hospital | 1800 Lombard St., Philadelphia, PA 19146.
Grand View Hospital | 700 Lawn Ave, Sellersville, PA 18960.
Hahnemann University Hospital | 230 N. Broad Street, Mail Stop # 301, Philadelphia, PA 19102.
Hamot Medical Center | 201 State Street, Erie, PA 16550.
Heart of Lancaster Regional Medical Center | 250 College Avenue, Lancaster, PA 17604.
Heritage Valley Health System | 1000 Dutch Ridge Road, Beaver, PA 15009.
Holy Spirit Health System | 503 N 21st St, Camp Hill, PA 17011-2204.
Hospital of the University of Pennsylvania | 9011 E Gates 3400 Spruce St, Philadelphia, PA 19104.
Indiana Regional Medical Center/Cardiology Department | 835 Hospital Road, Indiana, PA 15701.
Jefferson Regional Medical Center | 565 Coal Valley Road, Pittsburgh, PA 15236-0119.
Lancaster General Hospital | 555 North Duke Street, Lancaster, PA 17604-3555.
Lancaster Regional Medical Center | 250 College Avenue, Lancaster, PA 17604.
Lankenau Hospital | 100 Lancaster Avenue, Wynnewood, PA 19096.
Lehigh Valley Hospital | 1200 South Cedar Crest Blvd, Allentown, PA 18103.
Lehigh Valley Hospital/Muhlenberg | 2545 Schoenersville Rd., Bethlehem, PA 18017.
Lower Bucks Hospital | 501 Bath Road, Bristol, PA 19007.
Mercy Fitzgerald Hospital | 1500 Lansdowne Ave, Darby, PA 19023.
Mercy Hospital—Scranton | 746 Jefferson Avenue, Scranton, PA 18501.
Mercy Hospital of Pittsburgh | 1400 Locust Street, Pittsburgh, PA 15219.
Paoli Hospital | 100 Lancaster Avenue, Wynnewood, PA 19096.
Penn Presbyterian Medical Center | 39th & Market Sts, Philadelphia, PA 19104.
Penn State Hershey Medical Center, | PO Box 850 H139, Hershey, PA 17033.
Pennsylvania Hospital | 800 Spruce Street, Philadelphia, PA 19107-6192.
Phoenixville Hospital | 140 Nutt Road, Phoenixville, PA 19460-3906.
Pinnacle Health Invasive Cardiology | 111 South Front St, Harrisburg, PA 17101-2099.
Robert Packer Hospital | 1 Guthrie Square, Sayre, PA 18840.
Saint Vincent Health Center | 232 West 25th Street, Erie, PA 16544.
St. Joseph Medical Center | 12th & Walnut Street, Reading, PA 19603.
St. Lukes Hospital & Health Network | 801 Ostrum St., Bethlehem, PA 18020.
St. Mary Hospital | 1201 Langhorne Newtown Road, Langhorne, PA 19047.
Temple University Hospital | 3401 North Broad St, Philadelphia, PA 19140.
The Reading Hospital and Medical Center | Sixth Avenue and Spruce Street, West Reading, PA 19611.
The Western Pennsylvania Hospital | 4800 Friendship Ave., Pittsburgh, PA 15224.
Thomas Jefferson University Hospital | 111 S. 11th Street Gibbon Bldg., Philadelphia, PA 19107.
UPMC Passavant Hospital | 9100 Babcock Blvd., Pittsburgh, PA 15237.
UPMC Presbyterian Hospital | 5230 Centre Ave, Pittsburgh, PA 15232.
UPMC Shadyside Hospital | 5230 Centre Ave, Pittsburgh, PA 15232.
Wyoming Valley Health Care System | 575 North River Street, Wilkes-Barre, PA 18764.
York Hospital | 1001 South George Street, York, PA 17405.
Landmark Medical Center | 115 Cass Ave, Woonsocket, RI.
Memorial Hospital of Rhode Island/Brown University | 111 Brewster Street, Pawtucket, RI.
Rhode Island Hospital | 593 Eddy St, Providence, RI 02903.
Aiken Regional Medical Center | 302 University Parkway, Aiken, SC 29802.
AnMed Health | 800 Fant Street, Anderson, SC 29621.
Carolina Pines Regional Medical Center | 1304 W Bobo Newsom Hwy, Hartsville, SC 29069.
Carolinas Hospital System | 805 Pamplico Hwy, Florence, SC 29505.
Greenville Memorial Hospital | 701 Grove Road, Greenville, SC 29605.
Kershaw Medical Center | 1315 Roberts St, Camden, SC 29020.
Mary Black Hospital | 1700 Skylyn Drive, Spartanburg, SC 29307.
McLeod Regional Medical Center | 555 E. Chaves St., Florence, SC 29501.
Medical University of South Carolina | 165 Ashley Ave, PO Box 250915, Charleston, SC 29425.
Palmetto Health Heart Hospital | 5 Richland Medical Park Drive, Columbia, SC 29203.
Piedmont Medical Center | 222 S. Herlong Avenue, Rock Hill, SC 29732.
Providence Hospital | 2435 Forest Drive, Columbia, SC 29204.
Regional Medical Center | 3000 St. Matthews Road, Orangeburg, SC 29118.
Roper Hospital | 316 Calhoun Street, Charleston, SC 29401.
Self Regional Healthcare | 1325 Spring Street, Greenwood, SC 29646.
Spartanburg Regional Med Center | 101 East Wood St., 3rd Floor Heart Center, Spartanburg, SC 29303.
Springs Memorial Hospital | 800 West Meeting Street, Lancaster, SC 29720.
St. Francis Hospital | One St. Francis Drive, Greenville, SC 29601.
Trident Regional Medical Center | 9330 Medical Plaza Drive, Charleston, SC 29406.
Tuomey Healthcare System, Tuomey Regional Medical Center | 129 N. Washington Street, Sumter, SC 29150.
Avera Heart Hospital of South Dakota | 4500 West 69th Street, Sioux Falls, SD 57108.
Avera Sacred Heart Hospital | 501 Summit, Yankton, SD 57078.
Rapid City Regional Hospital | 353 Fairmont Blvd, Rapid City, SD 57702.
Sioux Valley Hospitals & Health System | 1305 West 18th Street, Sioux Falls, SD 57117.
Baptist Hospital | 2000 Church Street, Nashville, TN 37236.
Baptist Hospital of East Tennessee | 137 Blount Ave., Knoxville, TN 37920.
Baptist Hospital West | 10820 Parkside Drive, Knoxville, TN 37934.
Baptist Memorial Hospital | 6019 Walnut Grove Road, Memphis, TN 38120.
Centennial Medical Center | 2300 Patterson Street, Nashville, TN 37203.
Chattanooga-Hamilton County Hospital Authority/Erlanger Health System | 975 E. Third Street, Chattanooga, TN 37403.
Cookeville Regional Medical Center | 142 W 5th St, Cookeville, TN 38501-1760.
Fort Sanders Regional Med Center | 1901 Clinch Avenue, Knoxville, TN 37916-2307.
Gateway Medical Center, Gateway Health System | 1771 Madison Street, Clarksville, TN 37043.
Harton Regional Medical Center | 1801 N Jackson St, Tullahoma, TN 37388.
Jackson Madison General Hospital | 708 West Forrest, Jackson, TN 38301.
Johnson City Medical Center Hospital | 400 N. State of Franklin, Johnson City, TN 37604.
Maury Regional Hospital | 1224 Trotwood Avenue, Columbia, TN 38401.
Memorial Hospital | 2525 Desales Ave, Chattanooga, TN 37404-1102.
Memphis Hospital (Germantown Campus) | 1265 Union Ave., Memphis, TN 38104-3499.
Memphis Hospital (North Campus) | 1265 Union Ave., Memphis, TN 38104-3499.
Memphis Hospital (South Campus) | 1265 Union Ave., Memphis, TN 38104-3499.
Memphis Hospital (University Campus) | 1265 Union Ave., Memphis, TN 38104-3499.
Methodist Medical Center | 280 Fort Sanders Blvd., Bldg 4, Suite 218, Knoxville, TN 37922.
Parkridge Medical Center | 2333 McCallie Ave., Chattanooga, TN 37404.
Parkwest Medical Center | 9352 Parkwest Blvd, Knoxville, TN 37923.
Regional Hospital of Jackson | 367 Hospital Blvd., Jackson, TN 38305.
Saint Francis Hospital | 5959 Park Ave, Memphis, TN 38119.
Saint Thomas Health Care Services | 4220 Harding Road, PO Box 380 Nashville, TN 37202-0380.
Saint Thomas Health Services | 4220 Harding Road, Nashville, TN 37203.
Skyline Medical Center/HTI Memorial Hospital Corp | 3441 Dickerson Pike, Nashville, TN 37207.
St. Mary's Medical Center | 900 Oak Hill Ave, Knoxville, TN 37917-4556.
University Medical Center | 1411 Baddour Parkway, Lebanon, TN 37087.
University of Tennessee Medical Center | 1924 Alcoa Highway, Knoxville, TN 37920-6999.
Vanderbilt University/Accounts Payable Section | VU Station B-351810, Nashville, TN 37235.
Wellmont Holston Valley Medical Center | 130 W Ravine St, Kingsport, TN 37664.
Abilene Regional Medical Center | 6250 Hwy 83/84, Abilene, TX 79601.
Alliance Hospital | 515 North Adams, Odessa, TX 79761.
Arlington Memorial Hospital | 800 W Randol Mill Rd., Arlington, TX 76012-2504.
Baptist Health System | 215 E Quincy, Suite 200, San Antonio, TX 78215.
Baptist Medical Center | 111 Dallas St, San Antonio, TX 78205.
Baptist St. Anthony's Health Systems | 1600 Wallace Blvd, Amarillo, TX 79106.
Baylor All Saints Medical Center | 1400 Eighth Ave, Fort Worth, TX 76104.
Baylor Jack and Jane Hamilton Heart and Vascular Hospital | 621 North Hall Street, Dallas, TX 75226.
Baylor Medical Center at Garland | 2300 Marie Curie, Garland, TX 75042.
Baylor Medical Center at Irving | 1901 North MacArthur Blvd, Irving, TX 75061.
Baylor Regional Medical Center at Grapevine | 1650 West College, Grapevine, TX 76051.
Baylor Regional Medical Center of Plano | 4700 Alliance Blvd, Plano, TX 75093.
Baylor University Medical Center | 3500 Gaston Ave, Dallas, TX 75246.
Bayshore Medical Center | 4000 Spencer Hwy., Pasadena, TX 77504.
Centennial Medical Center | 12505 Lebanon Rd., Frisco, TX 75035.
Christus Hospital—St. Mary | 3600 Gates Blvd., Port Arthur, TX 77642.
Christus Saint Elizabeth Hospital | 2830 Calder St., Beaumont, TX 77702.
Christus Spohn Hospital Corpus Christi—Shoreline | 600 Elizabeth Street, Corpus Christi, TX 78404.
Christus St. Michael Health System | 2600 St. Michael Drive, Texarkana, TX 75501.
Clear Lake Regional Medical Center | 500 Medical Center Blvd., Webster, TX 77598.
College Station Medical Center | 1602 Rock Prairie Road, College Station, TX 77842.
Columbia North Hills Hospital | 4401 Booth Calloway Rd., North Richland Hills, TX 76180.
Conroe Regional Medical Center | 504 Medical Center Blvd., Conroe, TX 77304.
Covenant Heart Institute | 3615 19th Street, Lubbock, TX 79410.
Del Sol Medical Center | 10301 Gateway West, El Paso, TX 79925.
Denton Regional Medical Center | 3535 South I-35E, Denton, TX 76205.
Doctors Hospital | 9440 Poppy Drive, Dallas, TX 75218.
Doctors Hospital at Renaissance | 5501 South McColl, Edinburg, TX 78539.
Doctors Hospital of Laredo | 10700 McPherson Road, Laredo, TX 78045.
East Texas Medical Center | 1000 S. Beckham, Tyler, TX 75711.
Good Shepherd Medical Center | 700 E. Marshall, Longview, TX 75601.
Gulf Coast Medical Center | 1400 Hwy. 59, Wharton, TX 77488.
Harlingen Medical Center | 5501 South Expressway 77, Harlingen, TX 78550.
Harris County Hospitals | 1504 Taub Loop, Houston, TX 77030.
Harris Methodist Fort Worth | 1301 Pennsylvania Avenue, Fort Worth, TX 76104.
Harris Methodist HEB | 1600 Hospital Parkway, Bedford, TX 76022.
Heart Hospital of Austin | 3801 N. Lamar Blvd., Austin, TX 78756.
Hendrick Medical Center | 1900 Pine Street, Abilene, TX 79601.
Houston Northwest Medical Center/Accounts Payable | 710 FM 1960 West, Houston, TX 77090.
Huguley Memorial Medical Center | 11801 S. Freeway, Ft. Worth, TX 76115.
Kingwood Medical Center | 22999 Highway 59 N, Kingwood, TX 77339.
Laredo Medical Center | 1720 Bustamante Street, Laredo, TX 78044.
Las Colinas Medical Center | 6700 North MacArthur Boulevard, Irving, TX 75039.
Las Palmas Medical Center | 1801 N Oregon, El Paso, TX 79902.
Longview Regional Medical Center | PO Box 14000, Longview, TX 75607.
Lubbock Heart Hospital | 4810 N. Loop 289, Lubbock, TX 79416.
McAllen Medical Center | 301 W Expressway 83, McAllen, TX 78503.
Medical Center Hospital | 500 W. 4th St., Odessa, TX 79760.
Medical Center of Arlington | 3301 Matlock Road, Arlington, TX 76015.
Medical Center of Lewisville | 500 West Main, Lewisville, TX 75057.
Medical Center of Mckinney | 4500 Medical Center Dr., McKinney, TX 75069.
Medical Center of Mesquite | 1011 N. Galloway Ave., Mesquite, TX 75149.
Medical Center of Plano | 3901 W 15th St., Plano, TX 75075-7738.
Medical City Dallas Hospital | 7777 Forrest Lane, Dallas, TX 75230.
Memorial Hermann Hospital | 6411 Fannin; 1 Jones, Ste. 1.466, Houston, TX 77030.
Memorial Hermann South West | 7600 Beechnut, Houston, TX 77074.
Memorial Hermann Texas Medical Center | 6411 Fannin, Houston, TX 77030.
Memorial Hermann the Woodlands Hospital | 9250 Pinecroft, The Woodlands, TX 77380.
Mesquite Community Hospital | 3500 I-30, Mesquite, TX 75150.
Methodist Hospital | 7700 Floyd Curl Drive, San Antonio, TX 78229.
Methodist Sugarland Hospital | 16655 Southwest Freeway, Sugarland, TX 77479.
Midland Memorial Hospital | 2200 W. Illinois Ave., c/o Heart Institute, Midland, TX 79701.
Mission Regional Medical Center | 900 S Bryan Rd., Mission, TX 78572.
Mother Frances Hospital | 800 E. Dawson, Tyler, TX 75701.
Nix Healthcare System | 414 Navarro Street, San Antonio, TX 78205.
North Austin Medical Center | 12221 MoPac Expressway North, Austin, TX 78758.
North Central Baptist Hospital | 520 Madison Oak, San Antonio, TX 78258.
Northeast Baptist Hospital | 8811 Village Dr., San Antonio, TX 78217.
Northwest Texas Surgical Hospital | 3501 Soncy Road Suite 118, Amarillo, TX 79119.
Odessa Regional Hospital | 520 East Sixth Street, Odessa, TX 79760.
Paris Regional Medical Center | 820 Clarksville, Paris, TX 75460.
Park Plaza Hospital | 1313 Hermann Drive, Houston, TX 77004.
Plaza Medical Center of Fort Worth | 900 Eighth Avenue, Fort Worth, TX 76104.
Presbyterian Hospital of Dallas | 8200 Walnut Hill Lane, Dallas, TX 75231.
Presbyterian Hospital of Plano | 6200 West Parker Road, Plano, TX 75093-7914.
Providence Health Center | 6901 Medical Parkway, Waco, TX 76712.
Providence Memorial Hospital | 2001 North Oregon, El Paso, TX 79902.
RHD Memorial Medical Center | 7 Medical Parkway, Dallas, TX 75234.
Rio Grande Regional Hospital | 101 E. Ridge Rd., McAllen, TX 78503.
Round Rock Medical Center | 2400 Round Rock Ave., Round Rock, TX 78681.
Saint Joseph Regional Health Center | 2801 Franciscan St., Bryan, TX 77802-2544.
San Jacinto Methodist Hospital | 4401 Garth Rd., Baytown, TX 77521.
Scott and White Clinic and Hospital | 2401 South 31st Street, Alexander Bldg., Temple, TX 76508.
Seton Medical Center | 1201 W 38th St., Austin, TX 78705.
Sierra Medical Center | 1625 Medical Center Drive, El Paso, TX 79902.
South Austin Hospital | 901 W. Ben White Blvd., Austin, TX 78704.
Southeast Baptist Hospital | 4214 E. Southcross, San Antonio, TX 78222.
Southwest General Hospital | 7400 Barlite Blvd., San Antonio, TX 78224.
St. David's Medical Center | 919 East 32nd, Austin, TX 78765.
St. Joseph Medical Center | 1401 St. Joseph Pkwy., Houston, TX 77002.
St. Luke's Baptist Hospital | 7830 Floyd Curl Dr., San Antonio, TX 78229.
St. Luke's Episcopal Hospital/Cardiology Education | 6720 Bertner Ave., Houston, TX 77030.
Texoma Medical Center | 1000 Memorial Dr., Denison, TX 75020.
Texsan Heart Hospital | 6700 IH-10 West, San Antonio, TX 78201.
The Heart Hospital of Northwest Texas | 1501 S. Coulter, Amarillo, TX 79106.
The Hospital at Westlake Medical Center | 5656 Bee Caves Rd., M-302, Austin, TX 78746.
The Medical Center of Southeast Texas | 2555 Jimmy Johnson Blvd., Port Arthur, TX 77640.
The Methodist DeBakey Heart Center | 6565 Fannin, Mail Station A1001, Houston, TX 77030.
Tomball Regional Hospital | 605 Holderrieth Street, Tomball, TX 77375.
Twelve Oaks Medical Center | 4200 Twelve Oaks Drive, Houston, TX 77027.
United Regional Healthcare System | 1600 11th Street, Wichita Falls, TX 76302.
University Medical Center | 602 Indiana Ave., Lubbock, TX 79410.
University of Texas Medical Branchat Galveston | 301 University Blvd., Galveston, TX 77555-0294.
University of Texas Southwestern-University Hospital | 5323 Harry Hines Blvd., Dallas, TX 75390-9013.
Val Verde Regional Medical Center | 801 Bedell Ave., Del Rio, TX 78840.
Valley Baptist Medical Center | 2101 Pease St., Harlingen, TX 78550.
Valley Baptist Medical Center-Brownsville | 1040 W. Jefferson, Brownsville, TX 78520.
Valley Regional Medical Center | 100 Unit A East Alton, Gloor Blvd., Brownsville, TX 78526.
Wadley Regional Medical Center | 1000 Pine Street, Texarkana, TX 75501.
West Houston Medical Center | 12141 Richmond Ave., Houston, TX 77082.
West Texas Medical Center | 25 Village Circle, Midland, TX 79701.
Wilson N. Jones Medical Center | 500 N Highland Ave., Sherman, TX 75092.
Castleview Hospital | 300 North Hospital Dr., Price, UT 84501.
Davis Hospital | 1600 West Antelope Dr., Layton, UT 84041.
Dixie Regional Medical Center | 1380 E. Medical Drive St. George, UT 84790.
LDS Hospital | 8th Ave. & C St., Salt Lake City, UT 84143.
McKay-Dee Hospital Center | 4401 Harrison Blvd., Ogden, UT 84405.
Ogden Regional Medical Center | 5475 South 500 East, Ogden, UT 84403.
Salt Lake Regional Medical Center | 1050 East South Temple, Salt Lake City, UT 84102.
St. Marks Hospital/Northern Utah Healthcare Corporation | 1250 East 3900 South Street, Salt Lake City, UT 84124.
Timpanogos Regional Hospital | 750 W. 800 N., Orem, UT 84057.
University of Utah Hospital and Clinic/Division of Cardiology | 50 North Medical Drive, Salt Lake City, UT 84132.
Utah Valley Regional Medical Center | 1034 North 500 West, Provo, UT 84604.
Bon Secours DePaul Medical Center | 150 Kingsley Lane, Norfolk, VA 23505.
Bon Secours Maryview Medical Center | 3636 High Street, Portsmouth, VA 23707.
Bon Secours—Memorial Regional Medical Center | 8260 Atlee Road, Mechanicsville, VA 23116.
Bon Secours—St. Mary's Hospital | 5801 Bremo Road, Richmond, VA 23226.
Carilion Roanoke Memorial Hospital | Attn: Cardiac Cath Lab, P.O. Box 13367, Roanoke, VA 24033-3367.
Chesapeake General Hospital | 736 Battlefield Blvd North, Chesapeake, VA 23320.
CJW Medical Center | 7101 Jahnke Rd., Richmond, VA 23225-4044.
Halifax Regional Hospital | 2204 Wilborn Avenue, South Boston, VA 24592.
Henrico Doctors Hospital | 1602 Skipwith Drive, Richmond, VA 23229.
Inova Alexandria Hospital | 4320 Seminary Road, Alexandria, VA 22304.
Inova Fairfax Hospital | 3300 Gallows Road, Falls Church, VA 22042.
Lewis Gale Medical Center | 1900 Electric Rd., Salem, VA 24153.
Lynchburg General Hospital | 1901 Tate Springs Road, Lynchburg, VA 24501-1167.
Martha Jefferson Hospital | 459 Locust Avenue, Charlottesville, VA 22902.
Mary Washington Hospital | 1001 Sam Perry Blvd., Fredericksburg, VA 22401.
Memorial Hospital of Martinsville | 320 Hospital Drive, Martinsville, VA 24112.
Northern Virginia Community Hospital | 601 South Carlin Springs Rd., Arlington, VA 22204.
Obici Hospital | 2800 Godwin Blvd., Suffolk, VA 23434.
Reston Hospital Center | 1850 Town Center Pkwy, Reston, VA 20190.
Riverside Regional Medical Center | 500 J Clyde Morris Blvd., Newport News, VA 23601.
Sentara Norfolk General Hospital | 600 Gresham Drive, Norfolk, VA 23507.
Sentara Virginia Beach General Hospital | 1060 First Colonial Rd., Virginia Beach, VA 23454-0685.
Sid Peterson Memorial Hospital | 710 Water St., Kerrville, VA 78028.
University of Virginia Medical Center | P.O. Box 800679, Charlottesville, VA 22908-0679.
VCU-Medical College of Virginia | P.O. Box 980036, Richmond, VA 23298.
Virginia Hospital Center | 1701 N George Mason Dr., Arlington, VA 22205-3698.
Winchester Medical Center Inc. | 1840 Amherst St., Winchester, VA 22601.
Fletcher Allen Health Care | 111 Colchester Ave., Burlington, VT 05401.
Rutland Regional Medical Center | 160 Allen Street, Rutland, VT 05701.
Deaconess Medical Center | W. 800 Fifth Ave., Spokane, WA 99204.
Harrison Medical Center | 2520 Cherry Avenue, Bremerton, WA 98310.
Northwest Hospital | 1550 North 115th Street, Seattle, WA 98113.
Overlake Hospital Medical Center | 1035-116th Avenue, NE., Bellevue, WA 98004.
Providence Everett Medical Center | 1321 Coby Ave., P.O. Box 1147, Everett, WA 98206-1147.
Providence St. Peter Hospital | 413 Lilly Road, NE., Olympia, WA 98506.
Sacred Heart Medical Center | 101 W. Eighth Avenue, Spokane, WA 99204.
Saint Joseph Medical Center | 1717 South J Street, Tacoma, WA 98405-4933.
Southwest Washington Medical Center | 600 NE 92nd Ave., Vancouver, WA 98664.
St. John Medical Center | 1615 Delaware St., Longview, WA 98632.
St. Joseph Hospital | 2901 Squalicum Parkway, Bellingham, WA 98225.
Swedish Medical Center | 747 Broadway, Seattle, WA 98122.
Tacoma General Hospital (Multicare Health System) | 315 Martin Luther King Jr. Way, Tacoma, WA 98415.
University of Washington Medical Center | 1959 NE Pacific Street, Seattle, WA 98195-6422.
Valley Medical Center | 400 South 43rd Street, Renton, WA 98058.
Virginia Mason Medical Center | 1100 Ninth Avenue, Seattle, WA 98111.
Yakima Regional Medical Center/Cardiac Center | 110 South Ninth Ave., Yakima, WA 98902.
Yakima Valley Memorial Hospital | 2811 Tieton Drive, Yakima, WA 98902.
All Saints Healthcare | 3801 Spring St., Racine, WI 53405.
Aurora Bay Care Medical Center | 2845 Greenbrier Road, Green Bay, WI 54308.
Aurora Sinai Medical Center | 2900 West Oklahoma Ave., Milwaukee, WI 53215.
Bellin Memorial Hospital | 744 S. Webster Ave., Cardiac Data Center 5th Floor, Green Bay, WI 54301.
Columbia St. Mary's Hospital Milwaukee | 4425 N Port Washington Road, Milwaukee, WI 53212.
Columbia St. Mary's Hospital Ozaukee | 13111 North Port Washington Rd., Mequon, WI 53097.
Community Memorial Hospital | W180 N8085 Town Hall Road, Menomonee Falls, WI 53051.
Froedtert Hospital | 9200 W. Wisconsin Ave., Milwaukee, WI 53226.
Gundersen Lutheran Medical Center, Inc. | 1910 South Ave., LaCrosse, WI 54601.
Luther Hospital | 1221 Whipple Street, Eau Claire, WI 54703.
Mercy Medical Center | 500 S Oakwood, Oshkosh, WI 54904.
Meriter Hospital | 202 South Park Street, 10 Tower—Heart Center, Madison, WI 53715.
Parkview Hospital | 1726 Shawano Ave., Green Bay, WI 54303-3282.
Sacred Heart Hospital/Attn: A/P | 900 W. Clairemont Ave., Eau Claire, WI 54701.
Saint Clare's Hospital | 611 St. Joseph's Ave., Marshfield, WI 54449.
Saint Elizabeth Hospital | 1611 S Madison St., Appleton, WI 54915.
Saint Josephs Hospital/Marshfield Clinic | 611 St. Joseph Ave., Marshfield WI 54449-1832.
St. Francis Hospital | 5000 West Chambers, M229, Milwaukee, WI 53210.
St. Joseph Regional Medical Center | 5000 West Chambers, M229, Milwaukee, WI 53210.
St. Lukes Medical Center | 2900 West Oklahoma Avenue, Milwaukee, WI 53215-4330.
St. Mary's Hospital | 707 S Mills St., Madison, WI 53715-1849.
St. Michael Hospital | 5000 West Chambers Street, M229, Milwaukee, WI 53210.
St. Nicholas Hospital | 3100 Superior Ave., Sheboygan, WI 53081.
The Monroe Clinic | 515 22nd Ave., Monroe, WI 53566.
The Wisconsin Heart Hospital | 5000 West Chambers, M229, Milwaukee, WI 53210.
United Hospital System | 6308 8th Avenue, Kenosha, WI 53143.
University of Wisconsin Hospital & Clinics | 600 Highland Ave., Madison, WI 53792.
Waukesha Memorial Hospital | 725 American Ave., Waukesha, WI 53188.
Cabell Huntington Hospital | 1340 Hal Greer Blvd., Huntington, WV 25701.
Camden-Clark Memorial Hospital | 800 Garfield Ave., Parkersburg, WV 26101.
Charleston Area Medical Center | 501 Morris Street, Charleston, WV 25301.
Logan General Hospital | 20 Hospital Drive, Logan, WV 25601.
Marshall University School of Medicine | 420 West Magnetic St., Huntington, WV 25701.
Monongalia General Hospital | 1200 JD Anderson Dr., Morgantown, WV 26505.
Ohio Valley Medical Center | 2000 Eoff Street, Wheeling, WV 26003.
Putnam General Hospital | 1400 Hospital Drive, Hurricane, WV 25526.
Saint Josephs Hospital | 1824 Murdoch Avenue, Parkersburg, WV 26102-0327.
St. Francis Hospital West Virginia | 333 Laidley Street, Charleston, WV 25322.
United Hospital Center Inc. | P.O. Box 1680, Clarksburg, WV 26302-1680.
West Virginia University Hospitals Inc. | Medical Center Drive, Morgantown, WV 26506-8003.
Wheeling Hospital | 1 Medical Park, Wheeling, WV 26003.
United Medical Center | 214 E. 23rd St., Cheyenne, WY 82001.
Wyoming Medical Center | 1233 East 2nd Street, Casper, WY 82601-2988.

Addendum X—Active CMS Coverage-Related Guidance Documents

[April Through June 2006]

On September 24, 2004, we published a notice in the Federal Register (69 FR 57325), in which we explained how we would develop coverage-related guidance documents. These guidance documents are required under section 731 of the MMA. In our notice, we committed to the public that, “At regular intervals, we will update a list of all guidance documents in the Federal Register.”

Addendum X includes a list of active CMS guidance documents as of the ending date of the period covered by this notice. To obtain full-text copies of these documents, visit the CMS Coverage Web site at http://www.cms.hhs.gov/mcd/index_list.asp?list_type=mcd_1.

Document Name: Factors CMS Considers in Commissioning External Technology Assessments.

Date of Issuance: April 11, 2006.

Document Name: Factors CMS Considers in Opening a National Coverage Determination.

Date of Issuance: April 11, 2006.

Document Name: (Draft) Factors CMS Considers in Referring Topics to the Medicare Coverage Advisory Committee.

Date of Issuance: March 9, 2005.

Document Name: National Coverage Determinations with Data Collection as a Condition of Coverage: Coverage With Evidence Development.

Date of Issuance: July 12, 2006.

Addendum XI—List of Special One-Time Notices Regarding National Coverage Provisions

[April Through June 2006]

As medical technologies, the contexts under which they are delivered, and the health needs of Medicare beneficiaries grow increasingly complex, our national coverage determination (NCD) process must adapt to accommodate these complexities. As part of this adaptation, our national coverage decisions often include multi-faceted coverage determinations, which may place conditions on the patient populations eligible for coverage of a particular item or service, the providers who deliver a particular service, or the methods in which data are collected to supplement the delivery of the item or service (such as participation in a clinical trial).

We outline these conditions as we release new or revised NCDs. However, details surrounding these conditions may need to be shared with the public as “one-time notices” in the Federal Register. For example, we may require that a particular medical service may be delivered only in the context of a CMS-recognized clinical research study, which was not named in the NCD itself. We would then use Addendum XI of this notice, along with our coverage Web site at http://www.cms.hhs.gov/coverage, to provide the public with information about the clinical research study that it ultimately recognizes.

Addendum XI includes any additional information we may need to share about the conditions under which an NCD was issued as of the ending date of the period covered by this notice.

PET for Dementia Trials

We released a final decision memorandum on this topic on September 15, 2004, entitled, “Positron Emission Tomography (FDG) and Other Neuroimaging Devices for Suspected Dementia.” This decision stated that Medicare will consider an FDG-PET scan reasonable and necessary in patients with mild cognitive impairment or early dementia only in the context of an approved clinical trial that contains patient safeguards and protections to ensure proper administration, use and evaluation of the FDG-PET scan. Since then, we have reviewed a trial at University of California, Los Angeles (UCLA) that meets the criteria set forth in our NCD.

This Federal Register notice serves to announce that we have entered into a contract with the principal investigator of the trial, “Metabolic Cerebral Imaging in Incipient Dementia: Early and Long-Term Value of Imaging Brain Metabolism.” This trial is being conducted at several sites, but is headquartered at UCLA. We have entered into a contract with the trial's principal investigator at UCLA so that we can purchase the data necessary to determine that the service is being provided within the trial in a manner consistent with the requirements under the NCD. By signing a statement of work with UCLA, we now have the clinical setting framework in place so that Medicare can begin paying for PET scans under its 2004 NCD.

Since the trial is now CMS-approved, Medicare-participating participants may be eligible for coverage of the FDG-PET scans and routine clinical costs. For more information on our national coverage policy, please refer to the September 2004 final decision memorandum, which is posted online at http://www.cms.hhs.gov/mcd/viewdecisionmemo.asp?id=104.

[FR Doc. 06-8266 Filed 9-28-06; 8:45 am]

BILLING CODE 4120-01-P